POSTAL SERVICE

39 CFR Part 111

New Standards for Domestic Mailing Services

AGENCY: Postal Service.

ACTION: Proposed rule; notice of further rulemaking.

SUMMARY: On September 27, 2006, the Postal Service published a proposal in the Federal Register (71 FR 56587) providing new mailing standards to accompany the R2006-1 price change proposal currently before the Postal Rate Commission. In this revised proposal we respond to the comments we received, summarize our changes, and further revise the mailing standards.

Our pricing proposal reflects changes in operations and the marketplace and will enhance efficiency, offer more choices, and ensure that all types of mail cover their costs. We include incentives to create mailpieces compatible with our processing systems and to deposit flats and parcels closer to where they are delivered.

Our proposal includes a new “forever stamp” to make future price changes more convenient for consumers. The forever stamp will always equal the First-Class Mail single piece 1-ounce letter price, without the addition of extra postage. We also propose new shape-based prices for First-Class Mail, with lower rates for many letter-size pieces over 1 ounce. Our proposal will make the Priority Mail flat-rate boxes a permanent product offering, and we will add a new 1-pound pricing option for Express Mail.

For commercial mailers we propose new sorting options to reduce the number of trays in a mailing and new scheme preparations to give mailers access to lower rates and to better align flat-size mail preparation with mail processing. We also add a new automated Address Change Service to reduce the costs associated with undeliverable-as-addressed mail. First-Class Mail parcel mailers will have new barcode options, and we propose new opportunities for mailers to combine Standard Mail and Package Services parcels in the same mailing.

Periodicals mailers will have new incentives to use efficient containers, and we revise the copalletization standards as a permanent offering to encourage more publishers to combine mailings. We also add new prices for the editorial portion of a mailing to give mailers of high-editorial-content publications access to lower, destination entry rates.

DATES: We must receive your comments on or before January 31, 2007.

ADDRESSES: Mail or deliver written comments to the Manager, Mailing Standards, U.S. Postal Service, 475 L'Enfant Plaza SW., Room 3436, Washington, DC 20260-3436. You may inspect and photocopy all written comments at USPS Headquarters Library, 475 L'Enfant Plaza SW., 11th Floor N, Washington, DC, between 9 a.m. and 4 p.m., Monday through Friday.

FOR FURTHER INFORMATION CONTACT: Joel Walker, 202-268-7261.

SUPPLEMENTARY INFORMATION: The Postal Service's request in Docket No. R2006-1 includes mail classification changes, new pricing structures, and price changes for most domestic mailing services. This proposed rule updates the revisions to Mailing Standards of the United States Postal Service, Domestic Mail Manual (DMM) that we would adopt to implement the R2006-1 price change proposal. We respond to comments on our September 27, 2006, Federal Register proposal (71 FR 56587), summarize major changes from the first proposal by class of mail and extra service, update our summary of the entire proposal, and update our proposed mailing standards. We invite your comments on all aspects of our second proposal.

You can find our September proposal at www.usps.com/ratecase, along with side-by-side comparisons of today's prices and those that are currently under review by the Postal Rate Commission. We also provide helpful information for mailers on our Web site, including frequently asked questions, press releases, and Mailers Companion articles related to the pricing change.

Overview

Our pricing strategy encourages an efficient mailstream to keep postage rates stable and to keep the mail a viable alternative for everyone. This revised proposal provides more detail to help mailers design mailpieces compatible with our processing systems and gives our customers the information they need to make good mailing decisions and access the lowest rates of postage.

In early February we will publish an additional Federal Register notice incorporating comments from this proposal to ensure mailers have adequate time to prepare for the new standards and prices. The updated notice will provide a comprehensive view of our proposal at least a month before the Postal Service Governors vote on the new prices and an early opportunity to update software and other systems.

Summary of Comments

We received comments on our mailing standards proposal from mailers, vendors, associations, and individuals. We appreciate your feedback. Of the 351 letters we received, 310 were similar comments on behalf of three nonprofit organizations that mail children's books. The other 41 comments were submitted by twenty-eight publishers, printers, and large mailers; six mailing associations; two software vendors; two individuals; one envelope vendor; one small-business owner; and one Postal Service employee.

General Comments

Many commenters commended us for publishing the proposed standards early, for planning this revised proposal and an additional notice in February, and for communicating changes via DMM Advisory, Mailers Companion, and other avenues.

Three commenters asked us to reformat our Federal Register proposal to provide more context to our mailing standards and to better highlight what we are changing. We appreciate this suggestion, and we added more of the current DMM text to our revisions—even if that text did not change—to provide context. We added a summary of changes to highlight the differences between our September proposal and this revised proposal. We also added more guidance throughout our mailing standards to help mailers read through our document and compare it to the current DMM.

Twelve commenters expressed concern about the timeframe for the rate change. Five commenters requested a 120-day timeframe to prepare software and other systems; two mailers asked for a two-year timeframe; and one mailer asked for a minimum of 90 days. Commenters cited concerns about the complexity of the rate case and limited resources to make the required changes.

The Postal Service Board of Governors sets the implementation date for the new prices and related changes. We published our mailing standards proposal in the Federal Register early in the rate change process to help mailers begin system planning and to allow for a second, updated proposal. Our February notice in advance of the Board's decision will further help mailers get ready for the change.

First-Class Mail Comments

Two commenters commended us for proposing to eliminate First-Class Mail automation carrier route rates and for emphasizing 5-digit and 3-digit preparation schemes.

Two commenters asked us to change our preparation requirements for automation heavy letters. Our experience and testing indicate that letter-size pieces over 3 ounces are most efficiently processed when they are in envelopes. Self-mailer and booklet-type pieces weighing over 3 ounces and letter-size pieces weighing over 3.5 ounces (even when enveloped) often jam and damage our equipment, the mailpieces themselves are damaged, and our mail processing speeds are significantly reduced. Therefore we will retain the current requirements.

One commenter suggested we keep the current rigidity standards for determining nonmachinable letter-size pieces. We did not change the definition of “rigidity” for letters in DMM 201.2.0. One commenter asked for clarification on the applicable rate for a rigid letter-size piece. A rigid First-Class Mail letter-size piece will pay the flat-size price.

One commenter suggested a maximum weight of 3.5 ounces for all letter-size pieces, regardless of class. We propose to change the weight limit for all First-Class Mail letter-size pieces to 3.5 ounces. Because the proposed rate structure does not support a piece/pound rate for Standard Mail machinable and nonmachinable letters, we cannot propose a 3.5-ounce limit for those pieces.

Two commenters expressed concern about customers' and employees' ability to determine postage under the new shape-based pricing for First-Class Mail. To ensure a smooth transition for both retail and business mailers, we are developing an in-depth communications and training plan to ensure both employees and customers have the knowledge they need to determine the correct postage.

Six commenters asked us to clarify our definition of a “full” letter tray, and one commenter requested tolerance when trays are not quite filled to 85 percent capacity. Vendors commonly set presort software parameters at 85 percent capacity today, and most software includes defaults to that setting. Because fuller trays will help reduce costs and keep postage rates stable, we proposed this change to signal all mailers to set their software for trays that are at least 85 percent full. Acceptance personnel will work with mailers when they identify trays that appear less than full, as they do today, so mailers can make adjustments on future mailings.

Ten commenters requested clarification of the no-overflow tray option for automation letters. One commenter asked us to emphasize that presort bureaus likely will not use the option for combined mailings. Three commenters asked that we allow mailers to implement the no-overflow tray option selectively within a mailing.

We have been working with software vendors to identify different mail preparation scenarios and how presort software will handle them. We encourage mailers to use the option by clarifying that pieces moved back to a higher tray level will count toward the 150-piece requirement for the qualifying rate level. We acknowledge that the option may not be realistic in all mailing environments and emphasize that it is an option. We have adopted the commenters' proposal to allow mailers to selectively apply the option by 3-digit or automated area distribution center (AADC) destinations in any single mailing, and we modified the standards to reflect this change.

We received two comments about the forever stamp. The first commenter agreed with the standards as proposed but asked us to change the Domestic Mail Classification Schedule to be consistent with the DMM. The Domestic Mail Classification Schedule is consistent with the DMM. Forever stamps will be used like other First-Class postage stamps. The second commenter asked us to clarify the use of forever stamps. Forever stamps may be used on single-piece mail and may not be used for discount mailings.

We received three comments about First-Class Mail parcels. One commenter suggested we not require 5-digit/scheme and 3-digit preparation. We have adopted the suggestion to make 5-digit/scheme preparation optional to be consistent with Standard Mail parcel preparation. A second commenter asked why we would apply a surcharge to nonbarcoded First-Class Mail, Standard Mail, and Parcel Post parcels while giving a discount to barcoded Media Mail, Library Mail, and Bound Printed Matter parcels. Although the rate structures differ, we are consistent in our objective to encourage barcodes on parcels. Whether a customer pays a surcharge for failing to barcode a parcel or receives a discount for applying a barcode, we are providing an incentive to barcode parcels. A third commenter said it was not clear from the proposal if we would process First-Class Mail parcels on the Automated Package Processing System (APPS). If a mail processing facility has an APPS, that facility will very likely use it to process APPS-machinable parcels when they are not in 5-digit containers.

One commenter noted that the additional-ounce rate is not the same for all ounce increments in our proposal. Presort bureaus will have to separate pieces that cannot be delivery point barcoded by weight to ensure correct postage is paid. The commenter requested we adjust the pricing proposal by making the additional-ounce rates consistent.

The request to adjust the additional-ounce prices is outside the scope of our mailing standards proposal. The commenter is correct that pieces coded only with a 5-digit barcode because of, for example, an incomplete address or missing address elements, must be separated by ounce increment or properly documented to account for postage.

One commenter asked if we will update the rate and fee schedules for Business Reply Mail (BRM) to include First-Class Mail flats and parcels and Priority Mail rates above 13 ounces. The commenter asked us to clarify the First-Class Mail BRM rate for pieces that weigh over 3.5 ounces. BRM pays the per-piece fee plus the applicable First-Class Mail or Priority Mail rate. The rate for a letter-size piece over 3.5 ounces is the First-Class Mail flat-size rate. The application of the proposed fees for BRM mirror what is now in place.

Standard Mail Comments

Nineteen commenters disagreed with or made suggestions regarding the proposed standards for flat-size mail. Most of these commenters asked for a clearer, more objective test for flexibility to determine whether a piece may be mailed at flat-size rates. Some commenters asked us to better describe the amount of force used during the flexibility test. In response to these comments we revised the standards to change the point where pressure is applied to 1 inch from the extended outer edge, and we added a requirement that the piece must pass the test when extended from both ends. This new test more specifically identifies the types of pieces that will not process efficiently on our automated flat sorting equipment or handle efficiently in delivery. We will advise our employees to use a steady pressure that stops short of breaking the mailpiece or its contents. When they begin to feel resistance due to rigidity, the pressure should be stopped at that point.

Three commenters stated that, when describing the flexibility test, the phrase “damage to the mailpiece” is too subjective and could be interpreted to mean even a crease in the binding of a magazine or catalog. We do not consider a crease in the binding to be damage to the mailpiece. Generally magazines, catalogs, and similarly bound mailpieces will meet our flexibility standards, unless they contain rigid enclosures or attachments, or they are placed in rigid packaging. We will instruct acceptance employees to exclude ordinary magazines, catalogs, and similarly bound publications from the new flexibility test. Mailers should note that boxes generally are not acceptable for efficient flats processing and delivery and would likely fail the flexibility test.

Several commenters asked us to clarify the uniform thickness standard that we proposed to expand to all flat-size mail. In response to these comments, we relaxed the current definition and redefined “uniform thickness” in DMM 301.1.5 to allow for a variation in thickness up to ¼ inch with selvage limitations.

Three commenters were concerned that the deflection test for flimsy automation flats might be too strict, and they asked us to clarify the test. In response to these comments, we revised the deflection test to allow deflection (“droop”) to within 1 inch of the extended length, with a maximum deflection of 4 vertical inches. An 8-inch-long piece, extended out 4 inches, could deflect down as far as 3 inches and still be an automation-compatible flat. Pieces that fail the deflection test still may be eligible for nonautomation flat-size rates. At this time, the deflection test does not apply to enhanced carrier route (ECR) flats.

To further clarify the standards for flexibility and deflection, we are developing illustrations for the DMM that show how the tests are applied.

Sixteen commenters requested clarification about the new Not Flat-Machinable category of Standard Mail. We clarified the definition of a Not Flat-Machinable piece as follows:

Not Flat-Machinable pieces are rigid, with the following dimensions:

1. At least 4 inches high, but not more than 12 inches high.

2. At least 4 inches long, but not more than 15¾ inches long.

3. At least 0.009 thick, but not more than 1¼ inches thick. (Pieces less than 5 inches long must be over ¼ inch thick.)

Almost all Not Flat-Machinable pieces will fall within this definition. But Not Flat-Machinable pieces are also:

Flexible pieces that are at least 4 inches high, but not more than 12 inches high, with either of the following dimensions:

1. Over 15 inches long, but not more than 15¾ inches long.

2. Over ¾ inches thick, but not more than 1¼ inches thick.

Or nonmachinable letter-size pieces weighing more than 3.3 ounces, unless they qualify to be mailed at automation flat-size rates.

We created a decision tree to further help mailers determine if a piece is Not Flat-Machinable. We will publish the decision tree in the DMM Advisory and in a new Quick Service Guide for Not Flat-Machinable mail. The DMM Advisory message board and the Quick Service Guides are available on Postal Explorer at pe.usps.com. You can receive DMM Advisory updates via e-mail by sending a message to dmmadvisory@usps.com (indicate “subscribe” in the subject line).

One commenter asked us to allow Bulk Parcel Return Service (BPRS) for returns of Not Flat-Machinable pieces. BPRS is available only for Standard Mail machinable parcels. We are not proposing to extend BPRS to Not Flat-Machinable pieces.

One commenter noted different preparation standards for NFMs weighing 6 ounces or more and NFMs weighing less than 6 ounces, stating that lighter pieces would be prepared as flats. Our preparation and labeling standards will direct NFMs to the appropriate processing facilities. The proposed preparation of NFMs 6 ounces or more mirror the preparation of Standard Mail machinable parcels that are efficiently processed at BMCs. The proposed preparation of NFMs under 6 ounces mirror the preparation of Standard Mail irregular parcels that are efficiently processed at ADCs.

One commenter noted that reconfiguring packaging is not a solution for rigid pieces that are more than .75 inch thick. Rigid pieces and pieces more than .75 inch thick cannot be processed efficiently on AFSM 100s. Our pricing proposal encourages mailers to reconfigure packaging to create flexible pieces less than .75 inch thick—for example, by redistributing contents within longer packaging.

The same commenter asked us to reassure mailers that our standards will not change after they invest in new equipment, and asked us to outline our plans for the NFM category of mail. We do not plan to categorize rigid pieces as flats because these pieces negatively impact delivery and processing operations. We will work with mailers to ensure that their pieces can be effectively and efficiently processed and delivered. The goal of the NFM category over time is to provide financial incentives to create automated flats or machinable parcels. The NFM category may be temporary if it achieves this goal.

We received 310 comments opposing the Not Flat-Machinable prices on behalf of three organizations that mail children's books. These commenters were concerned with the potential negative impact on the organizations' objectives due to the rate increase. This objection to the new rates is outside the scope of our mailing standards proposal. We encourage mailers to reconfigure their mailpieces to meet the new standards for automation flats.

Four commenters asked for a lower minimum weight for Standard Mail machinable parcels. We will address their request separately from this rate case proposal.

Two commenters noted a discrepancy at the 3-digit level between the proposed standards for irregular parcels and the proposed standards for Not Flat-Machinable pieces less than 6 ounces. We revised the proposal to require 3-digit sorting for both types of pieces.

One commenter asked us to clarify the standards for bundling parcels for destination delivery unit (DDU) entry. We require bundling only for Standard Mail irregular parcels mailed at an ECR rate to sequence carrier route mail in either line-of-travel or walk-sequence order.

Two commenters asked us to keep the processing category name “irregular parcels” rather than change it to “nonmachinable parcels.” To avoid confusion for customers, we will retain the name “irregular parcels,” and we made the appropriate changes throughout the standards.

One commenter noted we referenced the wrong labeling lists for area distribution center (ADC) and mixed ADC labeling for irregular parcels. We appreciate this comment. We corrected the labeling standards to reference labeling lists L603 and L604.

As we summarized in First-Class Mail, six commenters asked for clarification on our definition of a “full” letter tray, and one commenter requested some tolerance when trays are not quite filled to 85 percent capacity. Vendors commonly set presort software parameters at 85 percent capacity today, and most software includes defaults to that setting. Because fuller trays will help reduce costs and keep postage rates stable, we proposed this change to signal all mailers to set their software for trays that are 85 percent full. Acceptance personnel will continue to work with mailers when they identify trays that appear less than full, as they do today, so adjustments can be made on future mailings.

Also as summarized in First-Class Mail, 10 commenters requested clarification of the no-overflow tray option for automation letters. One commenter asked us to emphasize that presort bureaus likely will not use the option for combined mailings. Three commenters asked that we allow mailers to implement the no-overflow tray option selectively within a mailing.

We have been working with software vendors to identify different mail preparation scenarios and how presort software will handle them. We encourage mailers to use the option by clarifying that pieces moved back to a higher tray level will count toward the 150-piece requirement for the qualifying rate level. We acknowledge that the option may not be realistic in all mailing environments and emphasize that it is an option. We have adopted the commenters' proposal to allow mailers to selectively apply the option by 3-digit or AADC destinations in any single mailing, and we modified the standards to reflect this change.

One commenter asked us to allow full tray preparation for ECR letters to all 5-digit destinations, and for pieces weighing over 3 ounces. In response to this comment, we simplified the standards to require the same tray preparation for all automation-compatible, barcoded pieces up to 3 ounces, regardless of ZIP Code destination. We retained the 3-ounce weight limit because our experience and testing show that heavier pieces processed sequentially will slow our processing operations.

Another commenter expressed concern about allowing mailers to drop ship ECR letters to DDUs, because we would likely backhaul this mail to upstream processing facilities. We eliminated the DDU entry discount for Standard Mail letters because we often do backhaul this mail. We retained a destination sectional center facility (DSCF) entry discount for local mailers of small quantities and for letters with simplified addresses.

One commenter requested that the Postal Service not process enhanced carrier route saturation (ECRWSS) flats on automated equipment and that we should not apply the flexibility, rectangular, and uniform thickness standards to ECRWSS flats. As a reminder, current standards require most mailpieces up to ¼ inch thick to be rectangular, including ECRWSS flats. Also, most pieces mailed at ECRWSS rates are not rigid and would meet the revised uniform thickness standards that allow up to ¼ inch variation in thickness. Nonrectangular, rigid, or lumpy pieces generally are more problematic for our delivery operations. Therefore, we are retaining similar physical standards for all flat-size mailpieces.

Periodicals Comments

Two commenters objected to the $0.85 Outside-County container rate, stating that it was too expensive for many mailers. This objection to the new rate structure is outside the scope of our mailing standards proposal.

Two commenters asked us to clarify how the Outside-County container rate is applied. We revised the standards in DMM 707.1.1.3 and 707.1.2.3 to clarify how the $0.85 rate applies to sacks, trays, and pallets of Periodicals mail.

Two commenters objected to the application of the Outside-County container rate to containers of mixed class or mixed In-County and Outside-County pieces. The commenters would like us to prorate the charge to reflect only the percentage of Periodicals Outside-County mail in that mixed container. For example, if a sack contained 50 percent In-County mail and 50 percent Outside-County mail, the mailer would pay half of the $0.85 charge for that sack.

The container rate will help us cover our costs for handling Outside-County Periodicals mail. Our intent is to improve efficiency and alleviate pressure on Periodicals processing costs. We note that the container rate is an integral part of the new Periodicals pricing; we mitigated the price increase of the piece and pound rates to allow for the addition of the Outside-County container rate. To avoid imposing the Outside-County pricing structure on In-County Periodicals mail, we revised the standards to exempt carrier route, 5-digit carrier routes, and 5-digit/scheme containers of mixed In-County and Outside-County pieces from the container charge.

Four commenters objected to the options we proposed for paying the Outside-County container rate in a comailing environment. Initially we proposed that consolidators report the charge on one publisher's Form 3541, or report and pay on one consolidated statement, Form 3541-C. Three commenters asked us to allow a consolidator to prorate the container charge on each individual postage statement. The commenters felt that this method would most accurately allot the appropriate charge to each mailer and would avoid a situation where the consolidator must pay the charge and bill mailers after the mailing is entered. One commenter noted possible ramifications for sales taxes.

We added a third option to allow consolidators to prorate the container charge on each postage statement in the pool if they electronically submit their qualification report using Mail.dat. We provide the new standards and all options for calculating and paying the Outside-County container charge in DMM 707.2.2.7 and 707.16.4.

Two commenters asked us to clarify our standards for Periodicals automation flats. The standards for Periodicals automation flats are essentially unchanged. We reorganized the current UFSM 1000 criteria into the Periodicals standards in the DMM to reflect that this alternative preparation for automation flats is still available for Periodicals mail. This alternative allows Periodicals mailers to continue to claim automation rates based on the current UFSM 1000 criteria. We clarified the standards in DMM 707.25.3.1 to specify that they are an exception to the standards in DMM 301.3.3 for Periodicals flat-size mail.

One commenter asked us to expand and clarify the standards for polywrap seam placement on Periodicals mail. While we are not changing the standards for seam placement, we simplified and clarified the polywrap standards for all types of automation-rate flats, including Periodicals flats, in a Federal Register notice on January 5, 2007 (72 FR 468).

One commenter requested new mailing standards to allow comailing of mixed-class mail. We note the commenter's request, and we will provide the new standards in a separate rulemaking. Comailing of mixed-class mail is outside the scope of this proposal.

Package Services Comments

Three commenters opposed eliminating the single-piece Bound Printed Matter (BPM) rate for retail customers. Our proposal is designed to simplify options at the retail counter. Mailers still may use Express Mail, Priority Mail, Parcel Post, and Media Mail services in any post office. BPM is essentially a bulk service, and customers can mail residual pieces at nonpresorted BPM rates using PC Postage, meter postage, and adhesive stamps. Mailers can deposit nonpresorted BPM pieces in a collection box or with their letter carrier.

Priority Mail Comments

Two commenters supported our overall efforts to align prices with costs but expressed concern that dimensional-weight pricing may be too complex for some customers. Dimensional weighting is an industry-wide practice used by UPS, FedEx, DHL, and other postal administrations such as Canada Post and Australia Post. Many mailers are generally familiar with dimensional weighting. Retail customers can bring Priority Mail parcels to any post office and (if necessary) we will weigh, measure, and compute postage for them. Our Point of Service (POS) terminals will determine whether to base the postage on the actual weight or the dimensional weight of the piece and will calculate the correct price.

One commenter suggested that we clarify what we mean by “rounding off” and “rounding up” when determining dimensional-weight pricing. We appreciate this suggestion and added references in the Priority Mail standards to the “Rounding Numerical Values” information in DMM 604.8.0.

One commenter expressed concern that dimensional-weight pricing will add complexity to retail transactions, especially in smaller post offices that lack computerized scales and terminals. We are developing a comprehensive communications and training plan to ensure all employees can efficiently determine postage for Priority Mail.

Extra Services Comments

Two commenters stated that the proposed structure for Confirm eliminates the unlimited use option and, although the fee declines with volume, mailers who use Confirm the most will pay the highest increase. This objection to the new rate structure is outside the scope of our mailing standards proposal.

One commenter asked us to explain how we would implement the new Confirm prices and how we would give credit for existing subscriptions. We are considering options to provide full value for customers currently participating in Confirm. Alternatives include “grandfathering” current prices and subscriptions until their scheduled expirations, or terminating current subscriptions and crediting forward the full value of any remaining time and unused scans associated with those subscriptions.

Addressing Comments

We received two comments encouraging us to adopt move update requirements for other than First-Class Mail to improve address quality and reduce undeliverable-as-addressed mail. We will continue to tighten address quality standards, but expanding the move update requirements is not a part of this proposal.

Several commenters asked that we move the proposed ZIP+4 requirements for all letters and flats out of the rate case proposal and handle them in a separate rulemaking. We wanted to provide advance notice but will provide details in a separate rulemaking.

Two commenters asked us to publish a notice for comment if we ever planned to expand the use of simplified addressing for city routes. Simplified addressing for city routes is outside the scope of this proposal.

Major Changes Since the September Proposal

First-Class Mail Changes

We added language to DMM 235.6.0 to clarify that the no-overflow option for First-Class Mail automation letters applies to pieces placed in the next tray level when a tray of 150 or more pieces can be made. We changed the application of the no-overflow option in DMM 235.6.0 to allow mailers to apply it selectively for letters to 3-digit and AADC destinations. We clarify that pieces that move back to a higher tray level count toward the 150-piece requirement for the rate level.

We relaxed the flexibility test in DMM 101.2.0 and 301.1.0 for all flat-size mail to apply pressure within 1 inch of the extended ends. We modified the uniform thickness standard in DMM 101.2.0 and 301.1.0 for all flat-size mail to allow for up to ¼-inch variance in thickness. We also relaxed the deflection test in DMM 301.3.0 for automation flats by allowing deflection to within 1 inch of the extended length, with a maximum vertical drop of 4 inches.

We made 5-digit/scheme preparation optional for First-Class Mail presort parcels to be consistent with Standard Mail parcel preparation. We added new standards in DMM 402.4.3 for placing POSTNET barcodes on First-Class Mail parcels. Mailers must place the POSTNET barcode on the address side, at least ⅛ inch from all edges of the piece. We revised ADC rate eligibility in DMM 433.4.3 to include presorted parcels in 3-digit origin/entry sacks and parcels in ADC sacks.

Standard Mail Changes

We added an option to allow mailers to prepare origin entry 3-digit/scheme trays and sacks for Standard Mail letters, flats, and parcels. The original proposal required origin entry 3-digit/scheme trays for automation letters but did not provide an option for other letters or for flats and parcels. Our revision gives mailers the option to make separate trays or sacks of mail when they have even a small quantity of mail for each 3-digit or 3-digit scheme ZIP Code area processed by the sectional center facility (SCF) servicing the origin or entry office.

We clarified in DMM 245.7.0 that the no-overflow option for automation letters applies to pieces placed in the next tray level when a full tray or a tray of 150 or more pieces can be made. We changed the application of the no-overflow option in DMM 245.7.0 to allow mailers to apply it selectively for letters to 3-digit and AADC destinations.

We expanded full-tray preparation in DMM 245.6.7 for barcoded carrier route letters (up to 3 ounces) sorted to all destinations, instead of those ZIP Codes receiving a DPS sort (ZIP Codes with “C” and “D” indicators in the USPS City State Product).

We clarified the definition of a Not Flat-Machinable piece in DMM 401.2.2.2. We clarified in DMM 243.3.0 that mailers must mark nonmachinable letters over 3.3 ounces that pay Not Flat-Machinable rates as “Not Flat-Machinable” or “NFM.” We also refer to these marking requirements in DMM 402.

We relaxed the flexibility test in DMM 301.1.0 for all flat-size mail to apply pressure within 1 inch of the extended ends. We modified the uniform thickness standard in DMM 301.1.0 for all flat-size mail to allow for up to ¼-inch variance in thickness. We also relaxed the deflection test in DMM 301.3.0 for automation flats by allowing deflection to within 1 inch of the extended length, with a maximum vertical drop of 4 inches.

We revised the standards for sorting irregular parcels and Not Flat-Machinable pieces under 6 ounces to require 3-digit sorting. We also made 5-digit and 5-digit scheme sorting optional but required for the 5-digit rate for all Standard Mail parcels and Not Flat-Machinable pieces. We removed the facing and loose packing requirements for irregular parcels in DMM 445.5.4.3.

We provided alternative labeling lists—L004 and L009—for irregular parcels over 2 ounces (except for rolls and tubes) sorted to ADCs and mixed ADCs. We corrected the standards for other irregular parcels labeled to ADCs and mixed ADCs to reference labeling lists L603 and L604.

We added new standards in DMM 402.4.3 for the placement of POSTNET barcodes on Not Flat-Machinable pieces. Mailers must place the POSTNET barcode on the address side, at least ⅛ inch from all edges of the piece. We also revised standards to apply the barcoding requirements for parcels to Not Flat-Machinable pieces with parcel barcodes.

Periodicals Changes

We revised the standards in DMM 707.1.1.3 and 707.1.2.3 to clarify how the $0.85 Outside-County container rate applies to trays, sacks, and pallets of Periodicals mail. We also exempt mixed containers of In-County and Outside-County pieces in carrier route, 5-digit carrier routes, and 5-digit/scheme containers from the $0.85 charge.

We added an option to allow consolidators to prorate the Outside-County container charge on each mailer's postage statement in a mailing pool if they electronically submit a qualification report using Mail.dat. We provide the new standards and all options for calculating and paying the Outside-County container charge in DMM 707.2.2.7 and 707.16.4. We also added new requirements for standardized documentation in 708.1.2.

We reorganized the current UFSM 1000 criteria into the Periodicals standards in the DMM to reflect that this alternative preparation for automation flats is still available for Periodicals mail. This alternative allows Periodicals mailers to continue to claim automation rates based on the current UFSM 1000 criteria. We clarified the criteria for automation flats in DMM 707.25.3.1 to specify that these standards are an exception to DMM 301.3.3 for Periodicals flat-size mail.

Updated Summary by Class of Mail

Summary of First-Class Mail

Our proposal introduces prices based on the shape of mail and our relative costs, with separate prices for letters, flats, and parcels. As shape becomes more important, weight becomes less important, and our proposal reduces prices for many letter-size pieces over 1 ounce.

The single-piece 1-ounce First-Class Mail letter price will increase $0.03, to $0.42, and the single-piece card price also will increase $0.03, to $0.27. The additional-ounce price will decrease $0.04, to $0.20.

We propose a forever stamp to make future price changes more convenient for consumers. The postage value of the forever stamp will equal the First-Class Mail single-piece 1-ounce letter rate at any time in the future, without the addition of extra postage.

Our pricing proposal will eliminate the nonmachinable surcharge. Instead, a letter-size mailpiece with nonmachinable characteristics will pay the flat-size price. Our additional handling costs are included in the proposed 1-ounce flat-size price, so no surcharge is necessary. To qualify for letter rates, the maximum weight for letter-size pieces will be 3.5 ounces.

The additional-ounce price for automation letters will decrease from $0.237 to $0.155. We will maintain the 150-piece minimum tray preparation requirement for automation First-Class Mail letters and cards. Sort levels will be 5-digit/scheme, 3-digit/scheme, 3-digit origin, AADC, and mixed AADC. We propose a simplified letter mail preparation for machinable letters, requiring mailers to sort only to the origin 3-digit, AADC, and mixed AADC levels. We propose to eliminate the carrier route automation preparation since it provides little value for our processing operations.

To ensure automated processing of flat-size mail, we will require all flats to be rectangular. The physical standards for automation flats will be the criteria for AFSM 100 pieces, with new standards for flexibility. We also propose to lessen and simplify the deflection standard.

To help reduce the number of “air trays” and the overall costs of handling mail in letter trays, we propose a no-overflow tray option for automation letters. In addition, to encourage fuller trays, we propose to change our definition of a “full letter tray” to one in which the pieces fill the length of the tray between 85 percent and 100 percent full.

The structure for discount parcels includes new workshare prices. The proposed rate levels are 5-digit, 3-digit, ADC, and single piece. To simplify the preparation of First-Class Mail parcels, we propose to make the preparation of 5-digit sacks optional. We will require at least 10 pounds of parcels for 5-digit sacks, 3-digit sacks, and ADC sacks. Remaining pieces sorted to a mixed ADC sack will pay the single-piece First-Class Mail parcel price.

Barcodes help processing on APPS, and we will give mailers the option of applying either a 5-digit UCC/EAN 128 or a POSTNET barcode on presorted parcels. Unless prepared in 5-digit/scheme containers or paid at the single-piece rates, we will apply a surcharge to all parcels that are not barcoded or weigh less than 2 ounces, or to irregularly shaped parcels such as triangles, tubes, rolls, and similar pieces.

Summary of Standard Mail

Our proposed prices encourage mail that is compatible with our operations and drop shipped closer to its destination. As in First-Class Mail, Standard Mail pricing has greater recognition of shape and reduced reliance on weight.

Automation letter sort levels will be 5-digit/scheme, 3-digit/scheme, AADC, and mixed AADC. We propose a simplified preparation to allow mailers of machinable letters to sort only to the AADC and mixed AADC levels. Mailers will have the option to prepare origin 3-digit trays for automation and machinable letters.

Nonmachinable letter sort levels will be 5-digit, 3-digit, ADC, and mixed ADC. Mailers will have the option to prepare origin 3-digit trays for nonmachinable letters. We will replace the nonmachinable surcharge with a separate rate structure for nonmachinable letters up to 3.3 ounces. Nonmachinable letters over 3.3 ounces will pay the Not Flat-Machinable rate or automation flat-size rate, if the pieces meet the standards for automation flats.

DDU entry rates will not be available for ECR letters. However, we will allow DSCF entry rates for DDU entry of some enhanced carrier route letters, including letters with simplified addresses and locally entered small-volume mailings. We will eliminate ECR automation basic rates because this preparation has little value for our mail processing operations.

To help reduce the number of “air trays” and the overall costs of handling mail in letter trays, we propose a no-overflow tray option for automation letters. In addition, to encourage fuller trays, we propose to change our definition of a “full letter tray” to one in which the pieces fill the length of the tray between 85 percent and 100 percent full.

The physical standards for automation flats will retain most of the criteria for AFSM 100 pieces, with new standards for flexibility. This change will maximize the number of flats we can process in automated operations and deliver as flats. We propose to relax the current deflection standard to better define the types of pieces we can currently process on our AFSM 100 automated flat processing equipment.

For consistency, we propose to increase the maximum size for carrier route flats so that the same maximum size applies to all flats, regardless of the rate paid. We will expand the current requirements for automation flats to all flat-size pieces to be rectangular and uniformly thick. We also provide a new, relaxed definition of “uniformly thick” to better define the types of pieces we can process on our automated flat processing equipment and handle efficiently at delivery.

Our proposal includes a new Not Flat-Machinable classification for rigid flat-size pieces and pieces that are currently claiming automation flat rates based on UFSM 1000 standards. We propose no bundling for most Not Flat-Machinable pieces and to have mailers prepare pieces in 5-digit/scheme, 3-digit, ADC/bulk mail center (BMC), and mixed ADC/BMC containers. To simplify the preparation of Not Flat-Machinable pieces, we propose to make the 5-digit/scheme level optional. To give mailers access to deeper discounts, we propose 5-digit rates for 5-digit bundles prepared on pallets. In addition, we propose a DDU entry discount for Not Flat-Machinable pieces sorted to 5-digit destinations when drop shipped directly to the DDU. There will be no minimum quantity for Not Flat-Machinable pieces drop shipped to DDUs. Barcodes help processing on APPS, and we will give mailers the option of applying either a 5-digit UCC/EAN 128 or a POSTNET barcode on pieces under 6 ounces. Unless prepared in 5-digit/scheme containers, we will apply a surcharge to all Not Flat-Machinable pieces that are not barcoded.

We propose to eliminate the residual shape surcharge for Standard Mail parcels and replace it with a separate rate structure. We will no longer offer a $0.03 machinable barcode discount. Instead, parcel prices will include a requirement for barcodes. Unless prepared in 5-digit containers, we will apply a surcharge to all parcels that are not barcoded.

We will remove the bundling requirement for all Standard Mail irregular parcels except ECR pieces. We propose to reduce the required minimum quantity of irregular parcels in sacks to 10 pounds per sack.

We propose four new options for mailers to combine parcels. We propose commingling Standard Mail and Package Services machinable parcels, irregular parcels, and the new Not Flat-Machinable pieces in 5-digit containers. We would allow mailers to combine Not Flat-Machinable pieces under 6 ounces with irregular parcels in 3-digit, ADC, and mixed ADC containers. We would allow mailers to combine Not Flat-Machinable pieces weighing 6 ounces or more with machinable parcels in BMC/ASF and mixed BMC containers. We would also allow mailers to combine Standard Mail parcels, NFMs, machinable Parcel Select, and BPM parcels in 3-digit containers to certain ZIP Codes when entered at designated SCFs.

The DDU discount currently is available only for pieces sorted to carrier routes. To give mailers access to deeper destination entry discounts, we will allow a DDU entry discount for parcels sorted to 5-digit destinations when drop shipped directly to the DDU. There will be no minimum for the quantity of parcels drop shipped to a DDU.

Customized MarketMail is a type of Standard Mail that allows business mailers to send distinctive, unusually shaped advertising pieces to their customers. Mailers will still have the option to use Customized MarketMail. Rates will equal the nonentry 5-digit rate for Not Flat-Machinable pieces.

Mailers still will have the option of using detached address labels. To help cover our handling costs, we propose a new $0.015 charge for detached address labels with ECR saturation flat-size pieces. Mailers who prepare mail with addresses on their mailpieces will avoid the new charge.

Summary of Periodicals

Our proposed Periodicals prices encourage mailers to use pallets rather than sacks. We also enhance drop ship incentives to encourage mailers, including publishers of high-editorial-content publications, to enter Outside-County mail closer to its destination. Our proposal will also make the experimental copalletization standards a permanent option for mailers.

Our pricing proposal includes a new $0.85 Outside-County container rate. We will apply the container rate to any pallet, sack, or tray of Outside-County Periodicals mail, except for mixed containers of In-County and Outside-County pieces in carrier route, 5-digit carrier routes, and 5-digit/scheme containers. We also propose new drop ship prices based on nonadvertising pounds, in addition to increased per-piece drop ship discounts.

To encourage fuller letter trays, we propose to change our definition of a “full letter tray” to one in which the pieces fill the length of the tray between 85 percent and 100 percent full.

Summary of Package Services

Package Services includes Parcel Post, Bound Printed Matter, Media Mail, and Library Mail. Our proposal simplifies Package Services offerings and encourages more efficient handling of parcels.

Parcel Post

Currently, we charge parcels weighing less than 15 pounds and measuring more than 84 inches in combined length and girth the 15-pound rates (“balloon rate”). Under our proposal, we will charge parcels weighing less than 20 pounds and measuring more than 84 inches in combined length and girth the 20-pound rates.

We will incorporate the current $0.03 barcode discount available for machinable Parcel Select destination bulk mail center (DBMC) entry mail into the price and we will require a barcode. Nonbarcoded machinable pieces could claim only the applicable Intra-BMC/ASF rate.

We do not propose any changes to mail preparation standards for Parcel Select.

Bound Printed Matter

We will rename single-piece Bound Printed Matter “nonpresorted” Bound Printed Matter, and we will eliminate it as a retail option. Customers can still use PC Postage or apply meter postage or adhesive stamps to nonpresorted BPM and deposit these pieces in a collection box or give them to their letter carrier. We will increase the $0.08 discount from the parcel price for flat-size pieces to $0.16. We will not change the $0.03 per piece POSTNET barcode discount for flat-size mail and the $0.03 per piece parcel barcode discount for machinable parcels.

To reduce sacks, we propose to require 5-digit/scheme and 3-digit/scheme bundles and 5-digit/scheme sacks for presorted flat-size Bound Printed Matter. We propose to require 5-digit/scheme bundles for irregular parcels that weigh less than 10 pounds each and 5-digit/scheme sacks for machinable and irregular parcels.

Media Mail and Library Mail

To reduce sacks, we propose to require 5-digit/scheme and 3-digit/scheme bundles and 5-digit/scheme sacks for presorted flat-size Media Mail and Library Mail. We propose to require 5-digit/scheme bundles for irregular parcels and 5-digit/scheme sacks for machinable and irregular parcels.

Summary of Priority Mail

We continue to offer convenience in Priority Mail. The USPS-produced flat-rate envelope still will pay the 1-pound price, $4.65 under the proposal, regardless of weight or destination. USPS-produced flat-rate boxes will pay $8.80 under the proposal, regardless of weight or destination, and will become a permanent offering. Prices for all Priority Mail pieces weighing over 25 pounds will decrease for all zones, many by as much as 20 percent.

Currently, we charge Priority Mail pieces weighing less than 15 pounds and measuring more than 84 inches in combined length and girth the 15-pound rates (“balloon rate”). Under the proposal, we will charge Priority Mail pieces weighing less than 20 pounds and measuring more than 84 inches in combined length and girth the 20-pound rates. We will apply the new balloon rate only to pieces addressed for local delivery and to zones 1-4.

Priority Mail pieces that exceed 1 cubic foot and are addressed to zones 5-8 could be subject to a new dimensional-weight price. We will rate postage for these pieces at the greater of their actual weight or their dimensional weight. In general, if a piece is relatively light for its size, it may be subject to a dimensional-weight price. We will calculate dimensional weight using one of two formulas, one for rectangular and one for nonrectangular pieces.

Summary of Express Mail

Express Mail pieces often contain material that ranges from a half pound to 2 pounds. Currently, these pieces pay the 2-pound price. To keep Express Mail a viable alternative for mailers, the pricing proposal adds a new 1-pound price.

The flat-rate envelope will continue to pay the half-pound price, regardless of weight.

Summary of Extra Services

Our proposal keeps insured mail reliable, easy, and affordable. All insured pieces will have a barcoded label and receive a delivery scan. We will not require a signature at delivery for insured items with an indemnity of $200 or less.

We propose new prices for Bulk Parcel Return Service, Business Reply Mail, Certificate of Mailing, Certified Mail, Collect on Delivery, Delivery Confirmation, Bulk Insurance, Express Mail Insurance, Merchandise Return Service, Money Orders, Parcel Airlift, Parcel Return Service, Registered Mail, Restricted Delivery, Return Receipt, Return Receipt for Merchandise, Signature Confirmation, and Special Handling.

Summary of Other Services

Our proposal seeks to modernize our services, improve address quality, and reduce undeliverable-as-addressed mail.

We will decrease the price for Address Change Service electronic option for First-Class Mail from $0.21 to $0.06. We will increase the price for all other classes of mail from $0.21 to $0.25. We will decrease the price for Manual Address Correction Service for all classes of mail from $0.75 to $0.50.

A new automated option for Address Change Service will allow First-Class Mail letters to receive the first two notices at no charge, then each additional notice for $0.05 each. Standard Mail letters will receive the first two notices at $0.02, then each additional notice for $0.15 each. This new option will require mailers to use the new 4-State Customer Barcode.

We propose to change the fee structure for Confirm service from the Silver, Gold, and Platinum tiers to a unit-based structure. Customers will pay standardized annual fees and purchase blocks of units that are redeemed for Confirm scans. Customers can redeem units at the rate of one unit per First-Class Mail scan or five units per scan for any other class of mail. The cost per block of units declines as volume thresholds are reached.

We no longer offer on-site meter services. We eliminate the fees associated with on-site meter service, meter resetting, examination, and checking meters in and out of service.

Individual post office box holders at different locations may experience varying price changes as we continue to align prices with our costs for each location. Our proposal will also realign the Caller Service fees.

We propose price changes for Address Sequencing Service, Mailing List Service, Permit Imprint fees, Pickup on Demand service, Premium Forwarding Service, Shipper Paid Forwarding, Stamped Cards, Stamped Envelopes, and all annual mailing fees.

We provide the updated DMM standards, and how they are applied for each type of mail, below.

Although we are exempt from the notice and comment requirements of the Administrative Procedure Act (5 U.S.C 410 (a)), we invite your comments on the following proposed revisions to Mailing Standards of the United States Postal Service, Domestic Mail Manual (DMM), incorporated by reference in the Code of Federal Regulations. See 39 CFR Part 111.

List of Subjects in 39 CFR Part 111

Administrative practice and procedure, Postal Service.

Accordingly, 39 CFR Part 111 is proposed to be amended as follows:

PART 111—[AMENDED]

1. The authority citation for 39 CFR part 111 continues to read as follows:

Authority: 5 U.S.C. 552(a); 39 U.S.C. 101, 401, 403, 404, 414, 3001-3011, 3201-3219, 3403-3406, 3621, 3626, 5001.

2. Revise the following sections of Mailing Standards of the United States Postal Service, Domestic Mail Manual (DMM), as follows:

100 Retail Mail: Letters, Cards, Flats, and Parcels

101 Physical Standards

1.0 Physical Standards for Letters

1.1 Dimensional Standards for Letters

Letter-size mail is:

* * * * *

[Renumber item c as item d. Insert new item c as follows:]

c. Not more than 3.5 ounces.

* * * * *

1.2 Nonmachinable Criteria

A letter-size piece is nonmachinable if it has one or more of the following characteristics (see 601.1.4 to determine the length, height, top, and bottom of a mailpiece):

[Renumber items a through i as items b through j. Insert new item a as follows:]

a. Is over 3.5 ounces.

* * * * *

2.0 Physical Standards for Flats

2.1 General Definition

Flat-size mail is:

* * * * *

[Renumber item c as new item f. Insert new items c through e as follows:]

c. Flexible (see 2.2).

d. Rectangular.

e. Uniformly thick (see 2.3).

* * * * *

[Insert new 2.2 through 2.4 as follows:]

2.2 Minimum Flexibility Criteria for Rigid Pieces

Flat-size pieces must be flexible. Test flexibility as follows:

a. For pieces 10 inches or longer:

1. Place the piece with the length perpendicular to the edge of a flat surface and extend the piece 5 inches off the surface.

2. Press down on the piece at a point 1 inch from the outer edge, in the center of the piece's width, exerting steady pressure.

3. Turn the piece around and repeat steps 1 and 2. The piece is flexible if both ends can bend at least 2 inches without being damaged.

b. For pieces less than 10 inches long:

1. Place the piece with the length perpendicular to the edge of a flat surface and extend the piece one-half of its length off the surface.

2. Press down on the piece at a point 1 inch from the outer edge, in the center of the piece's width, exerting steady pressure.

3. Turn the piece around and repeat steps 1 and 2. The piece is flexible if both ends can bend at least 1 inch without being damaged.

2.3 Uniform Thickness

Flat-size mailpieces must be uniformly thick so that any bumps, protrusions, or other irregularities do not cause more than ¼-inch variance in thickness. (Do not consider the selvage when measuring variance in thickness.) If the contents are significantly smaller than the envelope, wrapper, or sleeve, mailers must secure those contents to prevent shifting of more than 2 inches within the mailpiece.

2.4 Flat-Size Pieces Not Eligible for Flat-Size Rates

Mailpieces that do not meet the standards in 2.1 through 2.3 are not eligible for flat-size rates and must pay applicable parcel rates.

* * * * *

5.0 Additional Physical Standards for Priority Mail

* * * * *

5.2 Two or More Packages

[Revise 5.2 as follows:]

With the exception of USPS-produced Priority Mail flat-rate envelopes or boxes, two or more packages may be mailed as a single parcel if they are about the same size or shape, are securely wrapped or fastened together, and do not exceed the weight or size limits.

* * * * *

6.0 Additional Physical Standards for First-Class Mail

* * * * *

6.4 Nonmachinable Pieces

6.4.1 Nonmachinable Letters

[Revise 6.4.1 as follows:]

Letter-size pieces with one or more of the nonmachinable characteristics in 1.2 are subject to the applicable postage for a flat-size piece, based on weight.

[Revise heading and text of 6.4.2 as follows:]

6.4.2 Nonmachinable Flats

Flat-size pieces that do not meet the standards in 2.0 are subject to the applicable postage for a parcel-size piece, based on weight.

* * * * *

[Delete 8.0, Additional Physical Standards for Bound Printed Matter. Renumber 9.0 and 10.0 as new 8.0 and 9.0.]

* * * * *

102 Elements on the Face of a Mailpiece

* * * * *

3.0 Placement and Content of Mail Markings

* * * * *

[Revise heading of 3.3 as follows:]

3.3 Mail Markings

[Revise first sentence of 3.3 as follows:]

Mailers must print the basic required Package Services subclass marking—“Parcel Post” or “PP,” “Media Mail,” or “Library Mail”—on each piece claimed at the respective rate. * * *

* * * * *

110 Retail Mail: Express Mail

113 Rates and Eligibility

1.0 Express Mail Rates and Fees

* * * * *

1.2 Express Mail Rate Application

[Revise 1.2 as follows:]

Except under 1.4, Flat-Rate Envelope, Express Mail items are charged the 0.5-pound rate for items up to 0.5 pound. Items over 0.5 pound are rounded up to the next whole pound. For example, if a piece weighs 0.25 pound, the weight (postage) increment is 0.5 pound; if a piece weighs 0.75 pound, the weight (postage) increment is 1 pound; if a piece weighs 1.2 pounds, the weight (postage) increment is 2 pounds.

* * * * *

120 Retail Mail: Priority Mail

123 Rates and Eligibility

1.0 Priority Mail Rates and Fees

* * * * *

1.2 Priority Mail Rate Application

[Revise 1.2 as follows:]

Except under 1.3, 1.4, and 1.5, Priority Mail rates are charged per pound; any fraction of a pound is rounded up to the next whole pound. For example, if a piece weighs 1.2 pounds, the weight (postage) increment is 2 pounds. The minimum postage amount per addressed piece is the 1-pound rate. The Priority Mail rate up to 1 pound is based on weight only; rates for pieces weighing more than 1 pound are based on weight and zone. Other charges may apply. See Exhibit 1.3, Priority Mail Rates.

1.3 Minimum Rate for Parcels to Zones 1-4

[Revise 1.3 as follows:]

Parcels addressed for delivery to Zones 1-4 (including Local) that weigh less than 20 pounds but measure more than 84 inches (but not more than 108 inches) in combined length and girth are charged the applicable zone rate for a 20-pound parcel (balloon rate).

[Delete 1.6 and 1.7; renumber 1.4 and 1.5 as new 1.6 and 1.7. Insert new 1.4 and 1.5 as follows:]

1.4 Dimensional Weight Rate for Low-Density Parcels to Zones 5-8

Postage for parcels addressed for delivery to Zones 5-8 and exceeding 1 cubic foot (1,728 cubic inches) is based on the actual weight or the dimensional weight (as calculated in 1.4.1 or 1.4.2), whichever is greater.

1.4.1 Determining Dimensional Weight for Rectangular Parcels

Follow these steps to determine the dimensional weight for a rectangular parcel:

a. Measure the length, width, and height in inches. Round off (see 604.8.0) each measurement to the nearest whole number.

b. Multiply the length by the width by the height.

c. If the result exceeds 1,728 cubic inches, divide the result by 194 and round up (see 604.8.0) to the next whole number to determine the dimensional weight in pounds.

1.4.2 Determining Dimensional Weight for Nonrectangular Parcels

Follow these steps to determine the dimensional weight for a nonrectangular parcel:

a. Measure the length, width, and height in inches at their extreme dimensions. Round off (see 604.8.0) each measurement to the nearest whole number.

b. Multiply the length by the width by the height.

c. Multiply the result by an adjustment factor of 0.785.

d. If the final result exceeds 1,728 cubic inches, divide the result by 194 and round up (see 604.8.0) to the next whole number to determine the dimensional weight in pounds.

e. If the dimensional weight exceeds 70 pounds, the parcel pays the 70-pound rate.

1.5 Flat-Rate Boxes and Envelopes

Any amount of material may be mailed in a USPS-produced Priority Mail flat-rate box or flat-rate envelope. When sealing a flat-rate box or flat-rate envelope, the container flaps must be able to close within the normal folds. Tape may be applied to the flaps and seams to reinforce the container, provided the design of the container is not enlarged by opening the sides and the container is not reconstructed in any way.

1.5.1 Flat-Rate Boxes—Rate and Eligibility

Each USPS-produced Priority Mail flat-rate box is charged $8.80, regardless of the actual weight of the piece or its destination. Only USPS-produced flat-rate boxes are eligible for the flat-rate box rate.

1.5.2 Flat-Rate Envelopes—Rate and Eligibility

Each USPS-produced Priority Mail flat-rate envelope is charged $4.65, regardless of the actual weight of the piece or its destination. Only USPS-produced flat-rate envelopes are eligible for the flat-rate envelope rate.

* * * * *

130 Retail Mail: First-Class Mail

133 Rates and Eligibility

1.0 First-Class Mail Rates and Fees

1.1 First-Class Mail Single-Piece Rate Application

The single-piece rates for First-Class Mail are applied as follows:

* * * * *

[Revise the weight limit in item b as follows:]

b. The letter rate applies to letter-size pieces that meet the standards in 101.1.1 and weigh 3.5 ounces or less, and that are not eligible for and claimed at the card rate.

[Insert new items c and d as follows:]

c. The flat rate applies to flat-size pieces that meet the standards in 101.2.1 and letter-size pieces with one or more of the nonmachinable characteristics in 101.1.2.

d. The parcel rate applies to parcel-size pieces under 101.3.0 and to flat-size pieces that do not meet the standards in 101.2.0.

* * * * *

[Delete current 1.9, Nonmachinable Surcharge, and 1.10, Applicability of Nonmachinable Surcharge. Renumber current 1.8 as new 1.9 and revise to remove references to nonmachinable surcharge in the first three sentences as follows:]

1.9 Keys and Identification Devices

Keys and identification devices (such as identification cards and uncovered identification tags) that weigh 13 ounces or less are returned at the applicable single-piece First-Class Mail parcel rate plus the fee. Keys and identification devices that weigh more than 13 ounces but not more than 1 pound are returned at the 1-pound Priority Mail rate plus the fee. Keys and identification devices weighing more than 1 pound but not more than 2 pounds are mailed at the 2-pound Priority Mail rate for zone 4 plus the fee. * * *

* * * * *

[Renumber current 1.7, Rates for Keys and Identification Devices, as new 1.10.]

* * * * *

[Restructure the rate tables in 1.4 through 1.6 into new 1.4 through 1.8 for separate letter, flat, and parcel rates.]

* * * * *

2.0 Basic Eligibility Standards for First-Class Mail

2.1 Description of Service

* * * * *

2.1.2 Rate Options

[Revise 2.1.2 to add shape-based reference as follows:]

First-Class Mail offers shape-based single-piece rates in 1.0.

* * * * *

150 Retail Mail: Parcel Post

153 Rates and Eligibility

1.0 Parcel Post Rates and Fees

1.1 Rate Eligibility

There are two Parcel Post retail rate categories: Intra-BMC and Inter-BMC. Intra-BMC and Inter-BMC Parcel Post rates are calculated based on the zone to which the parcel is addressed and the weight of the parcel. Requirements for Parcel Post rates and discounts are as follows:

* * * * *

[Revise item d as follows:]

d. Parcels that weigh less than 20 pounds but measure more than 84 inches (but not more than 108 inches) in combined length and girth are charged the applicable rate for a 20-pound parcel (balloon rate).

* * * * *

1.7 Inter-BMC/ASF Machinable Parcel Post

[Revise 1.7 as follows:]

For barcode discount, deduct $0.03 per parcel (50-piece minimum). Parcels that weigh less than 20 pounds but measure more than 84 inches (but not more than 108 inches) in combined length and girth are charged the applicable rate for a 20-pound parcel (balloon rate).

1.8 Inter-BMC/ASF Nonmachinable Parcel Post

[Revise 1.8 as follows:]

Rates include the $3.62 nonmachinable surcharge. Regardless of weight, a parcel with any of the characteristics in 101.7.2, Nonmachinable Parcel Post Standards, must pay the rate listed in Exhibit 1.9. Parcels that weigh less than 20 pounds but measure more than 84 inches (but not more than 108 inches) in combined length and girth are charged the applicable rate for a 20-pound parcel (balloon rate). The nonmachinable surcharge does not apply to parcels mailed at oversized rates or parcels sent with special handling.

* * * * *

1.10 Local and Intra-BMC/ASF Machinable Parcel Post

[Revise 1.10 as follows:]

Rates for parcels that originate and destinate in the same BMC service area are in Exhibit 1.12, Local and Intra-BMC/ASF Machinable and Nonmachinable Parcel Post Rates. For barcode discount, deduct $0.03 per parcel (50-piece minimum). Parcels that weigh less than 20 pounds but measure more than 84 inches (but not more than 108 inches) in combined length and girth are charged the applicable rate for a 20-pound parcel (balloon rate). Regardless of weight, a parcel with any of the characteristics in 101.7.2 must pay the rate for a nonmachinable parcel in 1.11.

1.11 Local and Intra-BMC/ASF Nonmachinable Parcel Post

[Revise 1.11 as follows:]

Rates include the $1.85 nonmachinable surcharge. Regardless of weight, a parcel with any of the characteristics in 101.7.2, Nonmachinable Parcel Post Standards, must pay the rates in Exhibit 1.12. Parcels that weigh less than 20 pounds but measure more than 84 inches (but not more than 108 inches) in combined length and girth are charged the applicable rate for a 20-pound parcel (balloon rate). The nonmachinable surcharge does not apply to parcels mailed at oversized rates or parcels sent with special handling.

* * * * *

[Delete Chapter 160, Retail Mail: Bound Printed Matter, in its entirety. These standards are incorporated into chapters 360 and 460.]

* * * * *

200 Discount Mail: Letters and Cards

201 Physical Standards

1.0 Physical Standards for Machinable Letters and Cards

1.1 Physical Standards for Machinable Letters

* * * * *

1.1.2 Weight Standards for Machinable Letters

[Revise 1.1.2 to change the maximum weight for First-Class Mail machinable letters to 3.5 ounces as follows:]

The maximum weight for Presorted First-Class Mail machinable letters is 3.5 ounces (0.2188 pound). The maximum weight for Standard Mail machinable letters is 3.3 ounces (0.2063 pound).

* * * * *

2.0 Physical Standards for Nonmachinable Letters

2.1 Criteria for Nonmachinable Letters

A letter-size piece is nonmachinable if it has one or more of the following characteristics (see 601.1.4 to determine the length, height, top, and bottom of a mailpiece):

[Renumber items a through i as items b through j. Insert new item a as follows:] a. Is over 3.5 ounces.

* * * * *

[Delete 2.2.2, Nonmachinable Surcharge—Letter-Size Pieces. Renumber 2.2.1 as new 2.2 and revise as follows:]

2.2 Additional Criteria for First-Class Mail Nonmachinable Letters

Letter-size pieces (except pieces eligible for and mailed at card rates) with one or more of the nonmachinable characteristics in 2.1 are subject to the rates for flat-size pieces (see 333.1.0).

[Delete 2.3.2, Nonmachinable Surcharge Not Applied. Renumber 2.3.1 as new 2.3 and revise as follows:]

2.3 Additional Criteria for Standard Mail Nonmachinable Letters

The nonmachinable rates in 243.1.5 apply to Standard Mail letter-size pieces that weigh 3.3 ounces or less and have one or more of the nonmachinable characteristics in 2.1.

3.0 Physical Standards for Automation Letters and Cards

* * * * *

3.3 Weight Standards for First-Class Mail Automation Letters and Cards

[Revise 3.3 to change the weight limit as follows:]

Maximum weight for First-Class Mail automation letters is 3.5 ounces (0.2188 pound). See 3.13.4 for pieces heavier than 3 ounces.

3.4 Weight Standards for Standard Mail Automation Letters

[Revise 3.4 to remove the reference to automation carrier route mail as follows:]

Maximum weight for Standard Mail mailed at automation and Enhanced Carrier Route high-density and saturation rates is 3.5 ounces (0.2188 pound). See 3.13.4 for pieces heavier than 3 ounces.

* * * * *

202 Elements on the Face of a Mailpiece

* * * * *

3.0 Placement and Content of Mail Markings

* * * * *

3.3 Placement of Mail Markings

* * * * *

[Revise item b, item b3, and item c to delete “AUTOCR.”]

3.4 Exceptions to Markings

Exceptions are as follows:

[Revise item a to remove references to carrier route mail as follows:]

a. Automation Letters. First-Class Mail and Standard Mail letters do not require an “AUTO” marking if they bear a DPBC or a 4-State Customer Barcode with a delivery point routing code in the address block or on an insert visible through a window. First-Class Mail letters not marked “AUTO” must bear both the “Presorted” or “PRSRT” and “First-Class” markings. Standard Mail letters not marked “AUTO” must bear the appropriate basic marking in 3.3a.

[Revise item b as follows:]

b. Manifest Mailings. The basic marking must appear in the postage area on each piece as required in 3.3a. The two-letter rate category code required in the keyline on manifest mailing pieces prepared under 705.2.0, Manifest Mailing System, meets the requirement for other rate markings.

* * * * *

230 Discount Letters and Cards: First-Class Mail

233 Rates and Eligibility

1.0 Rates and Fees for First-Class Mail

1.1 Rate Application

[Revise 1.1 to add “letter” as follows:]

Postage is based on the letter rate that applies to the weight of each addressed piece.

1.2 Rate Computation for First-Class Mail Letters

[Revise the first sentence in 1.2 to add “letter” as follows:]

First-Class Mail letter rates are charged per ounce or fraction thereof; any fraction of an ounce is considered a whole ounce. For example, if a piece weighs 1.2 ounces, the weight (postage) increment is 2 ounces. The minimum postage per addressed piece is that for a piece weighing 1 ounce.

* * * * *

[Delete 1.13, Carrier Route Automation Cards; 1.14, Carrier Route Automation Letters; and 1.16, Nonmachinable Surcharge. Renumber 1.15, Summary Presorted, Automation, and Carrier Route Rates for Cards and Letters, as new 1.13. Renumber 1.17 through 1.19 as new 1.14 through 1.16.]

* * * * *

3.0 Basic Standards for First-Class Mail Letters

3.1 Description of Service

* * * * *

3.1.2 Rate Options

[Revise 3.1.2 as follows:]

First-Class Mail letters offer shape-based single-piece rates in 133.1.0 and discounted rates in 1.0 for presorted mailings of 500 or more pieces that weigh 3.5 ounces or less.

* * * * *

3.3 Additional Basic Standards for First-Class Mail

[Revise introductory text in 3.3 as follows:]

All pieces of presorted First-Class Mail letters must:

* * * * *

[Revise the weight in item b as follows:]

b. Weigh 3.5 ounces or less.

* * * * *

4.0 Additional Eligibility Standards for Nonautomation First-Class Mail Letters

* * * * *

[Revise heading of 4.3 as follows:]

4.3 Letters With Nonmachinable Characteristics

[Revise 4.3 to delete nonmachinable surcharge as follows:]

Letters with one or more of the nonmachinable characteristics in 201.2.1 must pay the flat-size rate. In addition to the standards in 3.0, Basic Standards for First-Class Mail Letters, all pieces in a First-Class Mail Presorted nonmachinable letter-size mailing must be marked, sorted, and documented according to 235.5.3, Nonmachinable Preparation.

[Revise heading of 5.0 to delete “Carrier Route” as follows:]

5.0 Additional Eligibility Standards for Automation Rate First-Class Mail Letters

[Revise heading of 5.1 as follows:]

5.1 Basic Standards for Automation First-Class Mail Letters

All pieces in a First-Class Mail automation rate mailing must:

* * * * *

[Delete item d2. Move text in item d1 into item d as follows.]

d. Bear a delivery address that includes the correct ZIP Code, ZIP+4 code, or numeric equivalent to the delivery point barcode (DPBC) and that meets the address matching and coding standards in 5.6, Address Standards for Barcoded Pieces, and 708.3.0, Coding Accuracy Support System (CASS).

* * * * *

[Delete 5.2, Carrier Route Accuracy, and renumber 5.3 and 5.4 as new 5.2 and 5.3.]

* * * * *

5.2 Maximum Weight for Automation Letters

[Revise renumbered 5.2 to change maximum weight from 3.3 to 3.5 ounces as follows:]

Maximum weight for First-Class Mail automation letters is 3.5 ounces (0.2188 pound) (see 201.3.13.4, Heavy Letter Mail, for pieces heavier than 3 ounces).

5.3 Rate Application—Automation Cards and Letters

Automation rates apply to each piece that is sorted under 235.6.0 into the corresponding qualifying groups:

[Delete item a. Renumber items b through e as new items a through d and revise as follows:]

a. Groups of 150 or more pieces in 5-digit/scheme trays qualify for the 5-digit rate. Preparation to qualify for the 5-digit rate is optional. Pieces placed in full 3-digit/scheme trays in lieu of 5-digit/scheme overflow trays under 235.6.6 are eligible for the 5-digit rates.

b. Groups of 150 or more pieces in 3-digit/scheme trays qualify for the 3-digit rate. Pieces placed in full AADC trays in lieu of 3-digit/scheme overflow trays under 235.6.6 are eligible for the 3-digit rates.

c. Groups of fewer than 150 pieces in origin 3-digit/scheme trays and all pieces in AADC trays qualify for the AADC rate. Pieces placed in mixed AADC trays in lieu of AADC overflow trays under 235.6.6 are eligible for the AADC rates.

d. Pieces in mixed AADC trays qualify for the mixed AADC rate, except for pieces prepared under 5.3c.

* * * * *

[Delete 5.5 and renumber 5.6 and 5.7 as new 5.4 and 5.5.]

* * * * *

[Delete renumbered 5.4.7, Rural and Highway Contract Routes. Renumber 5.4.8 as new 5.4.7.]

* * * * *

234 Postage Payment and Documentation

* * * * *

2.0 Postage Payment for Presorted Letters

* * * * *

2.2 Affixed Postage for Presorted First-Class Mail

Unless permitted by other standards or by Business Mailer Support, USPS Headquarters, when precanceled postage or meter stamps are used as the postage payment method, only one payment method may be used in a mailing and each piece must bear postage under one of these conditions:

* * * * *

[Revise item b to delete the reference to the nonmachinable surcharge as follows:]

b. A precanceled stamp or the full postage at the lowest First-Class Mail 1-ounce rate applicable to the mailing job, and full postage on metered pieces for any additional ounces or extra services.

* * * * *

235 Mail Preparation

1.0 General Definition of Terms

* * * * *

1.2 Definitions of Mailings

Mailings are defined as:

[Revise the second sentence in item a to remove “automation carrier route” as follows:]

a. * * * Generally, automation and nonautomation letters must be prepared as separate mailings.* * *

* * * * *

1.3 Terms for Presort Levels

Terms used for presort levels are defined as follows:

Delete item a and renumber items b through k as new items a through j.]

* * * * *

1.4 Preparation Definitions and Instructions

For purposes of preparing mail:

* * * * *

[Revise item b as follows:]

b. A full letter tray is one in which faced, upright pieces fill the length of the tray between 85% and 100% full.

* * * * *

[Revise item e to delete the last sentence.]

* * * * *

2.0 Bundles

* * * * *

2.3 Preparing Bundles

Cards and letter-size pieces are subject to these bundling standards:

[Revise item a as follows:]

a. The maximum thickness for bundles is 6 inches.

* * * * *

[Delete item d and renumber items e and f as new items d and e.]

* * * * *

2.8 Labeling Bundles

[Revise the first sentence in the introductory text to delete the reference to carrier route bundles as follows:]

Unless excepted by standard, the presort level of each bundle must be identified either with an optional endorsement line under 708.7.0 or with a barcoded pressure-sensitive bundle label. On letter-size mail (including card-size pieces), the bundle label must be placed in the lower left corner of the address side of the top piece in the bundle. Bundle labels must not be obscured by banding or shrinkwrap. The following colors and presort characters apply to bundle labels:

* * * * *

[Delete 2.9, Use of Carrier Route Information Lines, and 2.10, Facing Slips—All Carrier Route Mail.]

* * * * *

4.0 Tray Labels

* * * * *

4.4 Line 2 (Content Line)

Line 2 (content line) must meet these standards:

* * * * *

b. Codes: The codes shown below must be used as appropriate on Line 2 of tray labels.

[Revise the table in item 4.4b to delete the entries for “Carrier Route,” “Carrier Routes,” “General Delivery Unit,” “Highway Contract Route,” “Post Office Box Section,” and “Rural Route.”]

* * * * *

* * * * *

5.0 Preparing Nonautomation Letters

* * * * *

[Delete 5.2, Manual Only Option, and renumber 5.3 and 5.4 as new 5.2 and 5.3.]

5.2 Machinable Preparation

* * * * *

5.2.2 Traying and Labeling

[Delete item a about labeling the 5-digit tray. Renumber items b through d as new items a through c. Revise renumbered item a to reflect the 3-digit origin tray as follows:]

* * * * *

a. Separate 3-digit origin trays required for each origin 3-digit ZIP Code; one less-than-full tray permitted for each origin ZIP Code; labeling:

1. Line 1: L002, Column A.

2. Line 2: “FCM LTR 3D MACH.”

* * * * *

5.3 Nonmachinable Preparation

5.3.1 Nonmachinable Bundling

[Delete the second-to-last sentence in the introductory text to remove the “manual only” option as follows:]

Except as provided in 2.5, Exception to Bundle Preparation—Full Single-Sort-Level Trays, bundling is required before traying. A bundle must be prepared when the quantity of addressed pieces for a required presort level reaches a minimum of 10 pieces. Smaller volumes are not permitted except for mixed ADC bundles. Preparation sequence, bundle size, and labeling:

* * * * *

6.0 Preparing Automation Rate Letters

* * * * *

6.2 Mailings

The requirements for mailings are as follows:

* * * * *

[Revise item b as follows:]

b. First-Class Mail. A single automation rate First-Class Mail mailing may include pieces prepared at 5-digit, 3-digit, AADC, and mixed AADC rates.

* * * * *

6.3 Marking

[Revise 6.3 to delete the carrier route references as follows:]

All automation rate pieces must be marked under 202.3.0, Placement and Content of Mail Markings, and 202.4.0, Endorsement Placement. Pieces claimed at an automation rate must bear the appropriate class marking and, except as provided in 202.3.0, Placement and Content of Mail Markings, and 202.4.0, Endorsement Placement, “AUTO.” Pieces not claimed at an automation rate must not bear “AUTO” unless single-piece rate postage is affixed or the corrective single-piece rate marking (“SNGLP” or “Single-Piece”) is applied.

6.4 General Preparation

[Revise 6.4 as follows:]

Grouping, bundling, and labeling are not generally required or permitted, except bundling is required in any mailing consisting entirely of card-size pieces and for pieces in overflow and less-than-full trays, and grouping is required under 6.6.

* * * * *

[Delete 6.6 and 6.7. Renumber 6.8 through 6.10 as new 6.6 through 6.8.]

6.6 Tray Preparation

[Add introductory statement about overflow trays to 6.6 as follows:]

Instead of preparing overflow trays with fewer than 150 pieces, mailers may include these pieces in the next tray level when a tray of 150 or more pieces can be made. Mailers must note these trays on standardized documentation (see 708.1.2). Pieces that are placed in the next tray level must be grouped by destination and placed in the front of that tray. Mailers may use this option selectively for 3-digit and AADC ZIP Codes. This option does not apply to origin/entry 3-digit/scheme trays. Preparation sequence, tray size, and Line 1 labeling:

[Delete items a through c and renumber items d through g as new items a through d. Revise renumbered item a as follows:]

a. 5-digit/scheme (see 1.4e): optional, but required for 5-digit rate (150-piece minimum); overflow allowed.

1. For 5-digit scheme trays, use destination shown in the current USPS City State Product.

2. For 5-digit trays, use city, state, and 5-digit ZIP Code destination on pieces (see 4.0 for overseas military mail).

* * * * *

6.7 Tray Line 2

Line 2: “FCM LTR” and:

[Delete items a through c and renumber items d through i as new items a through f as follows:]

a. 5-digit scheme: “BC 5D SCHEME.”

b. 5-digit: “5D BC.”

c. 3-digit scheme: “BC 3D SCHEME” and, if applicable, as shown in L002, Column B, followed by the letter “A,” “B,” or “C.”

d. 3-digit: “3D BC.”

e. AADC: “AADC BC.”

f. Mixed AADC: “BC WKG.”

* * * * *

240 Discount Letters and Cards: Standard Mail

243 Rates and Eligibility

1.0 Rates and Fees for Standard Mail

* * * * *

1.7 Computing Postage for Standard Mail

* * * * *

1.7.8 Discount for Heavy Automation Letters

[Revise 1.7.8 to delete the second-to-last sentence, about automation ECR.]

* * * * *

[Delete 1.7.10, Discount for Heavy ECR Basic Automation Letters.]

* * * * *

3.0 Basic Standards for Standard Mail Letters

* * * * *

3.2 Defining Characteristics

3.2.1 Mailpiece Weight

[Revise 3.2.1 as follows:]

All Standard Mail pieces must weigh less than 16 ounces. The following weight limits also apply to pieces mailed at Standard Mail letter rates:

a. Pieces mailed at machinable and nonmachinable letter rates may weigh up to 3.3 ounces. Letter-size pieces weighing more than 3.3 ounces and prepared as nonmachinable letters are mailable at Not Flat-Machinable rates (see 443) and must be marked “Not Flat-Machinable” or “NFM” according to 402.2.0, unless they are barcoded and eligible to be mailed as automation flats under 301.3.0.

b. Pieces mailed at automation letter rates or Enhanced Carrier Route high-density or saturation rates may weigh up to 3.5 ounces.

* * * * *

3.3 Additional Basic Standards for Standard Mail

Each Standard Mail mailing is subject to these general standards:

* * * * *

[Revise item e to add a reference to 3.8.1 as follows:]

e. Each piece must bear the addressee's name and delivery address, including the correct ZIP Code or ZIP+4 code (see 3.8.1), unless an alternative addressing format is used subject to 602.3.0. Detached address labels may be used subject to 602.4.0.

* * * * *

4.0 Rate Eligibility for Standard Mail

* * * * *

4.2 Minimum Per Piece Rates

The minimum per piece rates (the minimum postage that must be paid for each piece) apply as follows:

* * * * *

b. In applying the minimum per piece rates, a mailpiece is categorized as a letter based on whether the piece meets the letter-size standard in 201.1.1.1, without regard to placement of the address on the piece, except under these conditions:

[Revise item b1 to delete “(nonletter)” as follows:]

1. If the piece meets both the definition of a letter in 201.1.1.1 and the definition of an automation flat in 301.3.0, the piece may be prepared and entered at an automation flat rate.

* * * * *

[Revise item b3 by changing the base rate for Customized MarketMail as follows:]

3. Pieces mailed as Customized MarketMail under 705.1.0 must pay the Regular or Nonprofit Standard Mail 5-digit nonentry rates for Not Flat-Machinable pieces and must not exceed 3.3 ounces.

[Revise item c to delete the last sentence, about DDU rates.]

* * * * *

[Delete 4.4, Residual Shape Surcharge.]

[Replace “presorted” with “nonautomation” throughout 5.0.]

5.0 Additional Eligibility Standards for Nonautomation Standard Mail Letters

* * * * *

[Revise heading and text of 5.4 to refer to new AADC and mixed AADC rates, instead of basic rates, as follows:]

5.4 Machinable Rate Application

Machinable letters are subject only to AADC and mixed AADC rates.

5.4.1 AADC Rate

The AADC rate applies to qualifying letter-size machinable pieces (see 201.1.0, Physical Standards for Machinable Letters and Cards) placed in origin/entry 3-digit/scheme trays, to quantities of 150 or more pieces prepared in AADC trays for a single AADC, and to pieces placed in mixed AADC trays in lieu of overflow AADC trays.

5.4.2 Mixed AADC Rate

The mixed AADC rate applies to qualifying letter-size machinable pieces that the mailer prepares in mixed AADC trays, except for pieces placed in mixed AADC trays in lieu of overflow AADC trays (see 245.5.3.2).

[Delete 5.5 and 5.6. Insert new 5.5 as follows:]

5.5 Nonmachinable Rate Application

Nonmachinable rates in 1.0 apply only to Standard Mail letter-size pieces (including card-size pieces) weighing 3.3 ounces or less that have one or more of the nonmachinable characteristics in 201.2.1. Nonmachinable letter-size pieces weighing more than 3.3 ounces are subject to Not Flat-Machinable rates (see 443), unless they are barcoded and eligible to be mailed as automation flats under 301.3.0.

5.5.1 5-Digit Rate

The 5-digit rate applies to letter-size pieces subject to the nonmachinable rates (see 5.5) prepared in quantities of 150 or more pieces for a 5-digit ZIP Code and presented in 5-digit trays under 245.5.0.

5.5.2 3-Digit Rate

The 3-digit rate applies to letter-size pieces subject to the nonmachinable rates (see 5.5) prepared in quantities of 150 or more pieces for a 3-digit ZIP Code and presented in 3-digit trays under 245.5.0.

5.5.3 ADC Rate

The ADC rate applies to letter-size pieces subject to the nonmachinable rates (see 5.5) placed in 3-digit origin/entry trays and to pieces prepared in quantities of 150 or more for an ADC and presented in ADC trays under 245.5.0.

5.5.4 Mixed ADC Rate

The mixed ADC rate applies to letter-size pieces that are subject to the nonmachinable rates and prepared in mixed ADC trays.

[Revise heading of 6.0 as follows:]

6.0 Additional Eligibility Standards for Enhanced Carrier Route Standard Mail Letters

6.1 General Enhanced Carrier Route Standards

6.1.1 Optional Preparation

* * * * *

[Revise 6.1.1 to delete the last sentence, about automation basic carrier route.]

6.1.2 Basic Eligibility Standards

All pieces in an Enhanced Carrier Route or Nonprofit Enhanced Carrier Route Standard Mail mailing must:

* * * * *

[Revise item b to delete the second sentence, about automation basic carrier route, as follows:]

b. Be part of a single mailing of at least 200 pieces or 50 pounds of pieces of Enhanced Carrier Route Standard Mail. Regular and Nonprofit mailings must meet separate minimum volumes.

* * * * *

6.1.3 Maximum Weight for Enhanced Carrier Route Letters

[Revise 6.1.3 to delete the reference to automation carrier route as follows:]

Maximum weight for Standard Mail Enhanced Carrier Route high-density and saturation pieces: 3.5 ounces (0.2188 pound) (see 201.3.13.4, Heavy Letter Mail, for pieces heavier than 3 ounces).

6.2 Carrier Route Accuracy

6.2.1 Basic Standards

The carrier route accuracy standard is a means of ensuring that the carrier route code correctly matches the delivery address information. For the purposes of this standard, address means a specific address associated with a specific carrier route code. Addresses used on pieces claiming certain rates under 6.2.2 that are subject to the carrier route accuracy standard must meet these requirements:

[Revise item a to delete the last sentence, about ECR automation rate Standard Mail, as follows:]

a. Each address and associated carrier route code used on the mailpieces in a mailing must be updated within 90 days before the mailing date with one of the USPS-approved methods in 3.8.2.

* * * * *

6.3 Basic Rate Enhanced Carrier Route Standards

* * * * *

6.3.2 Basic Rate Eligibility

[Revise 6.3.2 to add the option for groups of 10 or more pieces as follows:]

Basic rates apply to each piece sorted under 245.6.0 or 705.8.0 in a full carrier route tray, in a carrier route bundle of 10 or more pieces, or in groups of 10 or more pieces placed in a 5-digit carrier routes or a 3-digit carrier routes tray.

* * * * *

[Delete 6.6, Automation ECR Standards.]

* * * * *

7.0 Eligibility Standards for Automation Rate Standard Mail

* * * * *

7.3 Rate Application for Automation Letters

Automation rates apply to each piece that is sorted under 245.7.0, Preparing Automation Rate Letters, into the corresponding qualifying groups:

[Revise items a through d to accommodate an option to overflow trays as follows:]

a. Groups of 150 or more pieces in 5-digit/scheme trays qualify for the 5-digit rate. Preparation to qualify for that rate is optional. Pieces placed in full 3-digit/scheme trays under 245.7.5 in lieu of 5-digit/scheme overflow trays are eligible for 5-digit rates (see 245.7.5).

b. Groups of 150 or more pieces in 3-digit/scheme trays qualify for the 3-digit rate. Pieces placed in full AADC trays under 245.7.5 in lieu of 3-digit/scheme overflow trays are eligible for 3-digit rates (see 245.7.5).

c. Groups of fewer than 150 pieces in origin/entry 3-digit/scheme trays and groups of 150 or more pieces in AADC trays qualify for the AADC rate. Pieces placed in mixed AADC trays under 245.7.5 in lieu of AADC overflow trays also are eligible for AADC rates (see 245.7.5).

d. Pieces in mixed AADC trays qualify for the mixed AADC rate, except for pieces prepared under 7.3c.

* * * * *

245 Mail Preparation

1.0 General Information for Mail Preparation

* * * * *

1.2 Definitions of Mailings

Mailings are defined as:

* * * * *

b. Standard Mail. Except as provided in 243.3.6, Residual Volume Requirement, the types of Standard Mail listed below may not be part of the same mailing.

[Delete item b1, about automation ECR. Renumber items b2 through b8 as new items b1 through b7.]

* * * * *

1.4 Preparation Definitions and Instructions

For purposes of preparing mail:

* * * * *

[Revise item b as follows:]

b. A full letter tray is one in which faced, upright pieces fill the length of the tray between 85% and 100% full.

* * * * *

[Revise the last sentence in item e as follows:]

e. A 5-digit scheme sort for automation letters yields 5-digit scheme trays for those 5-digit ZIP Codes identified in the USPS City State Product and 5-digit trays for other areas. Mail prepared using 5-digit scheme sort must be entered no later than 90 days after the release date of the City State Product used to obtain the scheme information (see 708.3.0, Coding Accuracy Support System (CASS)). The 5-digit ZIP Codes in each scheme are treated as a single presort destination subject to a single minimum volume, with no further separation by 5-digit ZIP Code required. Trays prepared for a 5-digit scheme destination that contain pieces for only one of the schemed 5-digit ZIP Codes are still considered 5-digit scheme sorted and are labeled accordingly. When standards require 5-digit/scheme sort, mailers must prepare all possible 5-digit scheme trays, then prepare all possible 5-digit trays.

[Revise item f to add a new last sentence as follows:]

f. A 3-digit scheme sort yields 3-digit scheme trays for those 3-digit ZIP Code prefixes listed in L003 and 3-digit trays for other areas. The 3-digit ZIP Code prefixes in each scheme are treated as a single presort destination subject to a single minimum tray volume, with no further separation by 3-digit prefix required. Trays prepared for a 3-digit scheme destination that contain pieces for only one of the schemed 3-digit areas are still considered 3-digit scheme sorted and are labeled accordingly. When standards require 3-digit/scheme sort, mailers must prepare all possible 3-digit scheme trays, then prepare all possible 3-digit trays.

* * * * *

2.0 Bundles

* * * * *

2.3 Preparing Bundles

Cards and letter-size pieces are subject to these bundling standards:

* * * * *

[Revise item c to delete “and for Standard Mail pieces where the mailer has requested ‘manual only’ processing” as follows:]

c. Bundles must be prepared for mail in all less-than-full trays and for nonmachinable Presorted Standard Mail.

[Revise item d to delete the second sentence as follows:]

d. Except under 245.6.7, separator cards or tic marks may be used instead of bundling for letter-size pieces in full 5-digit carrier routes trays of Enhanced Carrier Route Standard Mail. The cards must be of paper or card stock, at least 0.25 inch higher than the highest pieces in the mailing, and in front of the corresponding groups of mail. The tic mark must be applied during the mailpiece production process and be printed on the top edge of the envelope, to the left of the center line of the envelope.

* * * * *

[Revise heading of 5.0 as follows:]

5.0 Preparing Nonautomation Letters

* * * * *

5.2 Marking

[Revise 5.2 to delete “AUTOCR” in the last sentence.]

* * * * *

[Delete 5.3, Manual Only Option. Renumber 5.4 and 5.5 as new 5.3 and 5.4.]

5.3 Machinable Preparation

5.3.1 Machinable Bundling

Machinable pieces are not bundled, except for the following (see 2.3):

* * * * *

[Delete item b. Renumber item c as new item b.]

5.3.2 Traying and Labeling

[Replace the first sentence in 5.3.2 with new text and delete items a and b. Renumber items c through e as new items a through c and revise as follows:]

Instead of preparing overflow AADC trays with fewer than 150 pieces, mailers may include these pieces in mixed AADC trays. Preparation sequence, tray size, and labeling:

a. Origin/entry 3-digit/scheme (optional, no minimum); labeling: * * *

* * * * *

b. AADC (required); 150-piece minimum (overflow allowed); labeling: * * *

* * * * *

c. Mixed AADC (required); no minimum; labeling: * * *

* * * * *

5.4 Nonmachinable Preparation

5.4.1 Nonmachinable Bundling

[Revise renumbered 5.4.1 to delete the fourth sentence, about manual processing, as follows:]

Except as provided in 2.5, Exception to Bundle Preparation—Full Single-Sort-Level Trays, bundling is required before traying. A bundle must be prepared when the quantity of addressed pieces for a required presort level reaches a minimum of 10 pieces. Smaller volumes are not permitted except for mixed ADC bundles. Preparation sequence, bundle size, and labeling:

* * * * *

5.4.2 Traying and Labeling

[Delete item c and renumber items d and e as new items c and d. Revise introductory text and renumbered items a through c as follows:]

Overflow trays are not allowed. Preparation sequence, tray size, and labeling:

a. 5-digit (required); 150-piece minimum; labeling: * * *

* * * * *

b. 3-digit (required); 150-piece minimum (mailers may prepare 3-digit origin/entry trays with as few as 10 pieces per tray); labeling: * * *

* * * * *

c. ADC (required); 150-piece minimum; labeling: * * *

* * * * *

6.0 Preparing Enhanced Carrier Route Letters

6.1 Basic Standards

[Revise 6.1 to delete “(Enhanced Carrier Route automation rate mailings must be prepared under 7.0)” in the introductory text as follows:]

All mailings and all pieces in each mailing at Enhanced Carrier Route Standard Mail and Nonprofit Enhanced Carrier Route Standard Mail nonautomation rates are subject to specific preparation standards in 6.0 and to these general standards:

* * * * *

[Revise 6.2 by adding a sentence at the end to require carrier route information lines on certain pieces mailed at ECR rates as follows:]

6.2 Marking

Subject to the marking standards in 202.3.0, Placement and Content of Mail Markings, and 202.4.0, Endorsement Placement, Enhanced Carrier Route Standard Mail pieces must be marked “Presorted Standard” (or “PRSRT STD”), and Nonprofit Enhanced Carrier Route Standard Mail pieces must be marked “Nonprofit Organization” (or “Nonprofit Org.” or “Nonprofit”). All pieces also must be marked “ECRLOT” for basic rate, “ECRWSH” for high density rate, or “ECRWSS” for saturation rate. Pieces in carrier route mailings under 6.7 must bear carrier route information lines under 708.8.0.

* * * * *

6.4 Carrier Route Bundle Preparation

Prepare carrier route bundles of letter-size mail as follows:

[Revise item a as follows:]

a. Mailers must prepare only carrier route bundles, except under 6.7. Carrier route bundles are not permitted in full carrier route trays, except for card-size pieces.

* * * * *

[Revise heading and introductory text of 6.6 as follows:]

6.6 General Traying and Labeling

For all ECR letters over 3 ounces and all ECR letters that are not automation-compatible and delivery-point barcoded, prepare trays according to 6.6. For ECR automation-compatible letters that are delivery-point barcoded and that weigh up to 3 ounces, prepare trays under 6.7. Preparation sequence, tray size, and labeling:

* * * * *

[Renumber 6.7 through 6.9 as new 6.8 through 6.10. Insert new 6.7 as follows:]

6.7 Traying and Labeling for Automation-Compatible ECR Letters

Mailers must make full carrier route and 5-digit carrier routes trays, when possible, for automation-compatible, delivery-point barcoded ECR letters that weigh up to 3 ounces. Except for card-size pieces, pieces must not be bundled. Group pieces together by carrier route in 5-digit and 3-digit carrier routes trays. If pieces for one carrier route do not result in a full tray, mailers must combine pieces from at least two routes to make full 5-digit carrier routes trays, grouping pieces together by carrier route. If pieces for multiple carrier routes do not result in a full 5-digit tray, mailers must combine pieces from at least two 5-digit ZIP Codes to make 3-digit carrier routes trays, grouping pieces together by carrier route. If pieces fill more than one tray but do not fill an additional tray, mailers must place excess pieces in a tray at the next sortation level. Preparation sequence, tray size, and labeling:

a. Carrier route: required; full trays only, no overflow.

1. Line 1: city, state, and 5-digit ZIP Code on mail (see 4.0 for overseas military mail).

2. Line 2: for saturation, “STD LTR BC WSS,” followed by route type and number; for high-density, “STD LTR BC WSH,” followed by route type and number; for basic, “STD LTR BC LOT,” followed by route type and number.

b. 5-digit carrier routes: required; full trays only, no overflow, no bundling.

1. Line 1: city, state, and 5-digit ZIP Code on mail (see 4.0 for overseas military mail).

2. Line 2: “STD LTR 5D CR-RT BC.”

c. 3-digit carrier routes: required; bundling required in less-than-full trays.

1. Line 1: city, state, and 3-digit ZIP Code prefix shown in L002, Column A, that corresponds to 3-digit ZIP Code prefix on mail.

2. Line 2: “STD LTR 3D CR-RT BC.”

* * * * *

7.0 Preparing Automation Rate Letters

* * * * *

7.2 Mailings

[Restructure 7.2 to delete the introductory text and item b. Make item a the new text as follows:]

All pieces in a mailing must meet the standards in 201.1.0, Physical Standards for Machinable Letters and Cards, and 201.3.0, Physical Standards for Automation Letters and Cards, and must be sorted together to the finest extent required for the rate claimed. The definitions of a mailing and permissible combinations are in 1.0, General Information for Mail Preparation.

7.3 Marking

[Revise 7.3 to delete references to “AUTOCR” as follows:]

All Standard Mail automation rate pieces must be marked under 202.3.0, Placement and Content of Mail Markings. Pieces claimed at an automation rate must bear the appropriate class marking and “AUTO,” except as provided in 202.3.0. Pieces not claimed at an automation rate must not bear “AUTO” unless First-Class single-piece rate postage is affixed or a corrective single-piece rate marking (“Single-Piece” or “SNGLP”) is applied.

7.4 General Preparation

[Revise 7.4 to delete carrier route references as follows:]

Grouping, bundling, and labeling are not generally required or permitted, except bundling is required in any mailing consisting entirely of card-size pieces and for pieces in overflow and less-than-full trays, and grouping is required under 7.5.

[Delete 7.5 and 7.6, about carrier route trays and pieces. Renumber 7.7 through 7.9 as new 7.5 through 7.7.]

7.5 Tray Preparation

[Revise renumbered 7.5 to add information about overflow trays as follows:]

Instead of preparing overflow trays with fewer than 150 pieces, mailers may include these pieces in the next tray level when a tray of 150 or more pieces can be made. Mailers must note these trays on standardized documentation (see 708.1.2). Pieces that are placed in the next tray level must be grouped by destination and placed in the front of that tray. Mailers may use this option selectively for 3-digit and AADC ZIP Codes. This option does not apply to origin/entry 3-digit/scheme trays. Preparation sequence, tray size, and Line 1 labeling:

[Delete items a through c, about carrier routes trays. Renumber items d through g as new items a through d. Revise renumbered item a to require 5-digit/scheme trays for rate as follows:]

a. 5-digit/scheme (see 1.4e): optional, but required for 5-digit rate (150-piece minimum); overflow allowed; for Line 1, label as follows:

1. For 5-digit scheme trays, use destination shown in the current USPS City State Product.

2. For 5-digit trays, use city, state, and 5-digit ZIP Code destination on pieces (see 4.0 for overseas military mail).

[Revise renumbered item b to make origin 3-digit trays optional as follows:]

b. 3-digit/scheme; required (150-piece minimum except no minimum for optional origin/entry 3-digit/scheme(s)); overflow allowed; for Line 1, use L002, Column B.

* * * * *

7.6 Tray Line 2

Line 2: “STD LTR” and:

[Delete items a through c, about carrier routes. Renumber items d through i as new items a through f and revise as follows:]

a. 5-digit scheme: “BC 5D SCHEME.”

b. 5-digit: “5D BC.”

c. 3-digit scheme: “BC 3D SCHEME” and, if applicable, as shown in L002, Column B, followed by the letter “A,” “B,” or “C.”

d. 3-digit: “3D BC.”

e. AADC: “AADC BC.”

f. Mixed AADC: “BC WKG.”

* * * * *

246 Enter and Deposit

* * * * *

4.0 Destination Sectional Center Facility (DSCF) Entry

* * * * *

4.2 Eligibility

[Revise 4.2 to allow pieces placed in AADC trays in lieu of in 3-digit trays under 245.7.5 to be eligible for DSCF rates as follows:]

Pieces in a mailing that meet the standards in 2.0 and 4.0 are eligible for DSCF rates under either of the following conditions:

a. When deposited at a DSCF (or USPS-designated facility), addressed for delivery within that SCF's service area, and:

1. Placed in a tray labeled to that DSCF.

2. Placed in a tray labeled to the DADC that includes that DSCF under the preparation option in 245.7.5.

3. Placed in a tray labeled to a postal facility within that DSCF's service area.

b. When the pieces are prepared with simplified addresses under 602.3.2 or mailers hold a mailing permit at the entry office and deposit only one mailing (of fewer than 2,500 pieces) per day. See 5.2 for additional DSCF rate eligibility for letters.

* * * * *

5.0 Destination Delivery Unit (DDU) Entry

* * * * *

5.2 Eligibility

[Revise 5.2 to reorganize text and eliminate the DDU entry discount as follows:]

Letter-size mailpieces are not eligible for a destination delivery unit (DDU) discount. Mailers may deposit letter-size pieces that meet the standards in 2.0 and 5.0 at a DDU when:

a. Those pieces are addressed for delivery within that facility's service area (enhanced carrier route only).

b. The pieces are placed in properly prepared and labeled carrier route trays or 5-digit carrier routes trays, or on pallets under 705.8.0.

c. The pieces are eligible for and claimed at a carrier route rate.

* * * * *

300 Discount Mail: Flats

301 Physical Standards

1.0 Physical Standards for Flats

1.1 General Definition of Flat-Size Mail

Flat-size mail other than that in 3.0, Physical Standards for Automation Flats, is:

* * * * *

[Add an exception for Periodicals mail in item b as follows:]

b. Not more than 15 inches long, or more than 12 inches high, or greater than 3/4 inch thick, except for Periodicals mail under 707.25.3.

[Replace items c and d with new items c and d as follows:]

c. Rectangular.

d. Other size or weight standards may apply to mail claimed at certain rates, mail addressed to certain APOs and FPOs, and mail sent by the Department of State to U.S. government personnel abroad.

[Revise 1.2 to change the determination of the length of flats as follows:]

1.2. Length and Height of Flats

The length of a flat-size mailpiece is the longest dimension. The height is the dimension perpendicular to the length.

[Insert new 1.3 through 1.6 as follows:]

1.3 Shape

Each flat-size piece must be rectangular. See 2.0 for additional standards by class of mail.

1.4 Minimum Flexibility Criteria for Rigid Pieces

Flat-size pieces must be flexible. Test flexibility as follows:

a. For pieces 10 inches or longer:

1. Place the piece with the length perpendicular to the edge of a flat surface and extend the piece 5 inches off the surface.

2. Press down on the piece at a point 1 inch from the outer edge, in the center of the piece's width, exerting steady pressure.

3. Turn the piece around and repeat steps 1 and 2. The piece is flexible if both ends can bend at least 2 inches without being damaged.

b. For pieces less than 10 inches long:

1. Place the piece with the length perpendicular to the edge of a flat surface and extend the piece one-half of its length off the surface.

2. Press down on the piece at a point 1 inch from the outer edge, in the center of the piece's width, exerting steady pressure.

3. Turn the piece around and repeat steps 1 and 2. The piece is flexible if both ends can bend at least 1 inch without being damaged.

1.5 Uniform Thickness

Flat-size mailpieces must be uniformly thick so that any bumps, protrusions, or other irregularities do not cause more than ¼-inch variance in thickness. (Do not consider the selvage when measuring variance in thickness.) If the contents are significantly smaller than the envelope, wrapper, or sleeve, mailers must secure those contents to prevent shifting of more than 2 inches within the mailpiece.

1.6 Flat-Size Pieces Not Eligible for Flat-Size Rates

Mailpieces that do not meet the standards in 1.3 through 1.5 are not eligible for flat-size rates and must pay applicable rates as follows:

a. First-Class Mail—parcel rates.

b. Standard Mail—Not Flat-Machinable or parcel rates.

c. Bound Printed Matter—parcel rates.

[Revise the heading of 2.0 to delete “Presorted.”]

2.0 Physical Standards for Nonautomation Flats

2.1 First-Class Mail

[Revise 2.1 as follows:]

These additional standards apply to First-Class Mail flat-size pieces:

a. First-Class Mail cannot exceed 13 ounces. First-Class Mail weighing more than 13 ounces is Priority Mail.

b. Flat-size pieces that do not meet the standards in 1.3 through 1.5 must be prepared as parcels and pay the applicable parcel rate.

2.2 Standard Mail

2.2.1 Basic Physical Standards

[Revise the introductory text as follows:]

These additional standards apply to Standard Mail flat-size pieces:

* * * * *

[Delete item b. Insert new item b as follows:]

b. Flat-size pieces that do not meet the standards in 1.3 through 1.5 must be prepared as parcels or Not Flat-Machinable pieces and pay the parcel or Not Flat-Machinable rates (see 401).

[Delete Exhibit 2.2.1b, Maximum Dimensions for Standard Mail Flats.]

* * * * *

2.3 Bound Printed Matter

2.3.1 General Standards

[Delete item c. Renumber items a and b as new items b and c. Revise the introductory text and insert new item a as follows:]

These additional standards apply to Bound Printed Matter:

a. Flat-size pieces that do not meet the standards in 1.3 through 1.5 must be prepared as parcels and pay the applicable parcel rate.

* * * * *

2.4 Media Mail

2.4.1 General Standards

[Delete item c. Renumber items a and b as new items b and c. Revise the introductory text and insert new item a as follows:]

These additional standards apply to Media Mail:

a. Flat-size pieces that do not meet the standards in 1.3 through 1.5 must be prepared as parcels.

* * * * *

2.5 Library Mail

2.5.1 General Standards

These additional standards apply to Library Mail:

[Delete item c. Renumber items a and b as new items b and c. Revise the introductory text and insert new item a as follows:]

a. Flat-size pieces that do not meet the standards in 1.3 through 1.5 must be prepared as parcels.

* * * * *

3.0 Physical Standards for Automation Flats

3.1 Basic Standards for Automation Flats

[Revise 3.1 as follows:]

Flat-size pieces claimed at automation rates must meet the standards in 3.0 and the eligibility standards for the class of mail and rate claimed. Pieces prepared with polywrap film must meet the standards in 3.4.

[Delete 3.2]

[Renumber 3.3. through 3.8 as new 3.2 through 3.7]

[Revise heading of new 3.2 as follows:]

3.2 Additional Criteria for Automation Flats

[Revise the heading and text of 3.2.1 as follows:]

3.2.1 Address Placement on Folded Pieces

Mailers must design folded pieces so that the address is in view when the final folded edge is at the bottom of the piece and any intermediate bound or folded edge is to the right.

3.2.2 Shape and Size

[Revise 3.2.2 to specify the minimum and maximum dimensions as follows:]

Each flat-size piece must be rectangular. The following minimum and maximum dimensions apply to First-Class Mail, Standard Mail, Periodicals (except under 707.25.3), and Bound Printed Matter pieces:

1. Minimum height is 5 inches. Maximum height is 12 inches.

2. Minimum length is 6 inches. Maximum length is 15 inches.

3. Minimum thickness is 0.009 inch. Maximum thickness is 0.75 inch.

* * * * *

[Revise heading and text of 3.2.4, and delete Exhibit 3.2.4a, to add new standards for deflection as follows:]

3.2.4 Maximum Deflection (“Droop”) Criteria for Flimsy Pieces

An automation flat-size mailpiece must be flexible (see 1.4) and must meet maximum deflection standards. Test deflection as follows:

a. For pieces 10 inches or longer:

1. Place the piece with the length perpendicular to the edge of a flat surface and extend the piece 5 inches off the surface. Turn the piece around and repeat the process.

2. The piece is automation-compatible if it does not droop more than 4 inches.

b. For pieces less than 10 inches long:

1. Place the piece with the length perpendicular to the edge of a flat surface and extend the piece one-half of its length off the surface. Turn the piece around and repeat the process.

2. The piece is automation-compatible if it does not droop more than 1 inch less than the extended length. For example, a piece 8 inches long would extend 4 inches off a flat surface. It must not droop down more than 3 inches.

* * * * *

[Delete 3.4 to remove the standards for UFSM 1000 flats. Renumber 3.5 through 3.9 as new 3.4 through 3.8.]

3.4 Polywrap Coverings

[Revise heading and text of renumbered 3.4.1 as follows:]

3.4.1 Polywrap Films and Similar Coverings

When mailers use polywrap film or similar material to enclose flat-size mailpieces claimed at automation rates, the material must meet the standards in 3.4. Film approved for use under 3.4.5 must meet the specifications in Exhibit 3.4.1 as follows:

a. Films or similar coverings must meet all eight properties in Exhibit 3.4.1.

b. If the address label is affixed to the outside of the polywrap, the haze property (property 2) does not apply.

* * * * *

3.4.2 Wrap Direction and Seam Placement

Wrap direction, seam direction, and seam placement must follow these standards:

[Revise item a and the first sentence in item b as follows:]

a. The wrap direction must be around the longer axis of the mailpiece, with the seam parallel to that axis. The longer axis is always parallel to the length of the mailpiece.

b. The preferred seam placement is on the nonaddressed side of the mailpiece. If the seam is placed on the addressed side, the seam must not cover any part of the delivery address and barcode, postage area, or any required markings or endorsements. Regardless of seam placement, the polywrap over the address area must be a smooth surface to avoid interference with address and barcode readability.

3.4.3 Overhang

[Revise 3.4.3 to delete item b and restructure the text as follows:]

For purposes of the polywrap standards for overhang (selvage) only, the top edge of the mailpiece is one of the two physically longer edges of the piece, regardless of address orientation and whether bound or unbound. Any polywrap overhang (selvage) around the four edges of the mailpiece (top, bottom, and left and right sides) must meet these standards:

a. When the mailpiece contents are totally positioned at the bottom of the polywrap, the overhang must not be more than 0.5 inch at the top of the mailpiece.

b. When the mailpiece contents are totally positioned to the left or to the right side of the polywrap, the overhang must not be more than 1.5 inches on the opposite side.

c. The polywrap covering must not be so tight that it bends the mailpiece.

[Delete 3.4.4. Renumber 3.4.5 as 3.4.4.]

* * * * *

3.7 Uniformity and Exterior Format

3.7.1 General

[Revise renumbered 3.7.1 to add a reference to 1.5 in the first sentence as follows:]

A flat-size mailpiece prepared and claimed at automation rates must be uniformly thick (see 1.5). Each flat-size mailpiece must have a smooth and regular shape and be free of creases, folds, tears, or other irregularities not compatible with automation equipment. The exterior surface must not have protuberances caused by prohibited closures; attachments (except as provided below); irregularly shaped or distributed contents; or untrimmed excess material from the envelope, wrapper, or sleeve.

* * * * *

[Delete renumbered 3.7.3 (this information was relocated to 1.5). Renumber 3.7.4 as new 3.7.3.]

* * * * *

302 Elements on the Face of a Mailpiece

* * * * *

2.0 Placement and Content of Mail Markings

2.1 First-Class Mail and Standard Mail Markings

2.1.1 Placement

Mailpieces must be marked under the corresponding standards to show the class of service and/or rate paid:

* * * * *

[Revise items b and b3 as follows:]

b. Other Markings. Mailers may place rate-specific markings as follows:

* * * * *

3. If preceded by two asterisks (**), the “AUTO,” “PRESORTED” (or “PRSRT”), “CUSTOMIZED MARKETMAIL” (or “CUST MKTMAIL” or “CMM”), or “Single-Piece” (or “SNGLP”) markings also may be placed on the line directly above or two lines above the address in a mailer keyline or a manifest keyline, or it may be placed above the address and below the postage in an MLOCR ink-jet printed date correction/meter drop shipment line.

* * * * *

2.1.2 Exceptions to Markings

Exceptions are as follows:

* * * * *

[Delete “AUTOCR” in item b as follows:]

b. Manifest Mailings. The basic marking must appear in the postage area on each piece. The two-letter rate category code required in the keyline on manifest mailing pieces prepared under 705.2.0 meets the requirement for other rate markings.

* * * * *

4.0 Barcode Placement

* * * * *

4.2 Applying One Barcode

[Revise 4.2 to delete the second sentence, about UFSM 1000 mailpieces, as follows:]

On any flat-size mailpiece claimed at an automation rate, the barcode may be anywhere on the address side as long as it is at least ⅛ inch from any edge of the piece. The portion of the surface of the piece on which the barcode is printed must meet the barcode dimensions and spacing requirements in 708.4.2.5, and the reflectance standards in 708.4.4. Address block barcodes are subject to the standards in 4.6a. through 4.6e.

* * * * *

330 Discount Flats: First-Class Mail

333 Rates and Eligibility

1.0 Rates and Fees for First-Class Mail

1.1 Rate Application

[Revise 1.1 as follows:]

Postage is based on the flat-size rate that applies to the weight of each addressed piece.

* * * * *

4.0 Additional Eligibility Standards for Nonautomation First-Class Mail Flats

* * * * *

[Revise the heading and text of 4.3 as follows:]

4.3 Nonmachinable Flat-Size Pieces

Flat-size pieces that do not meet the standards in 301.1.3 through 301.1.5 must be prepared as parcels and pay the applicable parcel rate.

5.0 Additional Eligibility Standards for Automation Rate First-Class Mail Flats

* * * * *

[Delete 5.2 and renumber 5.3 through 5.6 as new 5.2 through 5.5.]

340 Discount Flats: Standard Mail

343 Rates and Eligibility

* * * * *

3.0 Basic Standards for Standard Mail Flats

* * * * *

3.2 Defining Characteristics

[Revise heading and text of 3.2.1 as follows:]

3.2.1 Weight, Shape, Flexibility, and Uniform Thickness

All Standard Mail pieces must weigh less than 16 ounces. Flat-size pieces that do not meet the standards in 301.1.3 through 301.1.5 must be prepared as parcels or Not Flat-Machinable pieces and pay parcel or Not Flat-Machinable rates (see 401).

* * * * *

4.0 Rate Eligibility for Standard Mail

* * * * *

4.2 Minimum Per Piece Rates

The minimum per piece rates (the minimum postage that must be paid for each piece) apply as follows:

* * * * *

[Revise introductory text in item b and item b1 as follows:]

b. In applying the minimum per piece rates, a mailpiece is categorized as a letter based on whether the piece meets the letter-size standard in 201.1.0, without regard to placement of the address on the piece, except under these conditions:

1. If the piece meets both the definition of a letter in 201.1.1.1 and the definition of an automation flat in 301.3.0, the piece may be prepared and entered at an automation flat rate. [Revise item b2 to change the rates for Customized MarketMail to the NFM rates as follows:]

2. Pieces mailed as Customized MarketMail under 705.1.0 must pay Regular or Nonprofit Standard Mail 5-digit nonentry rates for Not Flat-Machinable pieces and must not exceed 3.3 ounces.

* * * * *

[Revise heading and text of 4.4 as follows:]

4.4 Shape, Flexibility, and Uniform Thickness

Flat-size pieces that do not meet the standards in 301.1.3 through 301.1.5 must be prepared as parcels or Not Flat-Machinable pieces and pay parcel or Not Flat-Machinable rates (see 401).

[Revise heading of 5.0 as follows:]

5.0 Additional Eligibility Standards for Nonautomation Standard Mail Flats

* * * * *

[Replace 5.3 and 5.4 with new 5.3 through 5.6 as follows:]

5.3 5-Digit Rates for Flats

The 5-digit rate applies to flat-size pieces:

a. In a 5-digit/scheme bundle of 10 or more pieces, or 15 or more pieces, as applicable; properly placed in a 5-digit/scheme sack containing at least 125 pieces or 15 pounds of pieces.

b. When palletized under 705.8.0 and 705.10.0 through 705.13.0, in a 5-digit/scheme bundle of 10 or more pieces, or 15 or more pieces, as applicable.

c. In a 5-digit bundle of 10 or more pieces, or 15 or more pieces, as applicable; properly placed in a merged 5-digit/scheme or 5-digit sack under 705.10.0.

5.4 3-Digit Rates for Flats

The 3-digit rate applies to flat-size pieces:

a. In a 5-digit/scheme bundle of 10 or more pieces, or 15 or more pieces, as applicable, or in a 3-digit/scheme bundle of 10 or more pieces; properly placed in a 3-digit sack of at least 125 pieces or 15 pounds of pieces.

b. When palletized under 705.8.0 and 705.10.0 through 705.13.0, in a 3-digit/scheme bundle of 10 or more pieces.

5.5 ADC Rates for Flats

ADC rates apply to flat-size pieces:

a. In a 5-digit/scheme, 3-digit/scheme, or ADC bundle of 10 or more pieces properly placed in an ADC sack of at least 125 pieces or 15 pounds of pieces.

b. In an optional 3-digit/scheme origin/entry sack.

c. When palletized under 705.8.0 and 705.10 through 705.13, in an ADC bundle of 10 or more pieces; properly placed on an ADC pallet.

5.6 Mixed ADC Rates for Flats

Mixed ADC rates apply to flat-size pieces in bundles that do not qualify for 5-digit, 3-digit, or ADC rates; placed in mixed ADC sacks or on ASF, BMC, or mixed BMC pallets under 705.8.0.

* * * * *

7.0 Additional Eligibility Standards for Automation Rate Standard Mail Flats

* * * * *

7.2 Rate Application

[Revise 7.2 as follows:]

Automation rates apply to each piece properly sorted into qualifying groups:

a. The 5-digit rate applies to flat-size pieces in a 5-digit/scheme bundle of 10 or more pieces, or 15 or more pieces, as applicable.

b. The 3-digit rate applies to flat-size pieces in a 3-digit/scheme bundle of 10 or more pieces.

c. The ADC rate applies to flat-size pieces in an ADC bundle of 10 or more pieces.

d. The mixed ADC rate applies to flat-size pieces in mixed ADC bundles (no minimum).

* * * * *

345 Mail Preparation

1.0 General Information for Mail Preparation

* * * * *

1.3 Terms for Presort Levels

Terms used for presort levels are defined as follows:

* * * * *

[Revise items c and k as follows:]

c. 5-digit scheme (bundles and sacks) for flats meeting the automation-compatibility standards in 301.3.0: the ZIP Code in the delivery address on all pieces is one of the 5-digit ZIP Code areas processed by the USPS as a single scheme, as shown in L007.

* * * * *

k. 3-digit scheme bundles for flats meeting the automation-compatibility standards in 301.3.0: the ZIP Code in the delivery address begins with one of the 3-digit prefixes processed by the USPS as a single scheme, as shown in L008.

* * * * *

1.4 Preparation Definitions and Instructions

For purposes of preparing mail:

* * * * *

[Revise item f as follows:]

f. A 5-digit scheme sort for flats meeting the automation-compatibility standards in 301.3.0 yields 5-digit scheme bundles for those 5-digit ZIP Codes identified in L007 and 5-digit bundles for other ZIP Codes. When standards require 5-digit/scheme sort, mailers must prepare all possible 5-digit scheme bundles and sacks of flats, then prepare all possible 5-digit bundles and sacks. The 5-digit ZIP Codes in each scheme are treated as a single presort destination subject to a single minimum volume, with no further separation required. Bundles prepared for a 5-digit scheme destination that contain pieces for only one of the schemed 5-digit ZIP Codes are still considered 5-digit scheme sorted and are labeled accordingly. Label mailpieces using an optional endorsement line (OEL) under 708.7.0. Place bundles in appropriate containers using the OEL “label to” 5-digit ZIP Code.

* * * * *

[Revise item h by replacing “Presorted” with “nonautomation” in the first sentence.]

* * * * *

[Revise item n as follows:]

n. A 3-digit scheme sort for flats meeting the automation-compatibility standards in 301.3.0 yields 3-digit scheme bundles for those 3-digit ZIP Codes identified in L008. When standards require 3-digit/scheme sort, mailers must prepare all possible 3-digit scheme bundles of flats, then prepare all possible 3-digit bundles. The 3-digit ZIP Codes in each scheme are treated as a single presort destination subject to a single minimum volume, with no further separation by 3-digit ZIP Code required. Bundles prepared for a 3-digit scheme destination that contain pieces for only one of the schemed 3-digit ZIP Codes are still considered 3-digit scheme sorted and are labeled accordingly. Label mailpieces using an OEL under 708.7.0. Place 3-digit scheme bundles in 3-digit through mixed ADC containers, as applicable, using the OEL “label to” 3-digit ZIP Code.

* * * * *

[Revise 5.0 to change “presorted” flats to “nonautomation” flats throughout.]

5.0 Preparing Nonautomation Flats

5.1 Basic Standards

All mailings and all pieces in each mailing at Regular Standard Mail and Nonprofit Standard Mail nonautomation rates are subject to specific preparation standards in 5.2 through 5.9 and to these general standards (automation rate mailings must be prepared under 7.0):

[Revise item a as follows:]

a. All pieces must be in the flat-size processing category.

[Revise item b to delete “AUTOCR.”]

* * * * *

5.3 Bundling and Labeling

[Add a new first sentence to 5.3 and revise items a and b as follows:]

Mailings consisting entirely of pieces meeting the automation-compatibility criteria in 301.3.0 must be prepared in 5-digit scheme bundles for those 5-digit ZIP Codes identified in L007 and in 3-digit scheme bundles for those 3-digit ZIP Codes identified in L008. Preparation sequence, bundle size, and labeling: a. 5-digit/scheme (required), see definition in 1.4f:

1. For mailings containing only pieces weighing 5 ounces (0.3125 pound) or less: 15-piece minimum; red Label 5 or OEL.

2. For mailings containing any pieces weighing more than 5 ounces (0.3125 pound): 10-piece minimum; red Label 5 or OEL.

b. 3-digit/scheme (required), see definition in 1.4n; 10-piece minimum; green Label 3 or OEL.

* * * * *

5.7 Sacking and Labeling

Preparation sequence, sack size, and labeling:

[Revise item a as follows:]

a. 5-digit/scheme (required); scheme sort required, only for pieces meeting the automation-compatibility criteria in 301.3.0, see definition in 1.4f; 125-piece or 15-pound minimum; labeling:

1. Line 1: For 5-digit scheme sacks use L007, Column B. For 5-digit sacks, use city, state, and 5-digit ZIP Code destination on pieces. (See 4.2 for overseas military mail).

2. Line 2: For 5-digit scheme sacks, “STD FLT 5D SCH NON BC.” For 5-digit sacks, “STD FLTS 5D NON BC.”

* * * * *

[Revise item c as follows:]

c. Origin/entry 3-digits(s) (optional); one-bundle minimum; labeling:

1. Line 1: L002, Column A.

2. Line 2: “STD FLTS 3D NON BC.”

* * * * *

7.0 Preparing Automation Rate Flats

* * * * *

[Delete 7.4. Renumber 7.5 through 7.9 as new 7.4 through 7.8.]

7.4 Standard Mail Bundle Preparation

7.4.1 Bundling and Labeling

Preparation sequence, bundle size, and labeling:

[Revise item a to require 5-digit/scheme preparation as follows:]

a. 5-digit/scheme (required); see definition in 1.4f:

1. For mailings containing only pieces weighing 5 ounces (0.3125 pound) or less: 15-piece minimum; OEL required.

2. For mailings containing any pieces weighing more than 5 ounces (0.3125 pound): 10-piece minimum; OEL required.

[Delete item b. Renumber item c as new item b and revise to require 3-digit/scheme preparation as follows:]

b. 3-digit/scheme (required); see definition in 1.4n; 10-piece minimum; OEL required.

[Delete item d. Renumber items e and f as new items c and d.]

* * * * *

[Delete renumbered 7.4.2. Renumber 7.4.3 and 7.4.4 as new 7.4.2 and 7.4.3.]

7.4.3 Sacking and Labeling

Preparation sequence, sack size, and labeling:

[Revise item a as follows:]

a. 5-digit/scheme (required); see definition in 1.4f; 125-piece or 15-pound minimum, labeling:

1. Line 1: For 5-digit scheme sacks use L007, Column B. For 5-digit sacks use city, state, and 5-digit ZIP Code on mail (see 4.2 for overseas military mail).

2. Line 2: For 5-digit scheme sacks, “STD FLTS 5D SCH BC.” For 5-digit sacks, “STD FLTS 5D BC.”

[Delete item b. Renumber items c though f as new items b through e.]

* * * * *

[Delete 7.6. Renumber 7.7 through 7.9 as new 7.6 through 7.8. Revise renumbered 7.6 through 7.8 by replacing “presorted” with “nonautomation” throughout.]

* * * * *

7.7 Exception—Automation and Nonautomation Pieces on Pallets

[Replace “nonletter” with “flat-size” throughout renumbered 7.7.]

* * * * *

360 Discount Flats: Bound Printed Matter

[Incorporate the standards for Bound Printed Matter in 160 into 360. Make revisions throughout to change single-piece Bound Printed Matter to “nonpresorted” Bound Printed Matter and make the following additional changes:]

363 Rates and Eligibility

1.0 Rates and Fees for Bound Printed Matter

* * * * *

[Renumber 1.3 through 1.5 as new 1.4 through 1.6. Insert new 1.3 as follows:]

1.3 Nonpresorted Bound Printed Matter Rates

Flat-size pieces that do not meet the standards in 301.1.3 through 301.1.5 must pay the applicable parcel rate based on weight and zone.

[Revise the heading of renumbered 1.4 as follows:]

1.4 Discount Bound Printed Matter Rates

* * * * *

[Insert new 1.4.3 as follows:]

1.4.3 Shape, Flexibility, and Thickness

Flat-size pieces that do not meet the standards in 301.1.3 through 301.1.5 must be prepared as parcels and pay the applicable parcel rate based on weight and zone.

* * * * *

365 Mail Preparation

1.0 General Information for Mail Preparation

* * * * *

1.3 Terms for Presort Levels

Terms used for presort levels are defined as follows:

* * * * *

[Revise items c and h as follows:]

c. 5-digit scheme (bundles and sacks) for flats meeting the automation-compatibility standards in 301.3.0: the ZIP Code in the delivery address on all pieces is one of the 5-digit ZIP Code areas processed by the USPS as a single scheme, as shown in L007.

* * * * *

h. 3-digit scheme bundles for flats meeting the automation-compatibility standards in 301.3.0: the ZIP Code in the delivery address begins with one of the 3-digit prefixes processed by the USPS as a single scheme, as shown in L008.

* * * * *

1.4 Preparation Definitions and Instructions

For purposes of preparing mail:

* * * * *

[Revise item c for 5-digit scheme sort as follows:]

c. A 5-digit scheme sort for flats meeting the automation-compatibility standards in 301.3.0 yields 5-digit scheme bundles for those 5-digit ZIP Codes identified in L007 and 5-digit bundles for other ZIP Codes. When standards require 5-digit/scheme sort, mailers must prepare all possible 5-digit scheme bundles and sacks of flats before preparing 5-digit bundles and sacks. The 5-digit ZIP Codes in each scheme are treated as a single presort destination subject to a single minimum volume, with no further separation required. Bundles prepared for a 5-digit scheme destination that contain pieces for only one of the schemed 5-digit ZIP Codes are still considered 5-digit scheme sorted and are labeled accordingly. Label mailpieces using an OEL under 708.7.0. Place bundles in appropriate containers using the OEL “label to” 5-digit ZIP Code.

* * * * *

[Revise item g for 3-digit scheme sort as follows:]

g. A 3-digit scheme sort for flats meeting the automation-compatibility standards in 301.3.0 yields 3-digit scheme bundles for those 3-digit ZIP Codes identified in L008. When standards require 3-digit/scheme sort, mailers must prepare all possible 3-digit scheme bundles of flats before preparing 3-digit bundles. The 3-digit ZIP Codes in each scheme are treated as a single presort destination subject to a single minimum volume, with no further separation by 3-digit ZIP Code required. Bundles prepared for a 3-digit scheme destination that contain pieces for only one of the schemed 3-digit ZIP Codes are still considered 3-digit scheme sorted and are labeled accordingly. Mailpieces must be labeled using an OEL under 708.7.0. Three-digit scheme bundles are placed in 3-digit through mixed ADC containers, as applicable, using the OEL “label to” 3-digit ZIP Code.

* * * * *

5.0 Preparing Presorted Flats

* * * * *

5.2 Bundling

* * * * *

5.2.2 Bundling and Labeling

[Add a new first sentence to 5.2.2 as follows:]

For mailings consisting entirely of pieces meeting the automation-compatibility criteria in 301.3.0, pieces must be prepared in 5-digit scheme bundles for those 5-digit ZIP Codes identified in L007 and in 3-digit scheme bundles for those 3-digit ZIP Codes identified in L008. Preparation sequence and labeling:

[Revise item a to require 5-digit schemes as follows:]

a. 5-digit/scheme (required); red Label 5 or OEL. See definition in 1.4e.

[Revise item b to require 3-digit schemes as follows:]

b. 3-digit/scheme (required); green Label 3 or OEL. See definition in 1.4g.

5.3 Sacking

* * * * *

5.3.5 Sacking and Labeling

Preparation sequence and labeling:

[Revise item a as follows:]

a. 5-digit/scheme (required); see 1.4e; scheme sort required, only for pieces meeting the automation-compatibility criteria in 301.3.0; minimum 20 addressed pieces; labeling:

1. Line 1: For 5-digit scheme sacks, use L007, Column B. For 5-digit sacks, use city, state, and 5-digit ZIP Code on mail (see 4.5 for overseas military mail).

2. Line 2: For 5-digit scheme sacks, “PSVC FLT 5D SCH NBC.” For 5-digit sacks, “PSVC FLTS 5D NON BC.”

* * * * *

7.0 Preparing Barcoded Flats

* * * * *

7.3 Bundling

* * * * *

7.3.2 Bundle Preparation

Bundles must be prepared and labeled in the following sequence:

[Delete items b and d. Renumber item c as item b and items e and f as items c and d. Revise item a and new item b to make 5-digit and 3-digit schemes required as follows:]

a. 5-digit/scheme: (required); see definition in 1.4e; minimum 10 pieces or 10 pounds, maximum weight 20 pounds; OEL required.

b. 3-digit/scheme (required); see definition in 1.4g; minimum 10 pieces or 10 pounds, maximum weight 20 pounds; OEL required.

* * * * *

7.3.3 Scheme Bundle Preparation

[Revise 7.3.3 as follows:]

See 1.4c and 1.4g for additional standards for pieces prepared in scheme bundles.

7.4 Sacking

7.4.1 Sack Preparation and Labeling

Preparation sequence, sack size, and labeling:

[Revise item a as follows:]

a. 5-digit/scheme (see 1.4e) (required), minimum 20 addressed pieces; labeling:

1. Line 1: For 5-digit scheme sacks, use L007, Column B. For 5-digit sacks, use city, state, and 5-digit ZIP Code on mail (see 4.2 for overseas military mail).

2. Line 2: For 5-digit scheme sacks, “PSVC FLTS 5D SCH BC.” For 5-digit sacks, “PSVC FLTS 5D BC.”

[Delete item b and renumber items c through f as new items b through e.]

* * * * *

366 Enter and Deposit

1.0 Presenting a Mailing

[Revise the heading of 1.1 as follows:]

1.1 Verification and Entry—Presorted, Carrier Route, Destination Entry, and Barcoded Mailings

* * * * *

[Renumber 1.2 through 1.5 as new 1.3 through 1.6. Insert new 1.2 as follows:]

1.2 Verification and Entry—Nonpresorted Mailings

Nonpresorted rate Bound Printed Matter is not offered at post offices, branches, or stations or through Postal Service carriers, except under 1.2c and 1.2d. Mailers must deposit Nonpresorted Bound Printed Matter as follows:

a. At the time and place specified by the postmaster at the office of mailing.

b. For metered mail, at other than the licensing post office only as permitted under 705.18.0, Metered Mail Drop Shipment.

c. For permit imprint mail, only at the post office where the permit is held (see 604.5.0).

d. At any post office, branch, or station or with a Postal Service carrier, if the correct postage is applied, including postage for any extra service elected.

* * * * *

370 Discount Flats: Media Mail

373 Rates and Eligibility

1.0 Rates and Fees for Media Mail

* * * * *

[Renumber 1.3 through 1.5 as new 1.4 through 1.6. Insert new 1.3 as follows:]

1.3 Shape, Flexibility, and Thickness

Flat-size pieces that do not meet the standards in 301.1.3 through 301.1.5 must be prepared as parcels.

* * * * *

375 Mail Preparation

1.0 General Information for Mail Preparation

* * * * *

1.3 Terms for Presort Levels

Terms used for presort levels are defined as follows:

* * * * *

[Renumber item b as new item c. Insert new item b for 5-digit scheme sort as follows:]

b. 5-digit scheme (bundles and sacks) for flats meeting the automation-compatibility standards in 301.3.0: the ZIP Code in the delivery address on all pieces begins with one of the 5-digit ZIP Code ranges processed by the USPS as a single scheme, as shown in L007.

* * * * *

[Renumber items d and f as new items e and g. Insert new item d for 3-digit scheme sort as follows:]

d. 3-digit scheme bundles for flats meeting the automation-compatibility standards in 301.3.0: the ZIP Code in the delivery address on all pieces begins with one of the 3-digit ZIP Code ranges processed by the USPS as a single scheme, as shown in L008.

* * * * *

1.4 Preparation Definitions and Instructions

For purposes of preparing mail:

* * * * *

[Renumber items c through f as new items e through h. Insert new items c and d for 5-digit and 3-digit scheme sorts as follows:]

c. A 5-digit scheme sort for flats meeting the automation-compatibility standards in 301.3.0 yields 5-digit scheme bundles for those 5-digit ZIP Codes identified in L007 and 5-digit bundles for other ZIP Codes. When standards require 5-digit/scheme sort, mailers must prepare all possible 5-digit scheme bundles and sacks of flats before preparing 5-digit bundles and sacks. The 5-digit ZIP Codes in each scheme are treated as a single presort destination subject to a single minimum volume, with no further separation required. Bundles prepared for a 5-digit scheme destination that contain pieces for only one of the schemed 5-digit ZIP Codes are still considered 5-digit scheme sorted and are labeled accordingly. Label mailpieces using an OEL under 708.7.0. Place bundles in appropriate containers using the OEL “label to” 5-digit ZIP Code.

d. A 3-digit scheme sort for flats meeting the automation-compatibility standards in 301.3.0 yields 3-digit scheme bundles for those 3-digit ZIP Codes identified in L008. When standards require 3-digit/scheme sort, mailers must prepare all possible 3-digit scheme bundles of flats before preparing 3-digit bundles. The 3-digit ZIP Codes in each scheme are treated as a single presort destination subject to a single minimum volume, with no further separation by 3-digit ZIP Code required. Bundles prepared for a 3-digit scheme destination that contain pieces for only one of the schemed 3-digit ZIP Codes are still considered 3-digit scheme sorted and are labeled accordingly. Mailpieces must be labeled using an OEL under 708.7.0. Place 3-digit scheme bundles in 3-digit through mixed ADC containers, as applicable, using the OEL “label to” 3-digit ZIP Code.

* * * * *

[Revise heading of 5.0 as follows:]

5.0 Preparing Presorted Flats

* * * * *

5.2 Bundling

* * * * *

5.2.2 Bundling and Labeling

[Add a new first sentence to 5.2.2 as follows:]

For mailings consisting entirely of pieces meeting the automation-compatibility criteria in 301.3.0, pieces must be prepared in 5-digit scheme bundles for those 5-digit ZIP Codes identified in L007 and in 3-digit scheme bundles for those 3-digit ZIP Codes identified in L008. Preparation sequence, bundle size, and labeling:

[Revise items a and b to make 5-digit and 3-digit schemes required as follows:]

a. 5-digit/scheme (optional, but required for 5-digit rate); red Label 5 or OEL. See definition in 1.4c.

b. 3-digit/scheme (required); green Label 3 or OEL. See definition in 1.4d.

* * * * *

5.3 Sacking

* * * * *

5.3.2 Sacking and Labeling

Preparation sequence, sack size, and labeling:

[Revise item a as follows:]

a. 5-digit/scheme (optional, but required for 5-digit rate); see 1.4c; scheme sort required, only for pieces meeting the automation-compatibility criteria in 301.3.0; minimum 10 addressed pieces; labeling:

1. Line 1: For 5-digit scheme sacks, use L007, Column B. For 5-digit sacks, use city, state, and 5-digit ZIP Code on mail (see 4.5 for overseas military mail).

2. Line 2: For 5-digit scheme sacks, “PSVC FLT 5D SCH NBC.” For 5-digit sacks, “PSVC FLT 5D NBC.”

* * * * *

380 Discount Flats: Library Mail

383 Rates and Eligibility

1.0 Rates and Fees for Library Mail

* * * * *

[Renumber 1.3 through 1.5 as new 1.4 through 1.6. Insert new 1.3 as follows:]

1.3 Shape, Flexibility, and Thickness

Flat-size pieces that do not meet the standards in 301.1.3 through 301.1.5 must be prepared as parcels.

* * * * *

385 Mail Preparation

1.0 General Information for Mail Preparation

* * * * *

1.3 Terms for Presort Levels

Terms used for presort levels are defined as follows:

* * * * *

[Renumber item b as new item c. Insert new item b for 5-digit scheme sort as follows:]

b. 5-digit scheme (bundles and sacks) for flats meeting the automation-compatibility standards in 301.3.0: the ZIP Code in the delivery address on all pieces begins with one of the 5-digit ZIP Code ranges processed by the USPS as a single scheme, as shown in L007.

* * * * *

[Renumber items d and f as new items e and g. Insert new item d for 3-digit scheme sort as follows:]

d. 3-digit scheme bundles for flats meeting the automation-compatibility standards in 301.3.0: the ZIP Code in the delivery address on all pieces begins with one of the 3-digit ZIP Code ranges processed by the USPS as a single scheme, as shown in L008.

* * * * *

1.4 Preparation Definitions and Instructions

For purposes of preparing mail:

* * * * *

[Renumber items c through f as new items e through h. Insert new items c and d for 5-digit and 3-digit scheme sorts as follows:]

c. A 5-digit scheme sort for flats meeting the automation-compatibility standards in 301.3.0 yields 5-digit scheme bundles for those 5-digit ZIP Codes identified in L007 and 5-digit bundles for other ZIP Codes. When standards require 5-digit/scheme sort, mailers must prepare all possible 5-digit scheme bundles and sacks of flats before preparing 5-digit bundles and sacks. The 5-digit ZIP Codes in each scheme are treated as a single presort destination subject to a single minimum volume, with no further separation required. Bundles prepared for a 5-digit scheme destination that contain pieces for only one of the schemed 5-digit ZIP Codes are still considered 5-digit scheme sorted and are labeled accordingly. Label mailpieces using an OEL under 708.7.0. Place bundles in appropriate containers using the OEL “label to” 5-digit ZIP Code.

d. A 3-digit scheme sort for flats meeting the automation-compatibility standards in 301.3.0 yields 3-digit scheme bundles for those 3-digit ZIP Codes identified in L008. When standards require 3-digit/scheme sort, mailers must prepare all possible 3-digit scheme bundles of flats before preparing 3-digit bundles. The 3-digit ZIP Codes in each scheme are treated as a single presort destination subject to a single minimum volume, with no further separation by 3-digit ZIP Code required. Bundles prepared for a 3-digit scheme destination that contain pieces for only one of the schemed 3-digit ZIP Codes are still considered 3-digit scheme sorted and are labeled accordingly. Mailpieces must be labeled using an OEL under 708.7.0. Place 3-digit scheme bundles in 3-digit through mixed ADC containers, as applicable, using the OEL “label to” 3-digit ZIP Code.

* * * * *

[Revise heading of 5.0 as follows:]

5.0 Preparing Presorted Flats

* * * * *

5.2 Bundling

* * * * *

5.2.2 Bundling and Labeling

[Add a new first sentence to 5.2.2 as follows:]

For mailings consisting entirely of pieces meeting the automation-compatibility criteria in 301.3.0, pieces must be prepared in 5-digit scheme bundles for those 5-digit ZIP Codes identified in L007 and in 3-digit scheme bundles for those 3-digit ZIP Codes identified in L008. Preparation sequence, bundle size, and labeling:

[Revise items a and b as follows to make 5-digit and 3-digit schemes required:]

a. 5-digit scheme (optional, but required for 5-digit rate); red Label 5 or OEL. See definition in 1.4c.

b. 3-digit scheme (required); green Label 3 or OEL. See definition in 1.4d.

5.3 Sacking

* * * * *

5.3.2 Sacking and Labeling

Preparation sequence, sack size, and labeling:

[Revise item a as follows:]

a. 5-digit/scheme (optional, but required for 5-digit rate); see 1.4c; scheme sort required, only for pieces meeting the automation-compatibility criteria in 301.3.0; minimum 10 addressed pieces; labeling:

1. Line 1: For 5-digit scheme sacks, use L007, Column B. For 5-digit sacks, use city, state, and 5-digit ZIP Code on mail (see 4.5 for overseas military mail).

2. Line 2: For 5-digit scheme sacks, “PSVC FLT 5D SCH NBC.” For 5-digit sacks, “PSVC FLT 5D NBC.”

* * * * *

400 Discount Mail: Parcels

401 Physical Standards

1.0 Physical Standards for Parcels

[Revise the heading of 1.1 as follows:]

1.1 Processing Categories

[Revise the first sentence of 1.1 as follows:]

USPS categorizes parcels into one of three mail processing categories: machinable, irregular, or outside parcel. These categories are based on the physical dimensions of the piece, regardless of the placement (orientation) of the delivery address on the piece.

* * * * *

1.5 Machinable Parcels

* * * * *

[Delete 1.5.4, Exclusions.]

* * * * *

2.0 Additional Physical Standards by Class of Mail

2.1 First-Class Mail Parcels

* * * * *

[Delete 2.1.2 and replace with new 2.1.2 as follows:]

2.1.2 Surcharge

Unless prepared in 5-digit/scheme containers or paid at a single-piece rate, presorted parcels are subject to a $0.05 surcharge if any of the following characteristics apply:

a. The parcels weigh less than 2 ounces.

b. The parcels do not bear a UCC/EAN 128 or POSTNET barcode.

c. The parcels are irregularly shaped, such as rolls, tubes, and triangles.

[Revise the heading of 2.2 as follows:]

2.2 Standard Mail Parcels and Not Flat-Machinable Pieces

[Revise heading and text of 2.2.1 as follows:]

2.2.1 Additional Physical Standards

Each piece must weigh less than 16 ounces.

[Revise heading and text of 2.2.2 as follows:]

2.2.2 Not Flat-Machinable Pieces

Categorize Standard Mail with the following characteristics as Not Flat-Machinable pieces:

a. Not Flat-Machinable pieces are rigid, with the following dimensions:

1. At least 4 inches high, but not more than 12 inches high.

2. At least 4 inches long, but not more than 15¾ inches long.

3. At least 0.009 thick, but not more than 1¼ inches thick. (Pieces less than 5 inches long must be over ¼ inch thick.)

b. Flexible pieces that are at least 4 inches high, but not more than 12 inches high, with either of the following dimensions:

1. Over 15 inches long, but not more than 15¾ inches long.

2. Over ¾ inches thick, but not more than 1¼ inches thick.

c. Nonmachinable letter-size pieces weighing more than 3.3 ounces, unless they qualify to be mailed at automation flat-size rates.

[Delete 2.2.3 and replace with new 2.2.3 as follows:]

2.2.3 Surcharge

Unless prepared in carrier route or 5-digit/scheme containers, Standard Mail parcels and Not Flat-Machinable pieces are subject to a $0.05 surcharge if:

a. The machinable or irregular parcels do not bear a UCC/EAN 128 barcode (see 708.5.0).

b. The Not Flat-Machinable pieces weigh 6 ounces or more and do not bear a UCC/EAN 128 barcode (see 708.5.0).

c. The Not Flat-Machinable pieces weigh less than 6 ounces and do not bear a UCC/EAN 128 barcode (see 708.5.0) or POSTNET barcode (see 708.4.0).

2.3 Parcel Post

2.3.1 General Standards

These standards apply to Parcel Post:

* * * * *

[Revise item b as follows:]

b. An item weighing less than 20 pounds but measuring more than 84 inches (but not more than 108 inches) in combined length and girth is charged the rate for a 20-pound parcel for the zone to which it is addressed (balloon rate).

* * * * *

402 Elements on the Face of a Mailpiece

* * * * *

2.0 Placement and Content of Markings

2.1 First-Class Mail and Standard Mail Markings

2.1.1 Placement

Markings must be placed as follows:

* * * * *

[Renumber item c as new item d. Insert new item c as follows:]

c. Mark each Not Flat-Machinable piece “Not Flat-Machinable” or “NFM,” either by including the marking in the optional endorsement line or by placing the marking immediately to the left of or below the postage area.

* * * * *

4.0 General Barcode Placement for Parcels

[Revise title of 4.1 as follows:]

4.1 UCC/EAN 128 Barcode Location

* * * * *

[Revise title of 4.2 as follows:]

4.2 Clear Zone for UCC/EAN 128 Barcode

* * * * *

[Add new 4.3 for POSTNET barcodes as follows:]

4.3 POSTNET Barcodes

First-Class Mail parcels and Not Flat-Machinable pieces less than 6 ounces may bear POSTNET barcodes instead of UCC/EAN 128 barcodes. Pieces bearing POSTNET barcodes are not eligible to be mailed using eVS. Place POSTNET barcodes on First-Class Mail parcels or Not Flat-Machinable pieces under 4.3.1 through 4.3.3.

4.3.1 General Placement of POSTNET Barcodes

On any First-Class Mail parcel or Standard Mail Not Flat-Machinable piece, the POSTNET barcode may be anywhere on the address side as long as it is at least ⅛ inch from any edge of the piece. POSTNET barcodes must be printed according to 708.4.0. Address block barcodes are subject to the standards in 4.3.2.

4.3.2 POSTNET Barcode in Address Block

When the POSTNET barcode is included as part of the address block:

a. Place the barcode in one of these positions:

1. Above the address line containing the recipient's name.

2. Below the city, state, and ZIP Code line.

3. Above or below the keyline information.

4. Above or below the optional endorsement line.

b. Do not print the barcode anywhere between the address line containing the recipient's name and the city, state, and ZIP Code line.

c. Allow at least 1/25 inch clearance between the barcode and any information line above or below it. Do not separate the barcode more than ⅝ inch from the top or bottom line of the address block. Allow at least ⅛ inch clearance between the leftmost and rightmost bars and any adjacent printing.

d. If a window envelope is used, allow at least ⅛ inch clearance between the leftmost and rightmost bars and any printing or window edge, and at least 1/25 inch between the barcode and the top and bottom window edges. These clearances must be maintained during the insert's range of movement in the envelope. Covers for address block windows are subject to 4.3.3.

e. If an address label is used, allow a clear space of at least ⅛ inch between the barcode and the left and right edges of the address label, and at least 1/25 inch between the barcode and the top and bottom edges of the address label.

4.3.3 Window Cover

A window cover over the address block must be a nontinted clear or transparent material (e.g., cellophane or polystyrene) that permits the barcode and its background, as viewed through the window material, to meet the reflectance standards in 708.4.4. The edges of the window cover must be securely glued to the envelope.

430 Discount Parcels: First-Class Mail

433 Rates and Eligibility

1.0 Rates and Fees for First-Class Mail

* * * * *

[Revise 1.4 to change heading and text describing the surcharge as follows:]

1.4 Surcharge

Unless prepared in 5-digit/scheme sacks or paid at the single-piece rates, presorted parcels are subject to a $0.05 surcharge if any of the following characteristics apply:

a. The parcels weigh less than 2 ounces.

b. The parcels do not bear a UCC/EAN 128 or POSTNET barcode, under 708.0, for the ZIP Code of the delivery address.

c. The parcels are irregularly shaped, such as rolls, tubes, and triangles.

* * * * *

[Delete 3.4, Nonmachinable Surcharge for Parcel-Size Pieces. Renumber 3.5 through 3.7 as new 3.4 through 3.6.]

* * * * *

[Insert new 4.0 to describe Presorted parcel rates as follows:]

4.0 Rate Eligibility for Presorted First-Class Mail Parcels

4.1 5-Digit Rate

The 5-digit rate applies to presorted parcels in a 5-digit/scheme sack containing at least 10 pounds of parcels.

4.2 3-Digit Rate

The 3-digit rate applies to presorted parcels in a 3-digit sack containing at least 10 pounds of parcels.

4.3 ADC Rate

The ADC rate applies to presorted parcels in a 3-digit origin sack (no minimum), and to parcels in an ADC sack containing at least 10 pounds of parcels.

4.4 Single-Piece Rate

The single-piece rate applies to presorted parcels in a mixed ADC sack, with no minimum volume requirement.

434 Postage Payment and Documentation

* * * * *

2.0 Postage Payment for Presorted Parcels

* * * * *

2.2 Affixed Postage for Presorted First-Class Mail

Unless permitted by other standards or by Business Mailer Support, USPS Headquarters, when precanceled postage or meter stamps are used as the postage payment method, only one payment method may be used in a mailing and each piece must bear postage under one of these conditions:

* * * * *

[Revise item b to remove “nonmachinable surcharge” as follows:]

b. A precanceled stamp or the full postage at the lowest First-Class Mail 1-ounce rate applicable to the mailing job, and full postage on metered pieces for additional ounce(s) or extra services.

* * * * *

435 Mail Preparation

1.0 General Information for Mail Preparation

* * * * *

1.2 Definition of Mailings

[Delete item b. Combine item a and introductory text as follows:]

A “mailing” is defined as a group of pieces within the same class of mail and the same processing category that may be sorted together and/or presented under a single minimum volume mailing requirement under the applicable standards. Generally, types of mail that follow different flows through the postal processing system must be prepared as a separate mailing.

1.3 Terms for Presort Levels

Terms used for presort levels are defined as follows:

[Renumber items a through e as new items b through f. Insert new item a as follows:]

a. 5-digit scheme for First-Class Mail parcels: the ZIP Code in the delivery address on all pieces begins with one of the 5-digit ZIP Code ranges processed by the USPS as a single scheme, as shown in L606.

* * * * *

1.4 Preparation Definitions and Instructions

For purposes of preparing mail:

* * * * *

[Revise item d as follows:]

d. The required quantity (for example, “required at 10 pieces”) means that the unit must be prepared for the corresponding presort level whenever the specified quantity of mail is reached or exceeded. Smaller quantities may be prepared only if permitted by the standards for each rate.

* * * * *

[Delete item g. Renumber item h as new item g and revise as follows:]

g. A “logical” presort destination represents the total number of pieces in a mailing that are eligible for a specific presort level based on the required sortation, but which might not be contained in a single container (sack or pallet) due to applicable preparation requirements or the size of the individual pieces.

[Delete 2.0, Bundles, and renumber 3.0 through 5.0 as new 2.0 through 4.0.]

* * * * *

3.0 Sack Labels

* * * * *

3.4 Line 2 (Content Line)

Line 2 (content line) must meet these standards:

* * * * *

b. Codes: The codes shown below must be used as appropriate on Line 2 of sack labels.

[Revise the table in renumbered 3.4 to delete the entries for “General Delivery Unit,” “Highway Contract Route,” “Post Office Box Section,” and “Rural Route.”]

* * * * *

[Revise the heading of renumbered 4.0 as follows:]

4.0 Preparing Presorted Parcels

* * * * *

[Revise heading and text of 4.3 to remove bundling requirement as follows:]

4.3 Bundling

Bundling is not permitted.

4.4 Sacking and Labeling

Preparation sequence, sack size, and labeling:

[Revise item a as follows:]

a. 5-digit/scheme optional, but required for 5-digit rate (see definition in 1.3a); 10-pound minimum, labeling:

1. Line 1: For 5-digit scheme sacks use L606, Column B. For 5-digit sacks use city, state, and 5-digit ZIP Code on mail (see 4.3c for overseas military mail).

2. Line 2: For 5-digit scheme sacks, “FCM PARCELS 5D SCH.” For 5-digit sacks, “FCM PARCELS 5D.”

* * * * *

440 Discount Parcels: Standard Mail

443 Rates and Eligibility

* * * * *

4.0 Rate Eligibility for Standard Mail

4.1 General Information

[Revise 4.1 to delete reference to barcode discount and reorganize text as follows:]

All Standard Mail rates are discounted rates. These rates apply to mailings meeting the basic standards in 2.0 through 4.0 and the corresponding standards for Presorted rates under 5.0 or Enhanced Carrier Route rates under 6.0. Destination entry discount rates are available under 446.2.0 through 446.5.0 in Enter and Deposit. Pieces are subject to either a single minimum per piece rate or a combined piece/pound rate, depending on the weight of the individual pieces in the mailing under 4.2 or 4.3. Only organizations authorized by the USPS under 703.1.0 may mail at Nonprofit rates.

4.2 Minimum Per Piece Rates

The minimum per piece rates (the minimum postage that must be paid for each piece) apply as follows:

* * * * *

[Revise item b to delete the text that does not apply to parcels as follows:]

b. In applying the minimum per piece rates, a mailpiece is categorized as a parcel based on the standards in 401, Physical Standards.

[Revise item c to delete the text that does not apply to parcels and to add 5-digit rate mail as eligible for DDU rates as follows:]

c. Individual Rates. There are separate minimum per piece rates for each subclass (Regular, Enhanced Carrier Route, Nonprofit, and Nonprofit Enhanced Carrier Route) and within each subclass for the level of presort within each mailing. Mailers may claim discounted rates for destination entry mailings under 446.2.0 through 446.5.0 in Enter and Deposit. DDU rates are available for parcels and Not Flat-Machinable pieces entered only at 5-digit, Enhanced Carrier Route, or Nonprofit Enhanced Carrier Route rates. See 1.0, Rates and Fees for Standard Mail, for individual per piece rates.

* * * * *

[Revise the heading and text of 4.4 as follows:]

4.4 Surcharge

Unless prepared in carrier route (irregular parcels only) or 5-digit/scheme containers, Standard Mail parcels and Not Flat-Machinable pieces are subject to a $0.05 surcharge if:

a. The machinable or irregular parcels do not bear a UCC/EAN 128 barcode, under 708.5.0, for the ZIP Code of the delivery address.

b. The Not Flat-Machinable pieces weigh 6 ounces or more and do not bear a UCC/EAN 128 barcode, under 708.5.0, for the ZIP Code of the delivery address.

c. The Not Flat-Machinable pieces weigh less than 6 ounces and do not bear a UCC/EAN 128 or POSTNET barcode, under 708.0, for the ZIP Code of the delivery address.

[Delete 4.5 and renumber 4.6 as new 4.5.]

4.5 Extra Services for Standard Mail

* * * * *

4.5.2 Eligible Matter

[Revise renumbered 4.5.2 as follows:]

Extra services may be used only with pieces mailed at machinable or irregular parcel rates.

4.5.3 Ineligible Matter

Extra services (other than certificate of mailing service) may not be used for any of the following types of Standard Mail:

[Revise item a as follows:]

a. Pieces entered as letters, flats, or NFMs.

* * * * *

[Revise the heading of 5.0 as follows:]

5.0 Additional Eligibility Standards for Presorted Standard Mail Pieces

* * * * *

5.2 Rate Application

[Revise 5.2 to add Not Flat-Machinable pieces and to note separate rates as follows:]

Rates for Regular and Nonprofit Standard Mail apply separately to machinable parcels, irregular parcels, and Not Flat-Machinable pieces that meet the eligibility standards in 2.0 through 4.0 and the preparation standards in 445.5.0 or 705.8.0, Preparing Pallets. When parcels and Not Flat-Machinable pieces are combined under 445.5.0, all pieces are eligible for the applicable rates when the combined total meets the eligibility standards. For example, when there are 10 pounds of combined machinable parcels, irregular parcels, and Not Flat-Machinable pieces in a 5-digit sack, all pieces are eligible for the 5-digit rates.

[Delete 5.3 through 5.5. Insert new 5.3 for machinable parcel rates as follows:]

5.3 Rates for Machinable Parcels

5.3.1 5-Digit Rate

The 5-digit rate applies to qualifying machinable parcels presented:

a. In a 5-digit/scheme (L606) sack containing at least 10 pounds of pieces.

b. On a 5-digit pallet, according to standards in 705.8.10.

c. As one or more parcels that mailers drop ship to a DDU under 446.5.2.

5.3.2 BMC Rate

The BMC rate applies to qualifying machinable parcels presented:

a. In an ASF or BMC sack containing at least 10 pounds of parcels.

b. On an ASF or BMC pallet, according to standards in 705.8.10.

5.3.3 Mixed BMC Rate

The mixed BMC rate applies to machinable parcels that are not eligible for 5-digit or BMC rates. Place machinable parcels at mixed BMC rates in mixed BMC sacks under 445.5.3.2 or on mixed BMC pallets under 705.8.10.

[Insert new 5.4 for irregular parcel rates as follows:]

5.4 Rates for Irregular Parcels

5.4.1 5-Digit Rate

The 5-digit rate applies to irregular parcels (see 401.1.6) presented:

a. In a 5-digit/scheme (L606) sack containing at least 10 pounds of pieces.

b. On a 5-digit/scheme (L606) pallet, according to 705.8.10.

c. As one or more parcels that mailers drop ship to a DDU under 446.5.2.

5.4.2 3-Digit Rate

The 3-digit rate applies to irregular parcels (see 401.1.6) presented:

a. In a 3-digit sack containing at least 10 pounds of parcels.

b. On a 3-digit pallet, according to 705.8.10.

5.4.3 ADC Rate

The ADC rate applies to irregular parcels (see 401.1.6) presented:

a. In an ADC sack containing at least 10 pounds of parcels, or in an optional 3-digit origin/entry sack.

b. On an ADC pallet, according to 705.8.10.4.

5.4.4 Mixed ADC Rate

The mixed ADC rate applies to irregular parcels (see 401.1.6) in mixed ADC containers.

[Insert new 5.5 for Not Flat-Machinable rates as follows:]

5.5 Rates for Not Flat-Machinable (NFM) Pieces

5.5.1 5-Digit Rate

The 5-digit rate applies to NFM pieces presented:

a. In a 5-digit/scheme sack containing at least 10 pounds of pieces.

b. In 5-digit bundles of five or more pieces on pallets or in pallet boxes under 705.8.0.

c. As one or more pieces that mailers drop ship to a DDU under 446.5.0.

5.5.2 3-Digit Rates

The 3-digit rate applies to NFM pieces presented:

a. In a 3-digit sack containing at least 10 pounds of pieces.

b. On a 3-digit pallet under 705.8.10.

5.5.3 ADC Rate

The ADC rate applies to NFM pieces presented:

a. In an ADC or BMC/ASF sack containing at least 10 pounds of pieces or in an optional 3-digit origin/entry sack.

b. On an ADC or BMC/ASF pallet under 705.8.10.

5.5.4 Mixed ADC Rate

The mixed ADC rate applies to NFM pieces in mixed ADC or mixed BMC containers.

* * * * *

445 Mail Preparation

1.0 General Information for Mail Preparation

* * * * *

1.4 Preparation Definitions and Instructions

For purposes of preparing mail:

* * * * *

[Revise item c to require 5-digit/scheme sort for rate eligibility as follows:]

c. A 5-digit/scheme sort for Standard Mail parcels yields 5-digit scheme sacks or pallets for those 5-digit ZIP Codes listed in L606 and 5-digit sacks or pallets for other ZIP Codes. When standards require 5-digit/scheme sort, mailers must prepare all possible 5-digit scheme sacks, then prepare all possible 5-digit sacks. The 5-digit ZIP Codes in each scheme are treated as a single presort destination subject to a single minimum volume (if required), with no further separation by 5-digit ZIP Code required. Sacks or pallets prepared for a 5-digit scheme destination that contain pieces for only one of the schemed 5-digit ZIP Codes are still considered 5-digit scheme sorted and are labeled accordingly.

* * * * *

2.0 Bundles

2.1 Definition of a Bundle

[Revise 2.1 to restrict bundling as follows:]

Mailers assemble pieces available for different presort destinations into groups. A “bundle” is a group of addressed pieces secured together as a unit. The term “bundle” does not apply to unsecured groups of pieces. Bundling under 445 is allowed only for carrier route bundles of irregular parcels and 5-digit bundles of Not Flat-Machinable pieces placed on pallets or in pallet boxes (see 6.0).

* * * * *

5.0 Preparing Presorted Parcels

* * * * *

5.3 Preparing Machinable Parcels

5.3.1 5-Digit Sacks

[Revise 5.3.1 to change the preparation of 5-digit/scheme sacks containing both machinable and irregular parcels (or also containing Not Flat-Machinable pieces) to be that for machinable parcels, and to require 5-digit scheme sorting when claiming 5-digit rates, as follows:]

Mailers must prepare all possible 5-digit/scheme sacks in a mailing that includes pieces claimed at the 5-digit rate. If mailers do not prepare all 5-digit/scheme sacks when there are 10 pounds or more of mail for a destination, they may not claim the 5-digit rate for any part of the mailing. Mailers choosing to combine the preparation of either irregular parcels or Not Flat-Machinable pieces (see 401.2.2.3) weighing 6 ounces or more with machinable parcels placed in 5-digit/scheme sacks must prepare those sacks under 5.3.2. Mailers choosing to combine the preparation of Not Flat-Machinable pieces weighing 6 ounces or more with machinable parcels placed in ASF, BMC, or mixed BMC sacks must prepare the sacks under 5.3.2. There is no minimum for parcels prepared in 5-digit/scheme sacks entered at a DDU.

5.3.2 Sacking and Labeling

Preparation sequence, sack size, and labeling:

[Revise item a to add the requirement of 5-digit/scheme sorting for pieces claiming the 5-digit rate as follows:]

a. 5-digit/scheme (optional, but required for 5-digit rate), see definition in 1.4c; 10-pound minimum except under 5.3.1; labeling:

1. Line 1: For 5-digit scheme sacks, use L606, Column B. For 5-digit sacks, use city, state, and 5-digit ZIP Code destination on pieces (see 4.0 for overseas military mail).

2. Line 2: For 5-digit scheme sacks, “STD MACH 5D SCH.” For 5-digit sacks, “STD MACH 5D.”

[Delete item b. Renumber items c through e as new items b through d.]

* * * * *

5.4 Preparing Irregular Parcels

[Delete 5.4.1 and 5.4.2. Renumber 5.4.3 through 5.4.8 as new 5.4.1 through 5.4.6. Revise heading and text of renumbered 5.4.1 to restrict bundling of irregular parcels as follows:]

5.4.1 Bundling

Bundling is not permitted, except for bundles of carrier route irregular parcels under 6.0.

* * * * *

[Delete renumbered 5.4.2 through 5.4.5 and renumber 5.4.6 through 5.4.8 as new 5.4.2 through 5.4.4.]

5.4.2 Required Sacking

[Revise renumbered 5.4.2 to change the minimum quantity per sack from 15 pounds to 10 pounds and to add NFMs as follows:]

Mailers must prepare a sack when the quantity of mail for a required presort destination reaches 10 pounds of pieces. There is no minimum for parcels prepared in 5-digit/scheme sacks entered at a DDU. Mailers choosing to combine irregular parcels with machinable parcels and NFMs in 5-digit/scheme sacks must prepare those sacks under 5.3.2. Mailers may not prepare sacks containing irregular and machinable parcels to other presort levels. Mailers may combine irregular parcels with Not Flat-Machinable pieces weighing less than 6 ounces in sacks under 5.4.4.

* * * * *

5.4.4 Sacking and Labeling

[Revise renumbered 5.4.4 as follows:]

Preparation sequence, sack size, and labeling:

a. 5-digit/scheme (optional, but required for 5-digit rate), 10-pound minimum, except when entered at a DDU; labeling:

1. For 5-digit scheme sacks, use L606, Column B. For 5-digit sacks, use city, state, and 5-digit ZIP Code on mail (see 4.3 for overseas military mail).

2. Line 2: For 5-digit scheme sacks, “STD IRREG 5D SCH.” For 5-digit sacks, “STD IRREG 5D.”

b. 3-digit (required); 10-pound minimum; for irregular parcels only; labeling:

1. For Line 1, L002, Column A.

2. For Line 2, “STD IRREG 3D.”

c. Origin/entry 3-digit(s) (optional); no minimum; labeling:

1. Line 1: Use L002, Column A.

2. Line 2: “STD IRREG 3D.”

d. ADC (required); 10-pound minimum; labeling:

1. Line 1: L603, Column B. (Use L004 for parcels that weigh at least 2 ounces and are not rolls or tubes. Do not mix pieces labeled to L603 with pieces labeled to L004.)

2. Line 2: “STD IRREG ADC.”

e. Mixed ADC (required); no minimum; labeling:

1. Line 1: L604, Column B. (Use L009 for parcels that weigh at least 2 ounces and are not rolls or tubes. Do not mix pieces labeled to L604 with pieces labeled to L009.)

2. Line 2: “STD IRREG WKG.”

[Renumber 6.0 as new 7.0. Insert new 6.0 for preparation of NFM pieces as follows:]

6.0 Preparing Not Flat-Machinable Pieces

6.1 Basic Standards

All mailings at Regular Standard Mail and Nonprofit Standard Mail Presorted rates for NFM pieces are subject to the general preparation standards in 1.0 through 4.0. Prepare NFM pieces (see 301.2.2.3) according to the standards in 6.0 unless commingled with parcels under 445.5.0. Mark NFM pieces according to the standards in 402.2.1.1.

6.2 Bundling

Mailers may make 5-digit bundles of at least five pieces when placed on pallets or in pallet boxes under 705.8.0. No other NFM bundling is permitted.

6.3 Sacking and Labeling

6.3.1 General

Mailers may combine NFM pieces with parcels in 5-digit/scheme sacks under 445.5.3. See 6.3.2 for NFM pieces that weigh less than 6 ounces; see 6.3.3 for NFM pieces that weigh 6 ounces or more.

6.3.2 NFM Pieces Weighing Less Than 6 Ounces

Preparation sequence, sack size, and labeling for sacks of NFM pieces that weigh less than 6 ounces:

a. 5-digit/scheme (optional, but required for 5-digit rate); see definition in 445.1.4c; 10-pound minimum, except when drop shipped to a DDU (no minimum); labeling:

1. Line 1: For 5-digit scheme sacks, use L606, Column B. For 5-digit sacks, use city, state, and 5-digit ZIP Code destination on pieces (see 4.0 for overseas military mail).

2. Line 2: For 5-digit scheme sacks, “STD NFM 5D SCH.” For 5-digit sacks, “STD NFM 5D.”

b. 3-digit (required); 10-pound minimum; labeling:

1. Line 1: Use L002, Column A.

2. Line 2: “STD NFM 3D.”

c. Origin/entry 3-digit(s) (optional); no minimum; labeling:

1. Line 1: Use L002, Column A.

2. Line 2: “STD NFM 3D.”

d. ADC (required); 10-pound minimum; labeling:

1. Line 1: Use L004, Column B.

2. Line 2: “STD NFM ADC.”

e. Mixed ADC (required); no minimum; labeling:

1. Line 1: Use L009, Column B.

2. Line 2: “STD NFM WKG.”

6.3.3 NFM Pieces Weighing 6 Ounces or More

Preparation sequence, sack size, and labeling for sacks of NFM pieces that weigh 6 ounces or more:

a. 5-digit/scheme (optional but required for 5-digit rate); see definition in 445.1.4c; 10-pound minimum, except when drop shipped to a DDU (no minimum); labeling:

1. Line 1: For 5-digit scheme sacks, use L606, Column B. For 5-digit sacks, use city, state, and 5-digit ZIP Code destination on pieces (see 4.0 for overseas military mail).

2. Line 2: For 5-digit scheme sacks, use “STD NFM 5D SCH.” For 5-digit sacks, use “STD NFM 5D.”

b. ASF (optional), permitted only for mail deposited at an ASF to claim DBMC rate; 10-pound minimum; labeling:

1. Line 1: L602, Column B. DBMC rate eligibility determined by Exhibit 446.3.1, BMC/ASF-DMBC Rate Eligibility.

2. Line 2: “STD NFM ASF.”

c. BMC (required); 10-pound minimum; labeling:

1. Line 1: L601, Column B. DBMC rate eligibility determined by Exhibit 446.3.1, BMC/ASF-DMBC Rate Eligibility.

2. Line 2: “STD NFM BMC.”

d. Mixed BMC (required); no minimum; labeling:

1. Line 1: “MXD” followed by L601, Column B information for BMC serving 3-digit ZIP Code prefix of entry post office.

2. Line 2: “STD NFM WKG.”

* * * * *

446 Enter and Deposit

* * * * *

4.0 Destination Sectional Center Facility (DSCF) Entry

* * * * *

4.2 Eligibility

Pieces in a mailing that meets the standards in 2.0 and 4.0 are eligible for the DSCF rate, as follows:

* * * * *

[Insert new item c as follows:]

c. When prepared and deposited under 705.6.3.

* * * * *

5.0 Destination Delivery Unit (DDU) Entry

* * * * *

5.2 Eligibility

[Revise 5.2 to allow 5-digit sacks of parcels to be entered at DDUs and to add “Not Flat-Machinable” pieces as follows:]

Pieces in a mailing that meets the standards in 2.0 and 5.0 are eligible for the DDU rate when deposited at a DDU, addressed for delivery within that facility's service area, and prepared as follows:

a. Irregular parcels in carrier route bundles sorted to carrier route sacks, and otherwise eligible for and claimed at a carrier route rate.

b. One or more parcels or Not Flat-Machinable pieces in 5-digit containers.

450 Discount Parcels: Parcel Post

453 Rates and Eligibility

* * * * *

3.0 Rate Eligibility Standards for Parcel Post

3.1 Parcel Post and Parcel Select Rate Eligibility

There are five Parcel Post (including Parcel Select) rate categories: Intra-BMC, Inter-BMC, destination bulk mail center (DBMC), destination sectional center facility (DSCF), and destination delivery unit (DDU). Parcel Post mailed at any of the destination entry rates is called “Parcel Select” (see 456.2.0). Intra-BMC and Inter-BMC Parcel Post rates and DBMC Parcel Select rates are calculated based on the zone to which the parcel is addressed and the weight of the parcel. DSCF and DDU Parcel Select rates are calculated based on the weight of the parcel.

Requirements for Parcel Post rates and discounts are as follows:

* * * * *

[Revise item f as follows:]

f. The barcode discount applies to Inter-BMC/ASF and Intra-BMC/ASF Parcel Post machinable parcels (401.1.5) that bear a barcode under 708.5.0 for the ZIP Code of the delivery address and are part of a mailing of 50 or more Parcel Post rate pieces.

* * * * *

[Revise item h as follows:]

h. Items weighing less than 20 pounds but measuring more than 84 inches (but not more than 108 inches) in combined length and girth are charged the rate for a 20-pound parcel for the zone to which it is addressed (balloon rate).

* * * * *

455 Mail Preparation

* * * * *

5.0 Standards for Barcode Discounts

5.1 Standards for Barcoded Mail

[Revise 5.1 as follows:]

The barcode discount applies to Inter-BMC/ASF and Intra-BMC/ASF Parcel Post machinable parcels (401.1.5) that bear a barcode under 708.5.0 for the ZIP Code of the delivery address and are part of a mailing of 50 or more Parcel Post rate pieces.

* * * * *

456 Enter and Deposit

* * * * *

2.0 Parcel Select

* * * * *

2.2 Rate Eligibility for Parcel Select Rates

* * * * *

2.2.2 DBMC Rates

For DBMC rates, pieces must meet the applicable standards in 2.1 through 2.6 and the following:

* * * * *

[Renumber items b and c as new items c and d. Insert new item b as follows:]

b. Machinable parcels must bear a barcode under 708.5.0 for the ZIP Code of the delivery address. Nonbarcoded machinable parcels are eligible only for the Intra-BMC/ASF rates.

* * * * *

2.6 Acceptance at Designated SCF—Mailer Benefit

Mailers may deposit parcels otherwise eligible for the DBMC rates at an SCF designated by the USPS for destination ZIP Codes listed in labeling list L607.

The following standards apply:

* * * * *

[Revise item b as follows:]

b. Bound Printed Matter machinable parcels under 466.3.3 and Standard Mail parcels under 705.6.3 may be included.

* * * * *

460 Discount Parcels: Bound Printed Matter

[Incorporate the standards for Bound Printed Matter in 160 into 460. Make revisions throughout to change single-piece Bound Printed Matter to “nonpresorted” Bound Printed Matter and make the following additional changes:]

* * * * *

465 Mail Preparation

1.0 General Information for Mail Preparation

* * * * *

1.3 Terms for Presort Levels

Terms used for presort levels are defined as follows:

* * * * *

[Renumber items c through g as new items d through h. Insert new item c for 5-digit schemes as follows:]

c. 5-digit scheme (pallets and sacks) for Bound Printer Matter parcels: the ZIP Code in the delivery address on all pieces begins with one of the 5-digit ZIP Code ranges processed by the USPS as a single scheme, as shown in L606.

* * * * *

5.0 Preparing Presorted Parcels

* * * * *

5.2 Preparing Irregular Parcels Weighing Less Than 10 Pounds

* * * * *

5.2.4 Required Sacking

[Revise the third sentence in the introductory text as follows:]

A sack must be prepared when the quantity of mail for a required presort destination reaches either 10 addressed pieces or 20 pounds, whichever occurs first. Smaller volumes are not permitted (except mixed ADC sacks). Optional SCF sacks may be prepared only when there are at least 10 addressed pieces or 20 pounds, whichever occurs first. Sacking is not required for 5-digit bundles when prepared for and entered at DDU rates. Such bundles may be bedloaded and may weigh up to 40 pounds. Sacking also is subject to these conditions:

* * * * *

5.2.5 Sacking and Labeling

Preparation sequence and labeling:

[Replace items a and b with new item a as follows. Renumber items c through f as new items b through e.]

a. 5-digit/scheme (required); labeling:

1. Line 1: For 5-digit scheme sacks, use L606, Column B. For 5-digit sacks, use city, state, and 5-digit ZIP Code on mail (see 4.3 for overseas military mail).

2. Line 2: For 5-digit scheme sacks, “PSVC IRREG 5D SCH.” For 5-digit sacks, “PSVC IRREG 5D.”

* * * * *

5.3 Preparing Irregular Parcels Weighing 10 Pounds or More

* * * * *

5.3.3 Sacking and Labeling

Preparation sequence and labeling:

[Replace items a and b with new item a as follows. Renumber items c through f as new items b through e.]

a. 5-digit/scheme (required); labeling:

1. Line 1: For 5-digit scheme sacks, use L606, Column B. For 5-digit sacks, use city, state, and 5-digit ZIP Code on mail (see 4.3 for overseas military mail).

2. Line 2: For 5-digit scheme sacks, “PSVC IRREG 5D SCH.” For 5-digit sacks, “PSVC IRREG 5D.”

* * * * *

5.4 Preparing Machinable Parcels Not Claiming the DBMC Rates

* * * * *

5.4.2 Sacking and Labeling

Preparation sequence and labeling:

[Replace items a and b with new item a as follows. Renumber items c and d as new items b and c.]

a. 5-digit/scheme (required); labeling:

1. Line 1: For 5-digit scheme sacks, use L606, Column B. For 5-digit sacks, use city, state, and 5-digit ZIP Code on mail (see 4.3 for overseas military mail).

2. Line 2: For 5-digit scheme sacks, “PSVC MACH 5D SCH.” For 5-digit sacks, “PSVC MACH 5D.”

* * * * *

5.5 Preparing Machinable Parcels Claiming the DBMC Rates

* * * * *

5.5.2 Sacking and Labeling

Preparation sequence and labeling:

[Replace items a and b with new item a as follows. Renumber items c through e as new items b through d.]

a. 5-digit/scheme (required); labeling:

1. Line 1: For 5-digit scheme sacks, use L606, Column B. For 5-digit sacks, use city, state, and 5-digit ZIP Code on mail (see 4.3 for overseas military mail).

2. Line 2: “PSVC MACH 5D SCHEME” or “PSVC MACH 5D SCH.”

* * * * *

466 Enter and Deposit

1.0 Presenting a Mailing

[Revise the heading of 1.1 as follows:]

1.1 Verification and Entry—Presorted, Carrier Route, Destination Entry, and Barcoded Mailings

* * * * *

[Renumber 1.2 through 1.5 as new 1.3 through 1.6. Insert new 1.2 as follows:]

1.2 Verification and Entry—Nonpresorted Mailings

Nonpresorted rate Bound Printed Matter is not offered at post offices, branches, or stations or through Postal Service carriers, except under 1.2c and 1.2d. Mailers must deposit Nonpresorted Bound Printed Matter as follows:

a. At the time and place specified by the postmaster at the office of mailing.

b. For metered mail, at other than the licensing post office only as permitted under 705.18.0, Metered Mail Drop Shipment.

c. For permit imprint mail, only at the post office where the permit is held (see 604.5.0).

d. At any post office, branch, or station or with a Postal Service carrier, if the correct postage is applied, including postage for any extra service elected.

* * * * *

3.0 Destination Bulk Mail Center (DBMC) Entry

* * * * *

3.2 Acceptance at Designated SCF—Mailer Benefit

Mailers may deposit machinable parcels otherwise eligible for the DBMC rates at an SCF designated by the USPS for destination ZIP Codes listed in labeling list L607. The following standards apply:

* * * * *

[Revise item c as follows:]

c. Parcel Select machinable parcels under 456.2.6 and Standard Mail parcels under 705.6.3 may be included.

* * * * *

470 Media Mail

* * * * *

475 Mail Preparation

* * * * *

5.0 Preparing Media Mail Parcels

* * * * *

5.2 Preparing Machinable Parcels

* * * * *

5.2.2 Sacking and Labeling

Preparation sequence and labeling:

[Replace items a and b with new item a as follows. Renumber items c and d as new items b and c.]

a. 5-digit/scheme (optional, but required for 5-digit rate); labeling:

1. Line 1: For 5-digit scheme sacks, use L606, Column B. For 5-digit sacks, use city, state, and 5-digit ZIP Code on mail (see 4.3 for overseas military mail).

2. Line 2: For 5-digit scheme sacks, “PSVC MACH 5D SCH.” For 5-digit sacks, “PSVC MACH 5D.”

* * * * *

[Revise heading of 5.3 as follows:]

5.3 Preparing Irregular Parcels

* * * * *

5.3.4 Sacking and Labeling

Preparation sequence and labeling:

[Replace items a and b with new item a as follows. Renumber items c through e as new items b through d.]

a. 5-digit/scheme (optional, but required for 5-digit rate); labeling:

1. Line 1: For 5-digit scheme sacks, use L606, Column B. For 5-digit sacks, use city, state, and 5-digit ZIP Code on mail (see 4.3 for overseas military mail).

2. Line 2: For 5-digit scheme sacks, “PSVC IRREG 5D SCH.” For 5-digit sacks, “PSVC IRREG 5D.”

* * * * *

480 Library Mail

* * * * *

485 Mail Preparation

* * * * *

5.0 Preparing Library Mail Parcels

* * * * *

5.2 Preparing Machinable Parcels

* * * * *

5.2.2 Sacking and Labeling

Preparation sequence and labeling:

[Replace items a and b with new item a as follows. Renumber items c and d as new items b and c.]

a. 5-digit/scheme (optional, but required for 5-digit rate); labeling:

1. Line 1: For 5-digit scheme sacks, use L606, Column B. For 5-digit sacks, use city, state, and 5-digit ZIP Code on mail (see 4.3 for overseas military mail).

2. Line 2: For 5-digit scheme sacks, “PSVC MACH 5D SCH.” For 5-digit sacks, “PSVC MACH 5D.”

* * * * *

[Revise heading of 5.3 as follows:]

5.3 Preparing Irregular Parcels

* * * * *

5.3.4 Sacking and Labeling

Preparation sequence and labeling:

[Replace items a and b with new item a as follows. Renumber items c through e as new items b through d.]

a. 5-digit/scheme (optional, but required for 5-digit rate); labeling:

1. Line 1: For 5-digit scheme sacks, use L606, Column B. For 5-digit sacks, use city, state, and 5-digit ZIP Code on mail (see 4.3 for overseas military mail).

2. Line 2: For 5-digit scheme sacks, “PSVC IRREG 5D SCH.” For 5-digit sacks, “PSVC IRREG 5D.”

* * * * *

500 Additional Services

503 Extra Services

* * * * *

4.0 Insured Mail

* * * * *

4.2 Basic Information

4.2.1 Description

Insured mail provides the following features:

* * * * *

[Revise item d as follows:]

d. Insured mail service provides the mailer with a mailing receipt. No record of insured mail is kept at the office of mailing. For mail insured for $200 or less, the USPS maintains delivery information (not including a signature). For mail insured for more than $200, the USPS maintains a delivery record (which includes the recipient's signature) for a specified period of time. Customers may obtain a delivery record by purchasing additional services; see 6.0 for details.

4.2.2 Eligible Matter

The following types of mail may be insured:

* * * * *

[Revise item b as follows:]

b. Standard Mail pieces prepared as machinable or irregular parcels (bulk insurance only).

* * * * *

4.2.4 Additional Services

[Revise the first sentence in 4.2.4 as follows:]

Insuring an item for more than $200 allows customers to purchase restricted delivery service or return receipt service. The following additional services may be purchased at a retail post office and combined with insurance if the applicable standards for the services are met and the additional service fees are paid:

* * * * *

[Revise item c as follows:]

c. Return receipt for merchandise (for items insured for $200 or less).

* * * * *

4.3 Mailing

* * * * *

4.3.3 Markings and Forms

The treatment of pieces is determined by the insurance amount:

[Revise items a and b as follows:]

a. Retail pieces insured for $200 or less: The mailer must affix a barcoded Form 3813 (see Exhibit 4.3.3) to each piece above the delivery address and to the right of the return address. No signature is obtained.

b. Retail pieces insured for more than $200: The mailer must affix a barcoded Form 3813-P (see Exhibit 4.3.3) to each piece above the delivery address and to the right of the return address.

* * * * *

4.3.5 Integrated Barcodes

The following options are available for mailers who print their own labels:

* * * * *

c. Mailers must use an integrated barcode (see Exhibit 4.3.5c) when insurance is purchased online for Priority Mail and for parcels mailed at First-Class Mail, Media Mail, and Parcel Post rates. This barcode combines insurance with electronic option Delivery Confirmation or Signature Confirmation into a single barcode on the shipping label. Additional information on the integrated barcode can be found in Publication 91, Confirmation Services Technical Guide.

[Revise items c1 and c2 as follows:]

1. Mailers may purchase insurance online for indemnity coverage of $200 or less with electronic option Delivery Confirmation service. The human-readable text above the integrated barcode must state, “e/USPS DELIVERY CONFIRMATION” or, for parcels prepared using eVS under 705.2.9, “USPS DELIVERY CONFIRMATION.”

2. Mailers may purchase insurance online for indemnity coverage of more than $200, up to $500, with electronic option Delivery Confirmation service. The human-readable text above the integrated barcode must state, “e/USPS INSURED” or, for parcels prepared using eVS under 705.2.9, “USPS INSURED.”

* * * * *

4.3.7 Receipt

Receipts are provided as follows:

a. For each retail insured mail article, the mailer receives a USPS sales receipt and the appropriate postmarked (round-dated) insured mail form as follows:

[Revise items a1 and a2 as follows:]

1. Form 3813 when the insurance coverage is $200 or less.

2. Form 3813-P when the insurance coverage is more than $200.

* * * * *

4.5 Delivery

[Revise 4.5 as follows:]

An item insured for $200 or less is delivered as ordinary mail and receives a delivery scan. An item insured for more than $200 receives a delivery scan and the recipient's signature. Delivery of insured mail is subject to 508.1.0, Recipient Options, and 508.2.0, Conditions of Delivery.

* * * * *

6.0 Return Receipt

* * * * *

6.2 Basic Information

* * * * *

6.2.2 Eligible Matter

Return receipt service is available for:

* * * * *

[Revise items b, c, and d to replace old value of $50 with new value of $200. Further revise item c to remove reference to residual shape surcharge and insert text about preparation as machinable or irregular parcels as follows:]

b. First-Class Mail (including Priority Mail) when purchased at the time of mailing with Certified Mail, COD, insured mail (for more than $200), or Registered Mail service.

c. Standard Mail prepared as machinable or irregular parcels when bulk insurance (for more than $200) is purchased at the time of mailing.

d. Package Services when purchased at the time of mailing with COD or insured mail (for more than $200).

* * * * *

6.3 Obtaining Service

* * * * *

6.3.2 After Mailing

[Revise first sentence in the introductory text to replace old value of $50 with new value of $200 as follows:]

The mailer may request a delivery record after mailing for Express Mail, Certified Mail, Registered Mail, COD mail, and mail insured for more than $200. When a delivery record is available, the USPS provides the mailer information from that record, including to whom the mail was delivered and the date of delivery. The mailer requests a delivery record by completing Form 3811-A, paying the appropriate fee in 6.1.1, and submitting the request to the appropriate office as follows:

* * * * *

7.0 Restricted Delivery

* * * * *

7.2 Basic Information

* * * * *

7.2.2 Eligible Matter

Restricted Delivery service is available for:

[Revise items a, b, and c to replace old value of $50 with new value of $200. Further revise item b to remove reference to residual shape surcharge and insert text about preparation as machinable or irregular parcels as follows:]

a. First-Class Mail (including Priority Mail) when purchased at the time of mailing with Certified Mail, COD, insured mail (for more than $200), or Registered Mail service.

b. Standard Mail prepared as machinable or irregular parcels when bulk insurance (for more than $200) is purchased at the time of mailing.

c. Package Services when purchased at the time of mailing with COD or insured mail (for more than $200).

* * * * *

8.0 Return Receipt for Merchandise

* * * * *

8.2 Basic Information

* * * * *

8.2.2 Eligible Matter

[Revise 8.2.2 as follows:]

Return receipt for merchandise is available for merchandise sent as Priority Mail, Standard Mail parcels, and Package Services.

* * * * *

8.2.4 Additional Services

The following services may be combined with return receipt for merchandise if the applicable standards for the services are met and the additional service fees are paid:

* * * * *

[Revise item b to replace old value of $50 with new value of $200 as follows:]

b. Insurance (for up to $200).

* * * * *

9.0 Delivery Confirmation

* * * * *

9.2 Basic Information

* * * * *

9.2.2 Eligible Matter

[Revise 9.2.2 to remove reference to Standard Mail residual shape surcharge and insert text about Standard Mail preparation as machinable or irregular parcels as follows:]

Delivery Confirmation is available for First-Class Mail parcels, for all Priority Mail pieces, for Standard Mail pieces prepared as machinable or irregular parcels (electronic option only), and for Package Services parcels under 401.1.0. For the purposes of using Delivery Confirmation with a Package Services parcel, the parcel must meet these additional requirements:

* * * * *

9.2.6 Additional Services

Delivery Confirmation may be combined with:

* * * * *

[Revise items d and e as follows:]

d. Restricted delivery, if purchased with insurance for more than $200, COD, or Registered Mail service.

e. Return receipt, if purchased with insurance for more than $200, COD, or Registered Mail service.

* * * * *

10.0 Signature Confirmation

* * * * *

10.2 Basic Information

* * * * *

10.2.2 Eligible Matter

[Revise the introductory text of 10.2.2 as follows:]

Signature Confirmation is available for First-Class Mail parcels and Package Services parcels defined in 401.1.0, and for all Priority Mail pieces. For the purposes of using Signature Confirmation with a First-Class Mail or Package Services parcel, the parcel must meet these additional requirements:

* * * * *

10.2.6 Additional Services

Signature Confirmation may be combined with:

* * * * *

[Revise item d as follows:]

d. Restricted delivery, if purchased with insurance for more than $200, COD, or Registered Mail service.

* * * * *

13.0 Confirm Service

* * * * *

13.2 Basic Information

* * * * *

[Revise the heading and text of 13.2.7 as follows:]

13.2.7 Subscription

Confirm is available in blocks of 1 million units. By paying the user fee, subscribers receive 1 million units. The user fee and the 1 million units are valid for 1 year from the date purchased. Additional units may be purchased during the subscription period in blocks of 1 million with a declining price threshold as described in 13.1.1. Units expire when the annual fee expires. Units are redeemed for Confirm scans at the rate of one unit per First-Class Mail scan or five units per scan of other classes of mail.

* * * * *

507 Mailer Services

[Revise 507 to change the term “accounting fee” to “account maintenance fee” throughout the chapter.]

1.0 Treatment of Mail

* * * * *

1.5 Treatment for Ancillary Services by Class of Mail

* * * * *

1.5.2 Periodicals

Undeliverable-as-addressed (UAA) Periodicals publications (including publications pending Periodicals authorization) are treated as described in Exhibit 1.5.2, with these additional conditions:

* * * * *

[Revise item f to remove the nonmachinable surcharge in the second-to-last sentence as follows:]

f. The publisher may request the return of copies of undelivered Periodicals by printing the endorsement “Address Service Requested” on the envelopes or wrappers, or on one of the outside covers of unwrapped copies, immediately preceded by the sender's name, address, and ZIP+4 or 5-digit ZIP Code. This endorsement obligates the publisher to pay return postage. Each returned piece is charged the single-piece First-Class Mail rate for the weight and shape of the piece or the Priority Mail rate for the weight and destination of the piece. When the address correction is provided incidental to the return of the piece, there is no charge for the correction.

* * * * *

1.5.3 Standard Mail

Undeliverable-as-addressed (UAA) Standard Mail is treated as described in Exhibit 1.5.3a and Exhibit 1.5.3k, with these additional conditions:

* * * * *

[Revise item i as follows:]

i. A weighted fee is charged when an unforwardable or undeliverable piece is returned to the sender and the piece is endorsed “Address Service Requested” or “Forwarding Service Requested.” The weighted fee is the single-piece First-Class Mail rate for the weight and shape of the piece or the Priority Mail rate for the weight and destination of the piece multiplied by 2.472 and rounded up to the next whole cent (if the computation yields a fraction of a cent). The weighted fee is computed (and rounded if necessary) for each piece individually. Using “Address Service Requested” or “Forwarding Service Requested” obligates the sender to pay the weighted fee on all returned pieces. The appropriate First-Class Mail rate for a Not Flat-Machinable piece is the First-Class Mail parcel rate.

[Revise item j as follows:]

j. Returned pieces endorsed “Return Service Requested” are charged the single-piece First-Class Mail rate for the weight and shape of the piece or the Priority Mail rate for the weight and destination of the piece. The appropriate First-Class Mail rate for a Not Flat-Machinable piece is the First-Class Mail parcel rate.

* * * * *

1.6 Attachments and Enclosures

1.6.1 Periodicals

[Revise the first sentence in 1.6.1 as follows:]

Undeliverable Periodicals (including publications pending Periodicals authorization) with a nonincidental First-Class Mail attachment or enclosure are returned at the single-piece First-Class Mail rate for the weight and shape of the piece or Priority Mail rate for the weight and destination of the piece. The weight of the attachment or enclosure is not included when computing the charges for return of the mailpiece. Undeliverable Periodicals (including publications pending Periodicals authorization) with an incidental First-Class Mail attachment or enclosure are treated as dead mail unless endorsed “Address Service Requested.”

1.6.2 Standard Mail

[Revise the first sentence in 1.6.2 as follows:]

Undeliverable, unendorsed Standard Mail with a nonincidental First-Class Mail attachment or enclosure is returned at the single-piece First-Class Mail rate for the weight and shape of the piece or Priority Mail rate for the weight and destination of the piece. The weight of the First-Class Mail attachment or enclosure is not included when computing the charges for return of the mailpiece. Undeliverable, unendorsed Standard Mail with an incidental First-Class Mail attachment or enclosure is treated as dead mail.

* * * * *

3.0 Address Correction Services

* * * * *

3.2 Address Change Service (ACS)

* * * * *

[Revise heading and text in 3.2.2 as follows:]

3.2.2 Service Options

ACS offers three levels of service:

a. An automated option for letter-size mail with electronic notices processed using OneCode technology (see 3.2.6, Additional Standards—4-State Customer Barcodes).

b. An electronic option for all notices processed electronically, except automated notices under 3.2.2a.

c. A manual option for notices processed manually.

* * * * *

10.0 Merchandise Return Service

* * * * *

10.5 Additional Features

* * * * *

10.5.3 Insured Markings

[Revise 10.5.3 as follows:]

The permit holder must either leave a clear space on the merchandise return label to the right of the return address for the numbered insured label or instruct the customer to affix the merchandise return label to the article so that the USPS acceptance employee can place the insured label on the article directly above the merchandise return label.

* * * * *

508 Recipient Services

1.0 Recipient Options

1.1 Basic Recipient Concerns

* * * * *

1.1.7 Express Mail and Accountable Mail

[Revise the introductory text of 1.1.7 to change the insurance threshold from $50 to $200 as follows:]

The following conditions also apply to the delivery of Express Mail and accountable mail (registered, certified, insured for more than $200, or COD, as well as mail for which a return receipt or a return receipt for merchandise is requested or for which the sender has specified restricted delivery):

* * * * *

600 Basic Standards for All Mailing Services

601 Mailability

1.0 General Standards

* * * * *

1.4 Length and Height

The location and orientation of the delivery address on a letter-size mailpiece establish which dimensions of the piece are the length and the height. The length is the dimension parallel to the address as read; the height is the dimension perpendicular to the length. For flat-size pieces, parcels, and Not Flat-Machinable pieces, the length is the longest dimension. See 705.1.0 to determine the length of Customized MarketMail pieces.

* * * * *

604 Postage Payment Methods

1.0 Stamps

1.1 Postage Stamp Denominations

[Add the forever stamp to the table of types and formats of stamps.]

* * * * *

[Renumber 1.10 through 1.12 as new 1.11 through 1.13 and remove reference to nonmachinable surcharge. Insert new 1.10 as follows:]

1.10 Additional Standards for Forever Stamps

Forever stamps are sold for the price of the current First-Class Mail single-piece 1-ounce letter rate in 133.1.5. The postage value of each forever stamp is the current First-Class Mail single-piece 1-ounce letter rate. Forever stamps may be used only on single-piece rate mail.

[Revise the heading of renumbered 1.11 as follows:]

1.11 Additional Standards for Semipostal Stamps

Semipostal stamps are subject to the following special conditions:

* * * * *

[Revise item c to remove the reference to nonmachinable surcharge.]

* * * * *

609 Filing Indemnity Claims for Loss or Damage

1.0 General Filing Instructions

* * * * *

1.5 Where To File for Loss or Damage

A claim may be filed:

[Revise item a as follows:]

a. Online at www.usps.com or in person at any post office, station, or branch, except for Registered Mail articles with merchandise return service (see 1.5b).

* * * * *

[Revise the heading of 2.0 as follows:]

2.0 Providing Proof of Missing Contents or Damage

[Revise 2.1 and 2.2 to change the requirements for proving missing contents or damage as follows:]

2.1 Missing Contents

If a claim is filed because some or all of the contents are missing, the addressee must make available the mailing container, including any wrapping, packaging, and any contents that were received, to the USPS with the claim.

2.2 Proof of Damage

If the addressee files the claim, the addressee must make available the damaged article and mailing container, including any wrapping, packaging, and any other contents that were received, to the USPS for inspection. If the mailer files the claim, the USPS will notify the addressee by letter to make available the damaged article and mailing container, including any wrapping, packaging, and any other contents that were received, to the USPS for inspection. Failure to do so will result in denial of the claim.

[Delete 2.3, Proof of Loss.]

* * * * *

700 Special Standards

* * * * *

705 Advanced Preparation and Special Postage Payment Systems

1.0 Customized MarketMail

* * * * *

1.2 Rates

[Revise 1.2 as follows:]

Pieces mailed as Customized MarketMail under 705.1.0 must pay the Regular or Nonprofit Standard Mail 5-digit nonentry rate for Not Flat-Machinable pieces and must not exceed 3.3 ounces.

* * * * *

2.3 Keyline

* * * * *

2.3.3 Rate Category Abbreviations

* * * * *

Exhibit 2.3.3a Rate Category Abbreviations-First-Class Mail

* * * * *

[Delete the entry for Automation Carrier Route.]

Exhibit 2.3.3b Rate Category Abbreviations-Standard Mail

* * * * *

[Delete the entry for Automation Carrier Route. Add an entry for Not Flat-Machinable pieces as follows:]

Code | Rate category
NF | Not Flat-Machinable.

* * * * *

6.0 Combining Mailings of Standard Mail and Package Services Parcels

6.1 Combining Machinable Parcels—DBMC Entry

* * * * *

6.1.2 Basic Standards

Standard Mail and Package Services machinable parcels must meet the following conditions:

* * * * *

[Renumber items c through h as new items d through i. Insert new item c as follows:]

c. Parcel Select machinable parcels must bear a barcode under 708.5.0 for the ZIP Code of the delivery address.

* * * * *

[Insert new 6.3 as follows:]

6.3 Combining Package Services and Standard Mail—Optional 3-Digit SCF Entry

6.3.1 Acceptance at Designated SCF—Qualification and Preparation

Mailers may deposit parcels otherwise eligible for the Package Services and Standard Mail DBMC rates (for machinable parcels) and the Standard Mail SCF rate (for irregular parcels and Not Flat-Machinable pieces) at an SCF designated by the USPS for destination ZIP Codes listed in labeling list L607. The following standards apply:

a. Standard Mail parcels, Not Flat-Machinable pieces, Bound Printed Matter machinable parcels, and Parcel Select machinable parcels may be included. Standard Mail parcels and Not Flat-Machinable pieces that weigh less than 2 ounces and Standard Mail parcels that are tubes, rolls, triangles, and similar pieces may not be included.

b. Mailers must prepare pieces on 3-digit pallets or in 3-digit pallet boxes, or unload and physically separate the pieces into containers as specified by the destination facility.

c. Parcel Select and Bound Printed Matter parcels are eligible for the applicable DBMC entry rate.

d. Standard Mail machinable parcels are eligible for the BMC presort level, DBMC rate; Not Flat-Machinable pieces and irregular parcels are eligible for the 3-digit presort level, DSCF rate.

e. All pieces must be for delivery within the service area of the SCF where they are deposited by the mailer.

f. Postage on all zone-rated parcels deposited at the SCF is computed using the zone chart for that postal facility.

6.3.2 Documentation

Presort documentation is required for each rate claimed if the manifest does not list pieces in presort order. Separate postage statements must be prepared for the Standard Mail and Package Services pieces. Within each group, combined forms may be prepared where the standards and the forms permit. All postage statements must be provided at the time of mailing.

6.3.3 Authorization

Mailers must be authorized under 6.1.5 to prepare mailings that combine Standard Mail pieces and Package Services parcels.

6.3.4 Postage Payment

Postage for all pieces must be paid with permit imprint at the post office serving the mailer's plant under an approved manifest mailing system under 2.0.

7.0 Combining Package Services Parcels for Destination Entry

* * * * *

7.2 Combining Package Services Machinable Parcels for DBMC Entry

* * * * *

7.2.2 Basic Standards

Package Services parcels must meet the following conditions:

* * * * *

[Renumber items c through h as new items d through i. Insert new item c as follows:]

c. Parcel Select machinable parcels must bear a barcode under 708.5.0 for the ZIP Code of the delivery address.

* * * * *

8.0 Preparing Pallets

* * * * *

8.5 General Preparation

* * * * *

8.5.6 Mail on Pallets

These standards apply to mail on pallets:

* * * * *

[Revise item c to delete “automation carrier route” and to replace “presorted” with “nonautomation” as follows:]

c. For letter-size Standard Mail and Periodicals prepared in trays on pallets, mailers must prepare carrier route rate mail on separate 5-digit pallets (5-digit carrier routes pallets) from automation rate or nonautomation rate mail (5-digit pallets).

* * * * *

8.6 Pallet Labels

* * * * *

8.6.5 Line 2 (Content Line)

* * * * *

[Delete the entry for “manual only” processing in the table in item b.]

8.10 Pallet Presort and Labeling

8.10.1 Periodicals—Bundles, Sacks, or Trays

[Replace “AFSM-100 compatible” with “automation-compatible under 301.3.0” in 8.10.1.]

* * * * *

8.10.2 Standard Mail—Bundles, Sacks, or Trays

[Replace “AFSM-100 compatible” with “automation-compatible under 301.3.0” in 8.10.2. Reorganize introductory text as follows:]

Mailers must prepare pallets under 8.0 in the sequence listed below and complete at each required level before preparing the next optional or required level. Unless indicated as optional, all sort levels are required. For mailings of sacks or trays on pallets, pallet preparation begins with 8.10.1e. For irregular parcels, use this preparation only for pieces in carrier route bundles or in sacks. Palletize unbundled or unsacked irregular parcels under 705.8.10.6. Pallets must be labeled according to the Line 1 and Line 2 information listed below and under 8.6. Mailers also may palletize bundles of Standard Mail flats under 10.0, 12.0, or 13.0.

[Delete items a and c to remove the merged 5-digit and merged 5-digit scheme pallet levels; renumber items b and c as new items a and b; renumber items e through l as new items c through j.]

* * * * *

8.10.3 Package Services Flats—Bundles and Sacks

[Replace “AFSM-100 compatible” with “automation-compatible under 301.3.0” in 8.10.3.]

* * * * *

[Revise the heading and text of 8.10.5 to add Not Flat-Machinable pieces as follows:]

8.10.5 Package Services and Standard Mail Machinable Parcels, and Not Flat-Machinable Pieces Weighing 6 Ounces or More

Pallets must be prepared under 8.0 in the sequence listed below and completed at each required level before the next optional or required level is prepared. Unless indicated as optional, all sort levels are required under the conditions shown. At the mailer's option, Inter-BMC/ASF and Intra-BMC/ASF Parcel Post mailings may be prepared on pallets under this section. Destination entry rates eligibility applies only to Standard Mail (see 446 for parcels and NFMs that weigh 6 ounces or more), Parcel Select (see 456), and Bound Printed Matter (see 466). Combined mailings of Standard Mail and Package Services machinable parcels also must meet the standards in 6.0. Pallets must be labeled according to the Line 1 and Line 2 information listed below and under 8.6.

a. 5-digit scheme, required. Pallet must contain parcels or NFMs for the same 5-digit scheme under L606. For 5-digit destinations not part of L606, or for which scheme sorts are not performed, 5-digit pallets are prepared under 8.10.5b. Labeling:

1. Line 1: Use L606.

2. Line 2: “STD MACH 5D,” “STD NFM 5D,” or “PSVC MACH 5D,” as applicable; followed by “SCHEME” (or “SCH”).

b. 5-digit, required. Pallet must contain parcels only for the same 5-digit ZIP Code. Labeling:

1. Line 1: city, state, and 5-digit ZIP Code destination (see 8.6.4c for overseas military mail).

2. Line 2: “STD MACH 5D,” “STD NFM 5D,” or “PSVC MACH 5D,” as applicable.

c. ASF, optional, but required for DBMC rates. Not available for the Buffalo NY ASF in L602. Pallets must contain only parcels or NFMs for the 3-digit ZIP Code groups in L602. Labeling:

1. Line 1: Use L602.

2. Line 2: “STD MACH ASF,” “STD NFM ASF,” or “PSVC MACH ASF,” as applicable.

d. BMC, required. Pallets must contain only parcels or NFMs for the 3-digit ZIP Code groups in L601. Labeling:

1. Line 1: Use L601.

2. Line 2: “STD MACH BMC,” “STD NFM BMC,” or “PSVC MACH BMC,” as applicable.

e. Mixed BMC, optional. Labeling:

1. Line 1: “MXD” followed by information in L601, Column B, for BMC serving 3-digit ZIP Code prefix of entry post office (or labeled to plant serving entry post office if authorized by processing and distribution manager).

2. Line 2: “STD MACH WKG,” “STD NFM WKG,” or “PSVC MACH WKG,” as applicable.

[Insert new 8.10.6 as follows:]

8.10.6 Standard Mail Irregular Parcels Weighing 2 Ounces or More

Mailers who palletize unbundled or unsacked irregular parcels must make pallets or pallet boxes when there are 250 pounds or more for the destination levels below. Pallets or pallet boxes of irregular parcels (except tubes, rolls, and similar pieces) weighing 2 ounces or more must be prepared under 8.0 in the sequence listed below and completed at each required level before the next optional or required level is prepared. Unless indicated as optional, all sort levels are required. Label pallets or pallet boxes according to the Line 1 and Line 2 information listed below and under 8.6. Mailers may not prepare tubes, rolls, and similar pieces or pieces that weigh less than 2 ounces on pallets or in pallet boxes, except for pieces in carrier route bundles or in sacks under 8.10.2.

a. 5-digit scheme, required. Pallet or pallet box must contain parcels only for the same 5-digit scheme under L606. For 5-digit destinations not part of L606 prepare 5-digit pallets under 8.10.6b. Labeling:

1. Line 1: Use L606.

2. Line 2: “STD IRREG 5D; followed by “SCHEME” (or “SCH”).

b. 5-digit, required. Pallet or pallet box must contain parcels only for the same 5-digit ZIP Code. Labeling:

1. Line 1: city, state, and 5-digit ZIP Code destination (see 8.6.4c for overseas military mail).

2. Line 2: “STD IRREG 5D.”

c. 3-digit, optional, option not available for 3-digit ZIP Code prefixes marked “N” in L002. Pallet or pallet box must contain parcels only for the same 3-digit ZIP Code. Labeling:

1. Line 1: Use L002, Column A.

2. Line 2: “STD IRREG 3D.”

d. ADC, required. Pallet or pallet box must contain parcels for the 3-digit ZIP Code groups in L004. Labeling:

1. Line 1: Use L004.

2. Line 2: “STD IRREG ADC.”

e. Mixed ADC, optional. Labeling:

1. Line 1: “MXD” followed by city, state, and ZIP Code information for ADC serving 3-digit ZIP Code prefix of entry post office as shown in L009, Column A.

2. Line 2: “STD IRREG WKG.”

[Insert new 8.10.7 as follows:]

8.10.7 Standard Mail Not Flat-Machinable Pieces Weighing Less Than 6 Ounces

Mailers must prepare pieces on pallets or in pallet boxes when there are 250 pounds or more of NFMs for the destination levels below. Prepare pallets or pallet boxes of NFM pieces weighing less than 6 ounces under 8.0 in the sequence listed below and completed at each required level before the next optional or required level is prepared. Unless indicated as optional, all sort levels are required. Label pallets or pallet boxes according to the Line 1 and Line 2 information listed below and under 8.6.

a. 5-digit scheme, required. Pallet or pallet box must contain NFMs only for the same 5-digit scheme under L606. For 5-digit destinations not part of L606 prepare 5-digit pallets under 8.10.6b. Labeling:

1. Line 1: Use L606.

2. Line 2: “STD NFM 5D”; followed by “SCHEME” (or “SCH”).

b. 5-digit, required. Pallet or pallet box must contain NFMs only for the same 5-digit ZIP Code. Labeling:

1. Line 1: city, state, and 5-digit ZIP Code destination (see 8.6.4c for overseas military mail).

2. Line 2: “STD NFM 5D.”

c. 3-digit, optional, option not available for 3-digit ZIP Code prefixes marked “N” in L002. Pallet or pallet box must contain NFMs only for the same 3-digit ZIP Code. Labeling:

1. Line 1: Use L002, Column A.

2. Line 2: “STD NFM 3D.”

d. ADC, required. Pallet or pallet box must contain NFMs for the 3-digit ZIP Code groups in L004. Labeling:

1. Line 1: Use L004.

2. Line 2: “STD NFM ADC.”

e. Mixed ADC, optional. Labeling:

1. Line 1: “MXD” followed by city, state, and ZIP Code information for ADC serving 3-digit ZIP Code prefix of entry post office as shown in L009, Column A.

2. Line 2: “STD NFM WKG.”

* * * * *

8.14 Pallets of Bundles, Sacks, and Trays

* * * * *

8.14.2 Standard Mail

Additional pallet preparation:

[Revise item a as follows:]

a. Combined mailings. Nonprofit Standard Mail may be included in the same mailing or palletized on the same pallet as regular Standard Mail only as permitted by standard. Mailers may include machinable parcels, irregular parcels, and Not Flat-Machinable pieces on 5-digit pallets.

* * * * *

9.0 Preparing Cotrayed and Cosacked Bundles of Automation and Presorted Flats

* * * * *

9.2 Periodicals

* * * * *

9.2.5 Sack Preparation and Labeling

* * * * *

[Revise item a as follows:]

a. 5-digit/scheme, required; scheme sort required, only for pieces meeting the automation-compatibility criteria in 301.3.0; 24-piece minimum, fewer pieces not permitted; labeling:

1. Line 1: For 5-digit scheme sacks, use L007, Column B. For 5-digit sacks, use city, state, and 5-digit ZIP Code destination on pieces.

2. Line 2: “PER” or “NEWS” as applicable and, for 5-digit scheme sacks, “FLT 5D SCH BC/NBC;” for 5-digit sacks, “FLT 5D BC/NBC.”

* * * * *

9.3 Standard Mail

* * * * *

9.3.5 Sack Preparation and Labeling

* * * * *

[Revise item a as follows:]

a. 5-digit/scheme, required; scheme sort required, only for pieces meeting the automation-compatibility criteria in 301.3.0; 125-piece/15-pound minimum; labeling:

1. Line 1: For 5-digit scheme sacks, use L007, Column B. For 5-digit sacks, use city, state, and 5-digit ZIP Code destination on pieces.

2. Line 2: For 5-digit scheme sacks, “STD FLT 5D SCH BC/NBC;” for 5-digit sacks, “STD FLT 5D BC/NBC.”

* * * * *

9.4 Bound Printed Matter

* * * * *

9.4.4 Sack Preparation and Labeling

* * * * *

[Revise item a as follows:]

a. 5-digit/scheme, required; scheme sort required, only for pieces meeting the automation-compatibility criteria in 301.3.0; minimum 20 addressed pieces; labeling:

1. Line 1: For 5-digit scheme sacks, use L007, Column B. For 5-digit sacks, use city, state, and 5-digit ZIP Code destination on pieces.

2. Line 2: For 5-digit scheme sacks, “PSVC FLT 5D SCH BC/NBC;” for 5-digit sacks, “PSVC FLT 5D BC/NBC.”

* * * * *

[Revise 11.0 to replace “presorted” with “nonautomation” throughout.]

11.0 Preparing Cobundled Automation Rate and Nonautomation Rate Flats

11.1 First-Class Mail

11.1.1 Basic Standards

Mailers may choose to cobundle (see 335.1.4m) automation rate and Presorted rate pieces as an option to the basic bundling requirements in 9.0, Preparing Cotrayed and Cosacked Bundles of Automation and Presorted Flats, subject to the following conditions:

* * * * *

[Delete item f. Renumber item g as item f.]

11.2 Periodicals

11.2.1 Basic Standards

[Revise the introductory text in 11.2.1 to require 5-digit scheme and 3-digit scheme sort and eliminate distinctions between AFSM 100 and UFSM 1000 flats as follows:]

Mailers may choose to cobundle (see 707.18.4ab) automation rate and nonautomation rate flat-size pieces as an option to the basic bundling requirements in 707.22.0 and 707.25.0. All flats in the same bundle must meet the standards in either 301.3.0 or 707.25.3. 5-digit scheme and 3-digit scheme bundles also must meet the additional standards in 707.18.4i and 707.18.4r. Mailing jobs (for flats meeting the criteria in 301.3.0) prepared using the 5-digit scheme and/or the 3-digit scheme bundle preparation must be sacked under 10.0 or palletized under 10.0, 12.0, or 13.0. All bundles are subject to the following conditions:

* * * * *

11.2.2 Bundle Preparation

[Revise the introductory text in 11.2.2 as follows:]

Pieces meeting the criteria in 301.3.0 must be prepared in 5-digit scheme bundles for those 5-digit ZIP Codes identified in L007 and in 3-digit scheme bundles for those 3-digit ZIP Codes identified in L008. Preparation sequence, bundle size, and labeling:

* * * * *

[Revise item b to require 5-digit scheme bundles as follows:]

b. 5-digit scheme, required; * * *

* * * * *

[Revise item d to require 3-digit scheme bundles as follows:]

d. 3-digit scheme, required; * * *

* * * * *

11.3 Standard Mail

11.3.1 Basic Standards

[Revise the introductory text in 11.3.1 to require 5-digit scheme and 3-digit scheme sort and eliminate distinctions between AFSM 100 and UFSM 1000 flats as follows:]

Mailers may choose to cobundle (see 345.1.4u) automation rate and nonautomation rate flat-size pieces as an option to the basic bundling requirements in 345.5.0 and 345.7.0. All flats in the same bundle must the standards in 301.3.0. 5-digit scheme and 3-digit scheme bundles must meet the additional standards in 345.1.4f and 345.1.4n. Mailing jobs prepared using the 5-digit scheme and/or 3-digit scheme bundle preparation (for flats meeting the criteria in 301.3.0) must be sacked under 10.0 or palletized under 10.0, 12.0, or 13.0. All bundles are subject to the following conditions:

* * * * *

[Delete item g. Renumber item h as new item g.]

11.3.2 Bundle Preparation

[Revise the introductory text in 11.3.2 as follows:]

Pieces meeting the criteria in 301.3.0 must be prepared in 5-digit scheme bundles for those 5-digit ZIP Codes identified in L007 and in 3-digit scheme bundles for those 3-digit ZIP Codes identified in L008. Preparation sequence, bundle size, and labeling:

[Revise item a to require 5-digit scheme bundles as follows:]

a. 5-digit scheme, required; * * *

* * * * *

[Revise item c to require 3-digit scheme bundles as follows:]

c. 3-digit scheme, required; * * *

* * * * *

15.0 Plant-Verified Drop Shipment

* * * * *

15.2 Program Participation

* * * * *

15.2.4 Periodicals

[Revise 15.2.4 to reflect the new rate structure for Periodicals mail as follows:]

Periodicals postage must be paid at the post office verifying the copies or as designated by the district. Postage is calculated from the destination USPS facility where deposited and accepted as mail (or from the facility where the Express Mail or Priority Mail Open and Distribute destinates). The publisher must ensure that sufficient funds are on deposit to pay for all shipments before their release. A publisher authorized under an alternative postage payment system must pay postage under the corresponding standards.

* * * * *

707 Periodicals

1.0 Rates and Fees

1.1 Outside-County—Excluding Science-of-Agriculture

* * * * *

[Renumber 1.1.3 through 1.1.5 as new 1.1.4 through 1.1.6. Insert new 1.1.3 as follows:]

1.1.3 Outside-County Container Rate

Rate for each pallet, sack, or tray containing Outside-County Periodicals mail: $0.85. Apply the container rate as follows:

a. For mailings correctly prepared in trays or sacks, mailers pay the container rate for each tray or sack. (See 1.1.3b for mailings on pallets.)

b. For mailings correctly prepared on pallets under 705.8.0:

1. For bundles or trays on pallets, mailers pay the container rate for each pallet, and not for the bundles or trays.

2. For sacks on pallets, mailers pay the container rate for each sack, and not for the pallet.

c. For mailings not in containers under 707.23.4.2, Exception to Sacking, mailers pay the container rate for each 5-digit ZIP Code or 5-digit scheme in the mailing serviced by the DDU.

d. For containers of both In-County and Outside-County pieces, mailers do not pay the container rate for carrier route, 5-digit carrier routes, and 5-digit/scheme pallets, sacks, and trays.

* * * * *

1.2 Outside-County—Science-of-Agriculture

* * * * *

[Renumber 1.2.3 as new 1.2.4. Insert new 1.2.3 as follows:]

1.2.3 Outside-County Container Rate

Rate for each pallet, sack, or tray containing Outside-County Periodicals mail: $0.85. Apply the container rate as follows:

a. For mailings correctly prepared in trays or sacks, mailers pay the container rate for each tray or sack. (See 1.1.3b for mailings on pallets.)

b. For mailings correctly prepared on pallets under 705.8.0:

1. For bundles or trays on pallets, mailers pay the container rate for each pallet, and not for the bundles or trays.

2. For sacks on pallets, mailers pay the container rate for each sack, and not for the pallet.

c. For mailings not in containers under 707.23.4.2, Exception to Sacking, mailers pay the container rate for each 5-digit ZIP Code or 5-digit scheme in the mailing serviced by the DDU.

d. For containers of both In-County and Outside-County pieces, mailers do not pay the container rate for carrier route, 5-digit carrier routes, and 5-digit/scheme pallets, sacks, and trays.

* * * * *

2.0 Rate Application and Computation

2.1 Rate Application

2.1.1 Rate Elements

[Revise 2.1.1 to reflect the new Outside-County container rate and the new nonadvertising rate structure as follows:]

Postage for Periodicals mail includes a pound rate charge, a piece rate charge, an Outside-County container rate charge, and any discounts for which the mail qualifies under the corresponding standards.

2.1.2 Applying Pound Rate

[Revise 2.1.2 to reflect the new Outside-County container rate and the new nonadvertising rate structure as follows:]

Pound rates are applied to the weight of the pieces in the mailing as follows:

a. Outside-County pound rates are based on the weight of the advertising portion sent to each postal zone (as computed from the entry office) or destination entry zone, and the weight of the nonadvertising portion to a destination entry zone.

b. Science-of-Agriculture Outside-County pound rates are based on the weights of the advertising portion and the nonadvertising portion of the mail sent to each postal zone (as computed from the entry office) or destination entry zone.

c. In-County pound rates consist of a destination entry rate and an unzoned rate for all other eligible copies delivered within the county of publication.

[Revise the heading of 2.1.3 as follows:]

2.1.3 Computing Weight of Advertising and Nonadvertising Portions

[Revise 2.1.3 to reflect the new Outside-County container rate and the new nonadvertising rate structure as follows:]

The pound rate charge is the sum of the charges for the computed weight of the advertising portion of copies to each zone, plus the sum of the charges for the computed weight of the nonadvertising portion of copies to each zone. The following standards apply:

a. The minimum pound rate charge for any zone to which copies are mailed is the 1-pound rate. For example, three 2-ounce copies for a zone are subject to the minimum 1-pound charge.

b. Authorized Nonprofit and Classroom publications with an advertising percentage that is 10% or less are considered 100% nonadvertising. When computing the pound rates and the nonadvertising adjustment, use “0” as the advertising percentage. Authorized Nonprofit and Classroom publications claiming 0% advertising must pay the nonadvertising pound rate for the entire weight of all copies to all zones.

* * * * *

2.2 Computing Postage

* * * * *

[Renumber 2.2.7 as 2.2.8. Insert new 2.2.7 to compute the Outside-County container rate as follows:]

2.2.7 Outside-County Container Rate

The Outside-County container charge is the sum of Outside-County trays, sacks, or pallets in the mailing (see 1.1.3 and 1.2.3), multiplied by the container rate. Mailers who prepare Periodicals publications as a combined mailing by merging copies or bundles of copies under 26.0 may pay the Outside-County container charge on one mailer's Form 3541, on one consolidated Form 3541-C, or on each mailer's Form 3541 if they electronically submit their qualification report via Mail.dat. Prorate the charge for each mailer by determining how many containers that mailer is using. Next calculate the percentage of pieces in each of those containers and round to two decimal places. Add each percentage and multiply the total by the container rate. The total charges collected on all Form 3541s in a combined mailing must equal the total number of containers subject to the Outside-County container rate presented for mailing.

2.2.8 Total Postage

[Revise renumbered 2.2.8 to reflect the new Outside-County container rate as follows:]

Total Outside-County postage is the sum of the per pound and per piece charges, the container charge, and any Ride-Along charge; less all discounts; rounded off to the nearest whole cent. Total In-County postage is the sum of the per pound and per piece charges, and any Ride-Along charge, less all discounts, rounded off to the nearest whole cent. For mailings that include foreign copies, total foreign postage is the sum of the per piece charges, less a discount, rounded off to the nearest whole cent.

3.0 Physical Characteristics and Content Eligibility

* * * * *

3.5 Mailpiece Construction

* * * * *

3.5.2 Size and Weight

[Insert new second sentence in 3.5.2 to include the maximum weight and thickness for Periodicals automation flat-size pieces as follows:]

Periodicals mail may not weigh more than 70 pounds or measure more than 108 inches in length and girth combined. Automation flat-size pieces may not weigh more than 6 pounds or measure more than 1-¼ inch thick. Additional size and weight limitations apply to individual Periodicals rate categories. Requester publications must contain at least 24 pages per issue.

* * * * *

11.0 Basic Rate Eligibility

* * * * *

11.4 Discounts

The following discounts are available:

* * * * *

[Delete item c to eliminate the pallet discounts.]

* * * * *

15.0 Ride-Along Rate Eligibility

* * * * *

15.3 Physical Characteristics

The host Periodicals piece and the Ride-Along piece must meet the following physical characteristics:

* * * * *

[Revise item c as follows:]

c. A Periodicals piece with a Ride-Along that claims automation rates must meet the automation requirements in 201.3.0, Physical Standards for Automation Letters and Cards, or 25.0, Preparing Flat-Size Automation Periodicals, and must maintain the same processing category as before the addition of the Ride-Along. For example, if, due to the inclusion of a Ride-Along piece, an automation letter-size host piece can no longer be processed as an automation letter, then that piece must pay the Periodicals nonautomation rate for the host piece plus the Ride-Along rate or the Standard Mail rate for the attachment or enclosure.

* * * * *

16.0 Postage Payment

* * * * *

16.4 Payment Method

Mailers must pay Periodicals postage by advance deposit account at the original or additional entry post office, except under procedures in 16.5 for Centralized Postage Payment or in 705.15.2.4. Mailers may not pay postage for Periodicals using permit imprint, meter stamp, postage stamp, or precanceled stamps. Mailers must pay postage for First-Class Mail and Standard Mail enclosures under 703.9.8 through 703.9.12 and 705.16.1. Mailers who prepare Periodicals publications as a combined mailing by merging copies or bundles of copies under 26.0 may pay the Outside-County container charge on one mailer's Form 3541, on one consolidated Form 3541-C, or on each mailer's Form 3541 if the qualification report is electronically submitted via Mail.dat. If paid on each Form 3541, calculate the charge according to 2.2.7. The total charges collected on all Form 3541s in a combined mailing must equal the total number of containers subject to the Outside-County container rate (under 1.1.3 and 1.2.3) presented for mailing.

* * * * *

17.0 Documentation

* * * * *

17.7 Additional Standards

* * * * *

[Insert new 17.7.4 as follows:]

17.7.4 Outside-County Container Rate Documentation

A complete, signed postage statement, using the correct USPS form or an approved facsimile, must accompany each mailing, supported by standardized documentation meeting the basic standards in 708.1.0. The documentation must show how many trays, sacks, or pallets are required for the rates and discounts claimed, even when the mailing is presented under 707.23.4.2, Exception to Sacking, or is otherwise presented by the mailer. Documentation of postage is not required if each piece in the mailing is of identical weight and the pieces are separated when presented for acceptance by rate, by zone, and by entry discount (such as DDU and DSCF).

18.0 General Information for Mail Preparation

* * * * *

18.3 Presort Terms

Terms used for presort levels are defined as follows:

* * * * *

[Revise items e and p as follows:]

e. 5-digit scheme (bundles and sacks) for flats prepared according to 301.3.0: the ZIP Code in the delivery address on all pieces is one of the 5-digit ZIP Codes processed by the USPS as a single scheme, as shown in L007.

* * * * *

p. 3-digit scheme bundles for flats prepared according to 301.3.0: the ZIP Code in the delivery address on all pieces is one of the 3-digit ZIP Codes processed by the USPS as a single scheme, as shown in L008.

* * * * *

18.4 Mail Preparation Terms

For purposes of preparing mail:

* * * * *

[Revise items b, i, and r as follows:]

b. A full letter tray is one in which faced, upright pieces fill the length of the tray between 85% and 100% full.

* * * * *

i. A 5-digit scheme sort for flats prepared according to 301.3.0 yields 5-digit scheme bundles for those 5-digit ZIP Codes identified in L007. Presorting must be performed using L007. Pieces prepared in scheme bundles must meet the automation flat criteria in 301.3.0. Mailpieces must be labeled using an optional endorsement line under 708.7.0. Periodicals firm bundles must not be part of 5-digit scheme bundles.

* * * * *

r. A 3-digit scheme sort for flats prepared according to 301.3.0 yields 3-digit scheme bundles for those 3-digit ZIP Codes identified in L008. The 3-digit scheme sort is optional, except under 705.12.0 and 705.13.0. For 705.12.0 and 705.13.0, presorting must be performed using L008. Pieces prepared in scheme bundles must meet the automation flat criteria in 301.3.0. Mailpieces must be labeled using an OEL under 708.7.0. Periodicals firm bundles must not be physically combined within 3-digit scheme bundles, but can contribute toward the six-piece minimum for rate eligibility.

* * * * *

22.0 Preparing Presorted Periodicals

* * * * *

22.2 Bundle Preparation

[Revise the introductory text of 22.2 as follows:]

Mailings consisting entirely of pieces meeting the criteria in 301.3.0 may be prepared in 5-digit scheme bundles for those 5-digit ZIP Codes identified in L007 and in 3-digit scheme bundles for those 3-digit ZIP Codes identified in L008. Bundling is required before traying or sacking. A bundle must be prepared when the quantity of addressed pieces for a required presort level reaches the minimum bundle size. Smaller volumes are not permitted except mixed ADC bundles and 5-digit/scheme and 3-digit/scheme bundles prepared under 22.4. Bundling is also subject to 19.0, Bundles. Preparation sequence, bundle size, and labeling:

* * * * *

[Renumber items b through f as new items c through g. Insert new item b as follows:]

b. 5-digit scheme (optional); six-piece minimum; red Label 5 or OEL.

* * * * *

[Renumber new items d through g as items e through h. Insert new item d as follows:]

d. 3-digit scheme (optional); six-piece minimum; green Label 3 or OEL.

* * * * *

22.6 Sack Preparation—Flat-Size Pieces and Irregular Parcels

For mailing jobs that also contain an automation rate mailing, see 22.1.2 and 705.9.0 or 705.10.0. For other mailing jobs, preparation sequence, sack size, and labeling:

[Renumber items a through g as new items b through h. Insert new item a as follows:]

a. 5-digit scheme; optional; for pieces meeting the standards in 301.3.0; 24-piece minimum, fewer pieces not permitted.

1. Line 1: L007, Column B.

2. Line 2: “PER” or NEWS” as applicable, followed by “FLTS 5D SCH NON BC.”

* * * * *

22.7 Optional Tray Preparation—Flat-Size Nonautomation Pieces

[Revise the introductory text in 22.7 as follows:]

As an option, mailers may place in flat-size trays the automation-compatible flat-size pieces prepared under 301.3.0 that would normally be placed in ADC, origin mixed ADC, or mixed ADC sacks. Pieces must not be secured in bundles. Mailers must group together pieces for each 5-digit scheme, 5-digit, 3-digit scheme, 3-digit, and ADC destination as follows:

* * * * *

25.0 Preparing Flat-Size Automation Periodicals

25.1 Basic Standards

25.1.1 General

[Revise 25.1.1 as follows:]

Each piece must meet the weight and size standards in 301.3.0 or in 25.3. Bundle, sack, and tray preparation are subject to 18.0 through 21.0. Trays and sacks must bear the appropriate barcoded container labels under 708.6.0.

* * * * *

25.1.5 Bundle Preparation

All pieces must be prepared in bundles and meet the following requirements:

[Revise items a, c, and d as follows:]

a. Pieces that meet the standards in 301.3.0 must be prepared in separate bundles from pieces that meet the standards in 25.3.

* * * * *

c. Each bundle of pieces prepared under 301.3.0 and each bundle of pieces prepared under 25.3 must separately meet the bundle minimums in 25.4.

d. Presort destination bundles may contain fewer than six pieces when the mailpieces are too thick or too heavy to create a six-piece bundle. Rate eligibility is not affected if the total number of pieces bundled for a presort destination meets or exceeds the minimum for rate eligibility under 14.0.

25.1.6 Scheme Bundle Preparation

[Revise 25.1.6 as follows:]

Pieces meeting the criteria in 301.3.0 must be prepared in 5-digit scheme bundles for those 5-digit ZIP Codes identified in L007 and in 3-digit scheme bundles for those 3-digit ZIP Codes identified in L008. These bundles must meet the additional standards in 18.4i or 18.4r. Pieces meeting the alternate criteria in 25.3 must not be prepared in scheme bundles.

25.1.7 Sack Preparation

[Revise 25.1.7 as follows:]

Mailers may combine bundles of pieces prepared under 301.3.0 and bundles of pieces prepared under 25.3 in the same sack.

25.1.8 Exception—Automation and Nonautomation Pieces on Pallets

[Revise the first sentence of 25.1.8 as follows:]

When the physical dimensions of the mailpieces in a Periodicals mailing meet the definition of both a letter-size piece and an automation flat-size piece, the entire job may be prepared, merged, and palletized under 705.9.0 through 705.13.0. The nonautomation portion is paid at the nonautomation rates. Mailing jobs prepared entirely in sacks and claiming this exception must be cobundled under 705.11.0. As an alternative to 705.9.0 through 705.13.0, if a portion of the job is prepared as palletized automation flats, the nonautomation portion may be prepared as palletized flats and paid at nonautomation and carrier route rates. The nonautomation rate pieces that cannot be placed on ADC or finer pallets may be prepared as flats in sacks and paid at the nonautomation rates.

* * * * *

[Renumber 25.2 through 25.4 as new 25.4 through 25.6. Insert new 25.2 and 25.3 as follows:]

25.2 Physical Standards

Each flat-size piece must be rectangular and must meet the standards in 301.3.0 or the alternative criteria in 25.3.

25.3 Alternative Criteria

25.3.1 General

As an exception to the standards in 301.3.3, mailers may prepare automation flat-size pieces according to 25.3.2 and 25.3.3 below. Pieces prepared under 25.3 and pieces prepared under 301.3.0 may not be combined in the same bundle. Determine length and height according to 301.3.2.

25.3.2 Weight and Size

The maximum weight for each piece is 6 pounds. The following minimum and maximum dimensions apply:

a. Minimum height is 5 inches. Maximum height is 12 inches.

b. Minimum length is 6 inches. Maximum length is 15 inches.

c. Minimum thickness is 0.009 inch. Maximum thickness is 1.25 inches.

25.3.3 Address Placement on Folded Pieces

Mailers must design folded pieces so that the address is in view when the final folded edge is to the right and any intermediate bound or folded edge is at the bottom of the piece. Unbound flat-size pieces must be at least double-folded.

25.4 Bundling and Labeling

Preparation sequence, bundle size, and labeling:

[Revise items a and c in renumbered 25.4 to require scheme bundling as follows:]

a. 5-digit scheme (required for pieces meeting the standards in 301.3.0); six-piece minimum (fewer pieces permitted under 25.1.9); OEL required.

* * * * *

c. 3-digit scheme (required for pieces meeting the standards in 301.3); six-piece minimum (fewer pieces permitted under 25.1.9); OEL required.

* * * * *

25.5 Sacking and Labeling

For mailing jobs that also contain a Presorted rate mailing, see 25.1.10 and 705.9.0. Other mailing jobs are prepared, sacked, and labeled as follows:

[Revise item a in renumbered 25.5 as follows:]

a. 5-digit scheme (for pieces meeting the standards in 301.3.0 only), required at 24 pieces, fewer pieces not permitted; may contain 5-digit scheme bundles only; labeling:

* * * * *

25.6 Optional Tray Preparation—Flat-Size Barcoded Pieces

[Revise the introductory text in renumbered 25.6 as follows:]

As an option, mailers may place in trays the automation-compatible flat-size pieces prepared under 301.3.0 that would normally be placed in ADC, origin mixed ADC, or mixed ADC sacks. Pieces must not be secured in bundles. Mailers must group together pieces for each 5-digit scheme, 5-digit, 3-digit scheme, 3-digit, and ADC destination as follows:

* * * * *

26.0 Combining Multiple Editions or Publications

[Reorganize and revise 26.0 to add the definition and standards for copalletized mailings. The experimental copalletization drop-ship classifications in 709.3.0 and 709.4.0 expire, and all mailers may copalletize under 26.0 as follows:]

26.1 Description

Mailers may prepare Periodicals publications as a combined mailing by merging copies or bundles of copies to achieve the finest presort level possible or to reduce the per piece or the Outside-County container rate charge. Mailers may use the following methods:

a. Mailers may merge and sort together (“comail”) individually addressed copies of different editions of a Periodicals publication (one title) or individually addressed copies of different Periodicals publications (more than one title) to obtain a finer presort level.

b. Mailers may place two or more copies of different Periodicals publications (two or more titles), and/or multiple editions of the same publication in the same mailing wrapper or firm bundle and present it as one addressed piece to a single recipient to reduce the per piece charge.

c. Mailers may copalletize separately presorted bundles of different Periodicals titles and editions to achieve minimum pallet weights. Mailers do not have to achieve the finest pallet presort level possible.

26.2 Authorization

26.2.1 Basic Standards

Each publication in a combined mailing must be authorized (or pending authorization) to mail at Periodicals rates. Each mailer must be authorized to comail or copalletize mailings under 26.1a and 26.1c by Business Mailer Support (see 608.8.1 for address). Requests for authorization must show:

a. The mailer's name and address.

b. The mailing office.

c. Procedures and quality control measures for the combined mailing.

d. The expected date of the first mailing.

e. A sample of the standardized documentation.

26.2.2 Denial

If the application is denied, the mailer or consolidator may file at a later date, or submit additional information needed to support the request.

26.2.3 Termination

An authorization may not exceed 2 years. Business Mailer Support may take action to terminate an authorization at any time, by written notice, if the mailer does not meet the standards.

26.3 Minimum Volume

The following minimum volume standards apply:

a. For combined mailings prepared under 26.1a, more than one Periodicals publication, or edition of a publication, are combined to meet the required minimum volume per bundle, sack, or tray for the rate claimed.

b. For combined mailings prepared under 26.1b, the minimum volume requirements in 22.0, 23.0, 201.3.0, or 25.0 apply for the rate claimed.

c. For copalletized mailings prepared under 26.1c, the minimum volume requirements for pallets in 705.8.5.3 apply for the rate claimed.

26.4 Labeling

Mailers must label all containers in a combined mailing as either “NEWS” (see 21.1.3) or “PER” as follows:

a. If at least 51% of the total number of copies in the combined mailing can qualify for “NEWS” treatment then all containers in the mailing are labeled “NEWS,” unless the mailer chooses to use “PER.”

b. If less than 51% of the total number of copies in a combined mailing can qualify for “NEWS” treatment then all containers in the mailing are labeled “PER.”

26.5 Documentation

Each mailing must be accompanied by documentation meeting the standards in 17.0, as well as any additional mailing information requested by the USPS to support the postage claimed (such as advertising percentage and weight per copy). The following additional standards apply:

a. Presort documentation required under 708.1.0 must show the total number of addressed pieces and total number of copies for each publication and each edition in the combined mailing claimed at the carrier route, 5-digit, 3-digit, and basic rates. The mailer also must provide a list, by 3-digit ZIP Code prefix, of the number of addressed pieces for each publication and each edition claimed at any destination entry discount.

b. Copalletized mailing documentation must consolidate and identify each title and version (or edition) in the mailing. Mailers may use codes in the summary heading to represent each title and version (or edition) presorted together on pallets. The documentation must include presort and pallet reports showing by title and version (or edition) how the bundles are presorted and where they will be entered.

26.6 Postage Statements

Mailers must prepare postage statements for a combined mailing as follows:

a. Copy weight and advertising percentage determine whether separate postage statements are required for editions of the same publication:

1. If the copy weight and advertising percentage for all editions of a publication are the same, mailers may report all the editions on the same postage statement or each edition on a separate postage statement.

2. If the copy weight or the advertising percentage is different for each edition of a publication, mailers must report each edition on a separate postage statement.

b. For a combined mailing prepared under 26.1a, mailers must prepare a separate postage statement that claims all applicable per piece and per pound charges for each publication or edition except as provided in 26.2.5a. The mailer must annotate on, or attach to, each postage statement, the title and issue date of each publication or edition and indicate that the pieces were prepared as part of a combined mailing under 26.1a.

c. For mailings under 26.1b, mailers must prepare a separate postage statement claiming the applicable per pound charges for each publication or edition in the combined mailing except as provided in 26.2.5a. The mailer must annotate on, or attach to, each postage statement, the title and issue date of each publication or edition and indicate that the copies were prepared as part of a combined mailing under 26.1b. The per piece charges must be claimed as follows:

1. If all copies in the combined mailing are eligible for the Classroom or Nonprofit discount, or if all copies are not eligible for the Classroom or Nonprofit discount, mailers may claim the per piece charges only on the postage statement for the publication that contains the highest amount of advertising.

2. If a portion of the copies in the combined mailing are eligible for the Classroom or Nonprofit discount and a portion are not eligible, mailers may claim the per piece charges only on the postage statement for the publication that contains the highest amount of advertising and is not eligible for the Classroom or Nonprofit discount. The Classroom or Nonprofit per piece discount must not be claimed.

d. For copalletized mailings under 26.1c, mailers must prepare a separate postage statement for each publication in the mailing. Mailings consisting of different editions or versions of the same publication must be accompanied by one consolidated postage statement and a register of mailings for each publication.

26.7 Postage Payment

Each mailing must meet the postage payment standards in 16.0. For copalletized mailings under 26.1c, mailers must pay postage at the post office serving the facility where consolidation takes place, except that postage for publications authorized under the Centralized Postage Payment (CPP) system may be paid to the Pricing and Classification Service Center (see 608.8.4.1 for address).

26.8 Deposit of Mail

Each publication in a combined mailing must be authorized for original entry or additional entry at the post office where the mailing is entered. For copalletized mailings under 26.1c, mailers must enter each mailing at the post office serving the facility where consolidation takes place.

* * * * *

28.0 Destination Entry Rate Eligibility

28.1 Basic Standards

28.1.1 Rate Application

[Revise 28.1.1 to eliminate the pallet discounts and add the new container rate as follows:]

Outside-County addressed pieces may qualify for destination area distribution center (DADC) or destination sectional center facility (DSCF) rates under 28.2 or 28.3. Carrier route rate addressed pieces may qualify for destination delivery unit (DDU) rates under 28.4. Outside-County pieces are subject to the Outside-County container rate in 1.1.3 or 1.2.3. For all destination entry rate pieces:

a. Only one destination entry discount may be claimed for each addressed piece.

b. An individual bundle, tray, sack, or pallet may contain pieces claimed at different destination entry rates.

c. In-County carrier route rate addressed pieces may qualify for the DDU discount under 28.4.

d. The advertising and nonadvertising portions may be eligible for DADC, DSCF, or DDU pound rates based on the entry facility and the address on the piece.

* * * * *

28.2 Destination Area Distribution Center

* * * * *

28.2.3 Rates

[Revise 28.2.3 to reflect the new nonadvertising rate structure as follows:]

DADC rates include a per piece discount off the addressed piece rate, a nonadvertising pound rate, and, if applicable, an advertising pound rate.

28.3 Destination Sectional Center Facility

* * * * *

28.3.3 Rates

[Revise 28.3.3 to reflect the new nonadvertising rate structure as follows:]

DSCF rates include a per piece discount off the addressed piece rate, a nonadvertising pound rate, and, if applicable, an advertising pound rate.

28.4 Destination Delivery Unit

* * * * *

28.4.3 Rates

[Revise 28.4.3 to reflect the new nonadvertising rate structure as follows:]

DDU rates for Outside-County include a per piece discount off the addressed piece rate, a nonadvertising pound rate, and, if applicable, an advertising pound rate. DDU rates for In-County consist of a per piece discount off the addressed piece rate and a pound charge.

* * * * *

708 Technical Specifications

1.0 Standardized Documentation for First-Class Mail, Periodicals, Standard Mail, and Flat-Size Bound Printed Matter

* * * * *

1.2 Format and Content

For First-Class Mail, Periodicals, Standard Mail, and flat-size Bound Printed Matter, standardized documentation includes:

* * * * *

c. For mail in trays or sacks, the body of the listing reporting these required elements:

[Revise item c1 as follows:]

1. Tray/sack sortation level. Mailers must note with an asterisk (“*”) all trays containing overflow mail moved into that tray under 235.6.6 and 245.7.5.

* * * * *

[Revise item c3 as follows:]

3. The number of pieces for each 5-digit ZIP Code in 5-digit/scheme bundles or trays; for each 3-digit ZIP Code in 3-digit/scheme bundles or trays; for each 3-digit/scheme in (A)ADC bundles or trays; for each (A)ADC in mixed (A)ADC bundles or trays (or, for Periodicals, origin mixed ADC trays). For automation-rate mailings prepared under the no overflow option, the number of pieces in the next higher level tray in lieu of overflow trays. For ECR letters prepared under 245.6.0, the number of pieces in carrier routes within full trays. For automation and nonautomation mail, and ECR Standard Mail, the number of pieces in each bundle level and presort destination.

* * * * *

[Add new item c10 as follows:]

10. For Periodicals mailings that contain both In-County and Outside-County pieces, include a separate “Container Charge” column. The body of the listing must indicate which containers are subject to the container charge and a running total.

[Revise item e as follows:]

e. At the end of the documentation, a summary report of the total number of pieces mailed at each postage rate for each mailing reported on the listing by postage payment method (and by entry point for drop shipment mailings) and the total number of pieces in each mailing. This information must correspond to the information reported on the postage statement(s) for the pieces reported. For Periodicals mailings, documentation also must provide:

1. A summary of the total number of each type of container in the mailing and the total container charge paid. Report only trays, sacks, and pallets subject to the Outside-County container rate under 1.1.3 and 1.2.3.

2. For combined mailings, a summary by individual mailer of the number of each type of container in the mailing and the container rate paid. Report only trays, sacks, and pallets subject to the Outside-County container rate under 1.1.3 and 1.2.3.

3. A summary of the total number of copies for each zone, including In-County, delivery unit, SCF, and ADC rates. A separate summary report is not required if a PAVE-certified postage statement facsimile generated by the presort software used to prepare the standardized documentation is presented for each mailing.

4. Additional data if necessary to calculate the amount of postage for the mailing (or additional postage due, or postage to be refunded) if nonidentical-weight pieces that do not bear the correct postage at the rate for which they qualify are included in the mailing, or if different rates of postage are affixed to pieces in the mailing.

1.3 Rate Level Column Headings

[Delete the “Carrier Route” entry in item a. Revise the “3/5” and “Basic” entries as follows:]

Rate | Abbreviation
* * * * *
5-Digit [Standard Mail flats] | 5B
3-Digit [Standard Mail flats] | 3B
ADC [Standard Mail flats] | AB
Mixed ADC [Standard Mail flats] | MB

* * * * *

[Delete the “3/5” entry in item b. Revise the “5-Digit,” “3-Digit,” and “Basic” entries in item b as follows:]

Rate | Abbreviation
* * * * *
5-Digit [Standard Mail letters; Periodicals letters, flats, and parcels] | 5D
3-Digit [Standard Mail letters; Periodicals letters, flats, and parcels] | 3D
ADC [letters/cards and flats] | AD
Mixed ADC [letters/cards and flats] | MD

* * * * *

[Delete the “Basic Automation” entry in item c.]

1.4 Sortation Level

[Revise the “5-Digit Scheme” entry as follows:]

Sortation level | Abbreviation
* * * * *
5-Digit Scheme [barcoded and machinable letters] | 5DGS

* * * * *

[Revise the heading of 4.0 as follows:]

4.0 Standards for POSTNET and 4-State Customer Barcodes

* * * * *

4.4 Reflectance

4.4.1 Background Reflectance

A background reflectance of at least 50% in the red portion and 45% in the green portion of the optical spectrum must be produced in the following locations when measured with a USPS or USPS-licensed envelope reflectance meter:

* * * * *

[Revise item b as follows:]

b. The area surrounding the barcode (within ⅛ inch of the leftmost and rightmost bars and 1/25 inch above and below the barcode) of a card-size, letter-size, or flat-size piece barcoded in the address block and of a flat-size, First-Class Mail parcel, or Not-Flat Machinable piece barcoded elsewhere.

* * * * *

4.4.4 Dark Fibers and Background Patterns

Dark fibers or background patterns (for example, checks) that produce a print contrast ratio of more than 15% when measured in the red and green portions of the optical spectrum are prohibited in these locations:

* * * * *

[Revise item b as follows:]

b. The area of the address block or the area of the mailpiece where the barcode appears on a flat-size piece in an automation rate mailing or on a First-Class Mail parcel or a Not Flat-Machinable piece.

4.5 Skew and Baseline Shift

* * * * *

[Revise heading and text of 4.5.2 as follows:]

4.5.2 Flat-Size Pieces, First-Class Mail Parcels, and Not Flat-Machinable Pieces

For a barcode on a flat-size piece, a First-Class Mail parcel, or a Not Flat-Machinable piece weighing less than 6 ounces, the maximum rotational skew (slant or tilt of the individual barcode bars) is ±10 degrees from a perpendicular to the baseline of the barcode; there is no positional skew requirement. The individual bars of a barcode must not shift (be vertically offset) more than 0.015 inch from the average baseline of the barcode. For information on barcode placement for flat-size pieces, see 302.4.0. For barcode placement on First-Class Mail parcels and on Standard Mail Not Flat-Machinable pieces weighing less than 6 ounces, see 402.4.0.

[Revise the heading of 5.0 as follows:]

5.0 Standards for Postal Routing Barcodes

5.1 Basic Requirements

[Revise 5.1 as follows:]

Mailers may use a postal routing barcode on parcels and Not Flat-Machinable pieces that meet the eligibility requirements in 433.1.1 for First-Class Mail, 443.4.4 and 443.5.5 for Standard Mail, 453.3.1 for Parcel Post, 463.4.1 for Bound Printed Matter, 473.3.4 for Media Mail, or 483.3.4 for Library Mail. Each parcel must bear a properly prepared UCC/EAN Code 128 barcode symbology as described in 5.3 that accurately represents the correct ZIP Code or ZIP+4 code of the delivery address. For information on barcode placement for parcels, see 402.4.0.

* * * * *

6.0 Barcoding Standards for Container Labels

6.1 Basic Standards—Tray and Sack Labels

6.1.1 Use

* * * * *

Exhibit 6.1.4 3-Digit Content Identifier Numbers

[Revise the content identifier numbers as follows for First-Class Mail letters and parcels, Standard Mail letters, and Periodicals and Bound Printed Matter flats. Add content identifier numbers for Not Flat-Machinable pieces.]

Class and mailing | CIN | Human-readable content line
First-Class Mail
FCM Letters—Automation
[Delete codes 263, 264, and 265 for carrier route trays.] * * *
FCM Letters—Nonautomation Machinable
[Delete code 252 for 5-digit trays.] * * *
* * * * * * *
FCM Parcels—Presorted
[Add 5-digit scheme sacks as follows:]
5-digit scheme sacks | 289 | FCM PARCELS 5D SCH.
* * * * * * *
Periodicals (PER)
* * * * * * *
PER Flats—Nonautomation
[Add 5-digit scheme sacks as follows:]
5-digit scheme sacks | 378 | PER FLT 5D SCH NON BC.
* * * * * * *
PER Flats—Cosacked Automation and Nonautomation
[Add 5-digit scheme sacks as follows:]
5-digit scheme sacks | 321 | PER FLT 5D SCH BC/NBC.
* * * * * * *
NEWS Flats—Nonautomation
[Add 5-digit scheme sacks as follows:]
5-digit scheme sacks | 478 | NEWS FLT 5D SCH NON BC.
* * * * * * *
NEWS Flats—Cosacked Automation and Nonautomation
[Add 5-digit scheme sacks as follows:]
5-digit scheme sacks | 421 | NEWS FLT 5D SCH BC/NBC.
* * * * * * *
Standard Mail
[Delete codes 563 through 565 for automation carrier route trays.]
* * * * * * *
STD Letters—Nonautomation Machinable
[Delete code 552 for 5-digit trays.]
* * * * * * *
STD Flats—Cosacked Automation and Nonautomation
[Add 5-digit scheme sacks as follows:]
5-digit scheme sacks | 521 | STD FLT 5D SCH BC/NBC.
* * * * * * *
STD Flats—Nonautomation
[Add 5-digit scheme sacks as follows:]
5-digit scheme sacks | 578 | STD FLTS 5D SCH NON BC.
* * * * * * *
[Add Not Flat-Machinable pieces as follows:]
STD Not Flat-Machinable Pieces—Nonautomation
5-digit sacks | 500 | STD NFM 5D.
5-digit scheme sacks | 500 | STD NFM 5D SCH.
3-digit sacks | 501 | STD NFM 3D.
ADC sacks | 502 | STD NFM ADC
ASF sacks | 503 | STD NFM ASF
BMC sacks | 505 | STD NFM BMC.
Mixed ADC/Mixed BMC sacks | 506 | STD NFM WKG.
* * * * * * *
Package Services
* * * * * * *
Presorted BPM—Flats
[Add 5-digit scheme sacks as follows:]
5-digit scheme sacks | 649 | PSV FLT 5D SCH NON BC.
* * * * * * *
BPM Flats—Cosacked Barcoded and Presorted
[Add 5-digit scheme sacks as follows:]
5-digit scheme sacks | 648 | PSV FLT 5D SCH BC/NBC.
* * * * * * *

7.0 Optional Endorsement Lines (OELs)

7.1 OEL Use

7.1.1 Basic Standards

* * * * *

Exhibit 7.1.1 OEL Formats

[Delete the example for “Carrier Route—Automation (First-Class Mail and Standard Mail).”]

* * * * *

7.2 OEL Format

* * * * *

7.2.5 ZIP Code Information

[Revise 7.2.5 to change the reference from 6.0 to 8.2 as follows:]

Except for carrier route bundles, the OEL must include the ZIP Code information (5-digit ZIP Code or 3-digit ZIP Code prefix) determined by the sortation level and, when applicable, by the labeling list designated in Exhibit 7.2.5 for ADC, mixed ADC, AADC, or mixed AADC sortation levels. Carrier route OELs must show carrier route information as specified in 8.2.

* * * * *

8.0 Carrier Route Information Lines

8.1 Basic Information

[Revise 8.1 as follows:]

Mailers must prepare bundles of all mailpieces mailed at carrier route rates with optional endorsement lines under 7.0, carrier route information lines under 8.2, or facing slips (see 245.2.11 for Standard Mail letters, 345.2.14 for Standard Mail flats, 365.2.13 for Bound Printed Matter flats, 445.2.12 for Standard Mail parcels, 465.2.12 for Bound Printed Matter parcels, and 707.19.16 for Periodicals). Carrier route information lines may be on all pieces in a mailing, regardless of presort level. Mailers must use optional endorsement lines or carrier route information lines on all pieces in mailings of Standard Mail letters prepared under 245.6.7, except for pieces in full carrier routes trays.

* * * * *

709 Experimental Classifications and Rates

* * * * *

[Delete 3.0, Outside-County Periodicals Copalletization Drop-Ship Classification; 4.0, Outside-County Periodicals Copalletization Drop-Ship Discounts for High-Editorial, Heavy-Weight, Small-Circulation Publications; and 5.0, Priority Mail Flat-Rate Box. Renumber remaining sections 6.0 and 7.0 as new 3.0 and 4.0. The experimental copalletization discounts expire and are replaced by the new rate structure for Periodicals mail in 707. The Priority Mail Flat-Rate Box becomes a permanent offering in 123.]

* * * * *

We will publish an appropriate amendment to 39 CFR Part 111 to reflect these changes if our proposal is adopted.

Stanley F. Mires,
Chief Counsel, Legislative.

[FR Doc. E7-245 Filed 1-16-07; 8:45 am]

BILLING CODE 7710-12-P